ENVIRONMENTAL PROTECTION AGENCY

40 CFR Part 63

[EPA-HQ-OAR-2019-0314, EPA-HQ-OAR-2019-0312, EPA-HQ-OAR-2019-0313, EPA-HQ-OAR-2017-0670, EPA-HQ-OAR-2017-0668, EPA-HQ-OAR-2017-0669; FRL-10006-70-OAR]

RIN 2060-AT49 and RIN 2060-AT72

NESHAP: Surface Coating of Automobiles and Light-Duty Trucks; Miscellaneous Metal Parts and Products; Plastic Parts and Products; Large Appliances; Printing, Coating, and Dyeing of Fabrics and Other Textiles; and Metal Furniture Residual Risk and Technology Reviews

AGENCY: Environmental Protection Agency (EPA).

ACTION: Final rule.

SUMMARY: The U.S. Environmental Protection Agency (EPA) is taking final action on the residual risk and technology reviews (RTRs) conducted for the Surface Coating of Automobiles and Light-Duty Trucks (ALDT); Surface Coating of Miscellaneous Metal Parts and Products (MMPP); and the Surface Coating of Plastic Parts and Products (PPP) source categories regulated under national emission standards for hazardous air pollutants (NESHAP). These final amendments also address emissions during periods of startup, shutdown, and malfunction (SSM); electronic reporting of performance test results and compliance reports; the addition of EPA Method 18 and updates to several measurement methods; and the addition of requirements for periodic performance testing. Several miscellaneous technical amendments were also made to improve the clarity of the rule requirements. We are making no revisions to the numerical emission limits based on these risk analyses or technology reviews. This notice also finalizes technical corrections to the NESHAP for Surface Coating of Large Appliances; NESHAP for Printing, Coating, and Dyeing of Fabrics and Other Textiles; and NESHAP for Surface Coating of Metal Furniture.

DATES: This final rule is effective on July 8, 2020. The incorporation by reference (IBR) of certain publications listed in the rule is approved by the Director of the Federal Register as of July 8, 2020. The incorporation by reference of certain other publications listed in the rule was approved by the Director of the Federal Register as of June 25, 2004.

ADDRESSES: The EPA has established a docket for this action under Docket ID No. EPA-HQ-OAR-2019-0314 for 40 Code of Federal Regulations (CFR) part 63, subpart IIII (ALDT Docket); Docket ID No. EPA-HQ-OAR-2019-0312 for 40 CFR part 63, subpart MMMM, Surface Coating of MMPP Docket; and Docket ID No. EPA-HQ-OAR-2019-0313 for 40 CFR part 63, subpart PPPP, Surface Coating of PPP Docket. All documents in the dockets are listed on the https://www.regulations.gov/ website. Although listed, some information is not publicly available, e.g., Confidential Business Information or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the EPA Docket Center is (202) 566-1742.

FOR FURTHER INFORMATION CONTACT: For questions about this final action for the Surface Coating of ALDT NESHAP, the Surface Coating of MMPP NESHAP, the Surface Coating of PPP NESHAP, and the technical corrections to the NESHAP for Surface Coating of Large Appliances and the NESHAP for Surface Coating of Metal Furniture contact Ms. J. Kaye Whitfield, Minerals and Manufacturing Group, Sector Policies and Programs Division (D243-04), Office of Air Quality Planning and Standards, U.S. Environmental Protection Agency, Research Triangle Park, North Carolina 27711; telephone number: (919) 541-2509; fax number: (919) 541-4991; and email address: whitfield.kaye@epa.gov. For questions about the technical corrections to the Printing, Coating, and Dyeing of Fabrics and Other Textiles, contact Ms. Paula Hirtz, Minerals and Manufacturing Group, Sector Policies and Programs Division (D243-04), Office of Air Quality Planning and Standards, U.S. Environmental Protection Agency, Research Triangle Park, North Carolina 27711; telephone number: (919) 541-2618; fax number: (919) 541-4991; and email address: hirtz.paula@epa.gov. For specific information regarding the risk modeling methodology, contact Mr. Chris Sarsony, Health and Environmental Impacts Division (C539-02), Office of Air Quality Planning and Standards, U.S. Environmental Protection Agency, Research Triangle Park, North Carolina 27711; telephone number: (919) 541-4843; fax number: (919) 541-0840; and email address: sarsony.chris@epa.gov. For information about the applicability of the NESHAP to a particular entity, contact Mr. John Cox, Office of Enforcement and Compliance Assurance, U.S. Environmental Protection Agency, WJC South Building (Mail Code 2227A), 1200 Pennsylvania Ave. NW, Washington, DC 20460; telephone number: (202) 564-1395; and email address: cox.john@epa.gov.

SUPPLEMENTARY INFORMATION:

Preamble acronyms and abbreviations. We use multiple acronyms and terms in this preamble. While this list may not be exhaustive, to ease the reading of this preamble and for reference purposes, the EPA defines the following terms and acronyms here:

ALDT Automobile and Light-Duty Trucks

APA Administrative Procedures Act

CAA Clean Air Act

CDX Central Data Exchange

CEDRI Compliance and Emissions Data Reporting Interface

CFR Code of Federal Regulations

CRA Congressional Review Act

EPA Environmental Protection Agency

ERT Electronic Reporting Tool

HAP hazardous air pollutant(s)

HF hydrogen fluoride

HI hazard index

HQ hazard quotient

HQREL hazard quotient reference exposure limit

IBR incorporation by reference

ICR Information Collection Request

km kilometer

MACT maximum achievable control technology

mg/m³ milligrams per cubic meter

MIBK methyl isobutyl ketone

MIR maximum individual risk

MMPP Miscellaneous Metal Parts and Products

NAAQS National Ambient Air Quality Standard

NEI National Emission Inventory

NESHAP national emission standards for hazardous air pollutants

NTTAA National Technology Transfer and Advancement Act

OMB Office of Management and Budget

OSHA Occupational Safety and Health Administration

PB-HAP persistent and bioaccumulative HAP

PPP Plastic Parts and Products

PRA Paperwork Reduction Act

RFA Regulatory Flexibility Act

RTR residual risk and technology review

SSM startup, shutdown, and malfunction

TOSHI target organ-specific hazard index

tpy tons per year

UMRA Unfunded Mandates Reform Act

VCS voluntary consensus standards

VOC volatile organic compound

Background information. On November 1, 2019, the EPA proposed revisions to the Surface Coating of ALDT NESHAP, the Surface Coating of MMPP NESHAP, and the Surface Coating of PPP NESHAP based on our RTR (84 FR 58936). In this action, we are finalizing decisions and revisions for these rules. We summarize some of the more significant comments we timely received regarding the proposed rules and provide our responses in this preamble. A summary of all other public comments on the proposal and the EPA's responses to those comments is available in the “Summary of Public Comments and Responses for the Risk and Technology Reviews for the NESHAP for Surface Coating of ALDT; Surface Coating of MMPP; and Surface Coating of PPP,” in Docket ID No. EPA-HQ-OAR-2019-0314 for 40 CFR part 63, subpart IIII, Surface Coating of ALDT, Docket ID No. EPA-HQ-OAR-2019-0312 for 40 CFR part 63, subpart MMMM, Surface Coating of MMPP, and Docket ID No. EPA-HQ-OAR-2019-0313 for 40 CFR part 63, subpart PPPP, Surface Coating of PPP. A “track changes” version of the regulatory language that incorporates the changes in this action is available in the docket for each subpart.

Organization of this document. The information in this preamble is organized as follows:

I. General Information

A. Does this action apply to me?

B. Where can I get a copy of this document and other related information?

C. Judicial Review and Administrative Reconsideration

II. Background

A. What is the statutory authority for this action?

B. What are the source categories and how do the NESHAP regulate their HAP emissions?

C. What changes did we propose for the source categories in our November 1, 2019, RTR proposal?

III. What is included in these final rules?

A. What are the final rule amendments based on the risk reviews for these source categories?

B. What are the final rule amendments based on the technology reviews for these source categories?

C. What are the final rule amendments addressing emissions during periods of SSM?

D. What other changes have been made to these NESHAP?

E. What are the effective and compliance dates of the standards?

F. What are the requirements for submission of performance test data to the EPA?

IV. What is the rationale for our final decisions and amendments for these source categories?

A. Residual Risk Reviews

B. Technology Reviews

C. Electronic Reporting Provisions

D. SSM Provisions

E. Ongoing Compliance Demonstrations

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR part 51

K. Executive Order 12898: Federal Actions To Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
NESHAP source category | NAICS code ¹ | Regulated entities
Surface Coating of ALDT | 336111, 336112, 336211 | ALDT assembly plants, producers of automobile and light-duty truck bodies.
Surface Coating of MMPP | 335312, 336111, 336211, 336312, 33632, 33633, 33634, 33637, 336399 | Automobile parts (engine parts, vehicle parts and accessories, brakes, axles, etc.).
| 331316, 331524, 332321, 332323 | Extruded aluminum, architectural components, rod, and tubes.
| 33312, 333611, 333618 | Heavy equipment (tractors, earth moving machinery).
| 332312, 332722, 332813, 332991, 332999, 334119, 336413, 339999 | Job shops (making any of the products from the MMPP segments).
| 33612, 336211 | Large trucks and buses.
| 331319, 331422, 335929 | Magnet wire.
| 332311 | Prefabricated metal buildings, carports, docks, dwellings, greenhouses, panels for buildings.
| 33242, 81131, 322214, 326199, 331513, 332439 | Metal drums, kegs, pails, shipping containers.
| 331111, 33121, 331221, 331511 | Metal pipe and foundry (plate, tube, rods, nails, spikes, etc.).
| 33651, 336611, 482111 | Rail transportation (brakes, engines, freight cars, locomotives).
| 3369, 331316, 336991, 336211, 336112, 336213, 336214, 336399 | Recreational vehicles (motorcycles, motor homes, semitrailers, truck trailers).
| 326291, 326299 | Rubber to metal products (engine mounts, rubberized tank tread, harmonic balancers.
| 332311, 332312 | Structural steel (joists, railway bridge sections, highway bridge sections).
| 336212, 336999, 33635, 56121, 8111. 56211 | Miscellaneous transportation related equipment and parts.
Surface Coating of PPP | 337214 | Office furniture, except wood.
| 32614, 32615 | Plastic foam products (e.g., pool floats, wrestling mats, life jackets).
| 326199 | Plastic products not elsewhere classified (e.g., name plates, coin holders, storage boxes, license plate housings, cosmetic caps, cup holders).
| 333313 | Office machines.
| 33422 | Radio and television broadcasting and communications equipment (e.g., cellular telephones).
| 336211 | Motor vehicle body manufacturing.
| 336399 | Motor vehicle parts and accessories.
| 336212 | Truck trailer manufacturing.
| 336213 | Motor home manufacturing.
| 336214 | Travel trailer and camper manufacturing.
| 336999 | Transportation equipment not elsewhere classified (e.g., snowmobile hoods, running boards, tractor body panels, personal watercraft parts).
| 339111, 339112 | Medical equipment and supplies.
| 33992 | Sporting and athletic goods.
| 33995 | Signs and advertising specialties.
| 339999 | Manufacturing industries not elsewhere classified (e.g., bezels, consoles, panels, lenses).
Surface Coating of Large Appliances | 335221 | Household cooking equipment.
| 335222 | Household refrigerators and freezers.
| 335224 | Household laundry equipment.
| 335228 | Other major household appliances.
| 333312 | Commercial laundry, dry cleaning, and pressing equipment.
| 333415 | Air-conditioners (except motor vehicle), comfort furnaces, and industrial refrigeration units and freezers (except heat transfer coils and large commercial and industrial chillers).
| 333319 | Other commercial/service industry machinery, e.g., commercial dishwashers, ovens, and ranges, etc.
Printing, Coating, and Dyeing of Fabrics and Other Textiles | 31321 | Broadwoven fabric mills.
| 31322 | Narrow fabric mills and Schiffli machine embroidery.
| 313241 | Weft knit fabric mills.
| 313311 | Broadwoven fabric finishing mills.
| 313312 | Textile and fabric finishing (except broadwoven fabric) mills.
| 313320 | Fabric coating mills.
| 314110 | Carpet and rug mills.
| 326220 | Rubber and plastics hoses and belting and manufacturing.
| 339991 | Gasket, packing, and sealing device manufacturing.
Surface Coating of Metal Furniture | 337124 | Metal household furniture manufacturing.
| 337214 | Nonwood office furniture manufacturing.
| 337127 | Institutional furniture manufacturing.
| 337215 | Showcase, partition, shelving, and locker manufacturing.
| 337127 | Institutional furniture manufacturing.
| 332951 | Hardware manufacturing.
| 332116 | Metal stamping.
| 332612 | Wire spring manufacturing.
| 335121 | Residential electric lighting fixture manufacturing.
| 335122 | Commercial, industrial, and institutional electric lighting fixture manufacturing.
| 339111 | Laboratory furniture manufacturing.
| 339114 | Dental equipment manufacturing.
| 81142 | Reupholstery and furniture repair.
| 922140 | State correctional institutions that apply coatings to metal furniture.
¹ North American Industry Classification System.

Table 1 of this preamble is not intended to be exhaustive, but rather to provide a guide for readers regarding entities likely to be affected by the final action for the source categories listed. To determine whether your facility is affected, you should examine the applicability criteria in the appropriate NESHAP. If you have any questions regarding the applicability of any aspect of these NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/surface-coating-automobiles-and-light-duty-trucks-national-emission, https://www.epa.gov/stationary-sources-air-pollution/surface-coating-miscellaneous-metal-parts-and-products-national, and https://www.epa.gov/stationary-sources-air-pollution/surface-coating-plastic-parts-and-products-national-emission. Following publication in the Federal Register, the EPA will post the Federal Register version and key technical documents at these same websites.

Additional information is available on the RTR website at https://www.epa.gov/stationary-sources-air-pollution/risk-and-technology-review-national-emissions-standards-hazardous. This information includes an overview of the RTR program and links to project websites for the RTR source categories.

C. Judicial Review and Administrative Reconsideration

Under Clean Air Act (CAA) section 307(b)(1), judicial review of this final action is available only by filing a petition for review in the United States Court of Appeals for the District of Columbia Circuit (the Court) by September 8, 2020. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of hazardous air pollutants (HAP) from stationary sources. In the first stage, we must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that: (1) Reduce the volume of or eliminate HAP emissions through process changes, substitution of materials, or other modifications; (2) enclose systems or processes to eliminate emissions; (3) collect, capture, or treat HAP when released from a process, stack, storage, or fugitive emissions point; (4) are design, equipment, work practice, or operational standards; or (5) any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see the proposal preamble (84 FR 58936, November 1, 2019) and the memorandum, CAA Section 112 Risk and Technology Reviews: Statutory Authority and Methodology, December 14, 2017, in the ALDT Docket, MMPP Docket, and PPP Docket.

¹ The Court has affirmed this approach of implementing CAA section 112(f)(2)(A): NRDC v. EPA, 529 F.3d 1077, 1083 (D.C. Cir. 2008) (“If EPA determines that the existing technology-based standards provide an ‘ample margin of safety,' then the Agency is free to readopt those standards during the residual risk rulemaking.”).

B. What are the source categories and how do the NESHAP regulate their HAP emissions?

1. What is the surface coating of ALDT source category and how does the current NESHAP regulate its HAP emissions?

The NESHAP for the ALDT source category was promulgated on April 26, 2004 (69 FR 22602), and is codified at 40 CFR part 63, subpart IIII. Technical corrections and clarifying amendments were promulgated on December 22, 2006 (71 FR 76922), and April 24, 2007 (72 FR 20227). The ALDT NESHAP applies to any affected source that is a major source, is located at a major source, or is part of a major source of HAP emissions. The affected source is any coating operation that applies topcoats to new automobile or new light-duty truck bodies or body parts for new automobiles or new light-duty trucks and/or coatings to other new motor vehicle bodies or body parts for other new motor vehicles; parts intended for use in new automobiles, new light-duty trucks, or other new motor vehicles; or aftermarket repair or replacement parts for automobiles, light-duty trucks, or other motor vehicles. The source category covered by this MACT standard currently comprises 43 facilities.

The ALDT NESHAP (40 CFR 63.3176) defines an “automobile” as “a motor vehicle designed to carry up to eight passengers, excluding vans, sport utility vehicles, and motor vehicles designed primarily to transport light loads of property,” and defines “light-duty truck” as “vans, sport utility vehicles, and motor vehicles designed primarily to transport light loads of property with gross vehicle weight rating of 8,500 lbs [pounds] or less.”

The ALDT NESHAP defines a “coating” as “a material that is applied to a substrate for decorative, protective or functional purposes. Such materials include, but are not limited to, paints, sealants, caulks, inks, adhesives, primers, deadeners, and maskants. Decorative, protective, or functional materials that consist only of protective oils for metal, acids, bases, or any combination of these substances are not considered coatings for the purposes of this subpart.” (40 CFR 63.3176).

This source category is further described in the November 1, 2019, RTR proposal. See 84 FR 58941.

The primary HAP emitted from ALDT surface coating operations are organic HAP and include toluene, xylene, glycol ethers, methyl isobutyl ketone (MIBK), ethyl benzene, and methanol. The HAP emissions are from coating application and drying and curing ovens in the ALDT surface coating operations. Some emissions occur from the cleaning of spray booths and equipment. In most cases, HAP emissions from surface preparation, storage, and handling are relatively small (i.e., not quantifiable) for this source category. Although inorganic HAP are reported components of coatings, no inorganic HAP are emitted because of the use of high efficiency spray equipment and filters on coating spray application operations.

The NESHAP specifies numerical emission limits for existing sources and for new and reconstructed sources for organic HAP emissions from (1) electrodeposition primer, primer-surfacer, topcoat, final repair, glass bonding primer, and glass bonding adhesive operations plus all coatings and thinners, except for deadener materials and for adhesive and sealer materials that are not components of glass bonding systems, used in coating operations; (2) primer-surfacer, topcoat, final repair, glass bonding primer, and glass bonding adhesive operation plus all coatings and thinners, except for deadener materials and for adhesive and sealer materials that are not components of glass bonding systems, used in coating operations; (3) adhesives and sealers, other than glass bonding adhesive materials; and (4) deadener materials.

The specific organic HAP emission limits are in 40 CFR 63.3090 (for new and reconstructed sources) and 40 CFR 63.3091 (for existing sources), and the operating limits are in 40 CFR 63.3093. The emission limits and operating limits are summarized in Tables 2 and 3, respectively, of the memorandum titled Technology Review for Surface Coating Operations in the Automobiles and Light-Duty Trucks Source Category, in the ALDT Docket.

Compliance with the ALDT NESHAP emission limits can be achieved using several different options, including a compliant material option, an emission rate without add-on controls option (emissions averaging option), and an emission rate with add-on controls option. For bake ovens used to cure electrodeposition primers, an alternative is to capture the emissions and duct them to a control device having a destruction or removal efficiency of at least 95 percent. Facilities that have multiple paint lines may choose to group operations from two or more paint lines together to demonstrate compliance, or to make a separate compliance demonstration for the operations from each paint line.

All ALDT facilities must develop and implement a work practice plan to minimize organic HAP emissions from the storage, mixing, and conveying of coatings, thinners, and cleaning materials used in, and waste materials generated by, the coating operations. The plan must specify practices and procedures to ensure that a set of minimum work practices specified in the NESHAP are implemented.

Those ALDT facilities using add-on controls to comply with the NESHAP must also comply with site-specific operating limits for the emission capture and control system. These operating limits are established during the compliance test for the emission capture system and add-on control device. Alternatively, emission capture systems can meet design and air flow specifications to qualify as a permanent total enclosure with 100-percent capture efficiency.

2. What is the surface coating of MMPP source category and how does the current NESHAP regulate its HAP emissions?

The MMPP NESHAP was promulgated on January 2, 2004 (69 FR 130), and is codified at 40 CFR part 63, subpart MMMM. Technical corrections to the final rule were published on April 26, 2004 (69 FR 22602), and December 22, 2006 (71 FR 76922). The MMPP NESHAP applies to owners or operators of metal parts and products surface coating operations at facilities that are major sources of HAP. The source category covered by this MACT standard currently comprises 368 facilities.

The MMPP include, but are not limited to, metal components of the following types of products as well as the products themselves: Motor vehicle parts and accessories, bicycles and sporting goods, recreational vehicles, extruded aluminum structural components, railroad cars, heavy-duty trucks, medical equipment, lawn and garden equipment, electronic equipment, magnet wire, steel drums, industrial machinery, metal pipes, and numerous other industrial, household, and consumer products. The MMPP NESHAP does not apply to any surface coating or coating operation that meets the applicability criteria of any one of 11 other surface coating NESHAP, e.g., surface coating of metal components of wood furniture (subpart JJ of 40 CFR part 63), surface coating of metal components of large appliances (subpart NNNN of 40 CFR part 63), and surface coating of metal components of ALDT (subpart IIII of 40 CFR part 63). See 40 CFR 63. 3881(c) for a list of exclusions to the MMPP source category.

This source category is further described in the November 1, 2019, RTR proposal. See 84 FR 58942.

The primary HAP emitted from MMPP surface coating operations are organic HAP and include xylenes, toluene, glycol ethers, ethyl benzene, MIBK, methanol, ethylene glycol, and dimethyl phthalate. The majority of organic HAP emissions can be attributed to the application, drying, and curing of coatings.

Inorganic HAP emissions were considered in the development of the MMPP NESHAP, and the EPA determined that inorganic HAP emissions would be very low based on the coating application techniques in place at the time of the rule development. Given the combination of very low usage of coatings containing inorganic HAP in this source category, and the current and expected continued use of controls (dry filters and waterwash systems on spray booths and high efficiency equipment) to reduce overspray emissions, the EPA concluded that levels of inorganic HAP emissions did not warrant federal regulation because those regulations would increase regulatory burden but not be expected to result in additional emissions reduction.

The MMPP NESHAP establishes the organic HAP emissions limits for existing sources and for new and reconstructed sources for organic HAP emissions for five subcategories. The five subcategories are (1) general use coating, (2) high performance coating, (3) magnet wire coating, (4) rubber-to-metal coating, and (5) extreme performance fluoropolymer coating.

Compliance can be demonstrated with a compliant coatings option, where all coatings used have organic HAP contents that individually meet the organic HAP emissions limit, and all thinners and cleaning materials contain no organic HAP; an emission rate without add-on controls option, where the organic HAP emission rate, calculated as a rolling 12-month emission rate and determined on a monthly basis, is equal to or less than the organic HAP emissions limit; or an emission rate with add-on controls option, where the organic HAP emission rate, calculated as a rolling 12-month emissions rate and determined on a monthly basis, taking into account the emissions reduction achieved through the use of one or more emissions capture and control devices, is equal to or less than the organic HAP emissions limit. A facility using the add-on control option must also comply with work practice standards to minimize organic HAP emissions from the storage, mixing, and conveying of coatings, thinners, cleaning materials, and waste materials associated with the coating operation(s) and must also comply with operating limits for the emissions capture systems and add-on control devices.

The specific organic HAP emission limits for each coating subcategory can be found in 40 CFR 63.3890 and the operating limits in 40 CFR 63.3892. The emission limits and operating limits are summarized in Tables 4 and 5, respectively, of the memorandum titled Technology Review for Surface Coating Operations in the Miscellaneous Metal Parts and Products Category.

3. What is the surface coating of PPP source category and how does the current NESHAP regulate its HAP emissions?

The NESHAP for the PPP source category was promulgated on April 19, 2004 (69 FR 20968), and is codified at 40 CFR part 63, subpart PPPP. Technical corrections to the final rule were published on December 22, 2006 (71 FR 76922), and April 24, 2007 (72 FR 20227). The PPP NESHAP applies to owners or operators of PPP surface coating operations at facilities that are major sources of HAP. The PPP include, but are not limited to, plastic components of the following types of products as well as the products themselves: Motor vehicle parts and accessories for automobiles, trucks, recreational vehicles; sporting and recreational goods; toys; business machines; laboratory and medical equipment; and household and other consumer products. The PPP NESHAP does not apply to the surface coating or coating operations that meet the applicability criteria of any of 11 other surface coating NESHAP, e.g., surface coating of plastic components of wood furniture (subpart JJ of 40 CFR part 63), surface coating of plastic components of large appliances (subpart NNNN of 40 CFR part 63), and surface coating of plastic components of ALDT (subpart IIII of 40 CFR part 63). See 40 CFR 63. 4481(c) for a list of exclusions to the PPP source category.

This source category is further described in the November 1, 2019, RTR proposal. See 84 FR 58943.

The primary HAP emitted from PPP surface coating operations are organic HAP and, based on the 2011 National Emission Inventory (NEI), include xylene, toluene, MIBK, ethylbenzene, styrene, glycol ethers, and methanol, in order of decreasing emissions. These compounds account for about 96 percent of the nationwide HAP emissions from this source category, based on an analysis of the NEI. The source category covered by this MACT standard currently comprises 125 facilities.

No inorganic HAP are currently associated with the coatings used in this source category, based on the data in the NEI.

The PPP NESHAP specifies numerical emission limits for existing sources and for new and reconstructed sources for organic HAP emissions. The final rule contains four subcategories: (1) General use coating, (2) thermoplastic olefin coating, (3) automotive lamp coating, and (4) assembled on-road vehicle coating.

Compliance can be demonstrated with a compliant material option, where the HAP content of each coating used is less than or equal to the applicable organic HAP emissions limit and each thinner, additive, and cleaning material uses no organic HAP; an emission rate without add-on controls option, where the organic HAP emission rate, calculated as a rolling 12-month emission rate and determined on a monthly basis, is equal to or less than the organic HAP emissions limit; or an emission rate with add-on controls option, where the organic HAP emission rate, calculated as a rolling 12-month emissions rate and determined on a monthly basis, taking into account the emissions reduction achieved through the use of one or more emissions capture and control devices, is equal to or less than the organic HAP emissions limit. A facility using the add-on control option must also comply with work practice standards to minimize organic HAP emissions from the storage, mixing, and conveying of coatings, thinners, cleaning materials, and waste materials associated with the coating operation(s) and must also comply with operating limits for the emissions capture systems and add-on control devices.

The specific organic HAP emission limits for each coating subcategory can be found in 40 CFR 63.4490 and the operating limits in 40 CFR 63.4492. The organic HAP emission limits and operating limits are summarized in Tables 2 and 3, respectively, of the memorandum titled Technology Review for the Plastic Parts and Products Surface Coating Operations Source Category.

4. What are the surface coating of large appliances; printing, coating, and dyeing of fabrics and other textiles; and surface coating of metal furniture source categories and how do the current NESHAP regulate their HAP emissions?

The three source categories that are the subject of the technical corrections that are being finalized in this action are described in the Federal Register document for the final RTR rule amendments (84 FR 9590, March 15, 2019).

C. What changes did we propose for the source categories in our November 1, 2019, RTR proposal?

On November 1, 2019, the EPA published a proposed rule in the Federal Register for the Surface Coating of ALDT NESHAP, the Surface Coatings of MMPP NESHAP, and the Surface Coating of PPP NESHAP, 40 CFR part 63, subpart IIII, 40 CFR 63, subpart MMMM, and 40 CFR 63, subpart PPPP, respectively, that took into consideration the RTR analyses.

We proposed to find that after compliance with the current NESHAP (i.e., MACT standards) the risks to public health from each of the source categories are acceptable, and that for each source category additional emission controls are not necessary to provide an ample margin of safety. Based on our technology review, we did not identify any cost-effective developments in practices, processes, or control technologies for any of the three surface coating source categories. Accordingly, we proposed no changes to the existing emission control requirements in subparts IIII, MMMM, and PPPP pursuant to the RTR analyses.

We proposed the following amendments to improve rule effectiveness, provide regulatory flexibility, and comply with a legal ruling:

• For each source category, a requirement for electronic submittal of notifications, semi-annual reports, and compliance reports (which include performance test reports);

• for each source category, revisions to the SSM provisions of each NESHAP in order to ensure that they are consistent with the Court decision in Sierra Club v. EPA, 551 F. 3d 1019 (D.C. Cir. 2008), which vacated two provisions that exempted source owners and operators from the requirement to comply with otherwise applicable CAA section 112(d) emission standards during periods of SSM;

• for each source category, adding the option of conducting EPA Method 18 of appendix A to 40 CFR part 60, “Measurement of Gaseous Organic Compound Emissions by Gas Chromatography,” to measure and then subtract methane emissions from measured total gaseous organic mass emissions as carbon;

• for each source category, removing references to paragraph (d)(4) of the Occupational Safety and Health Administration (OSHA) Hazard Communication standard (29 CFR 1910.1200), which dealt with OSHA-defined carcinogens, and replacing that reference with a list of HAP that must be regarded as potentially carcinogenic based on the EPA guidelines;

• for each source category, a requirement to perform performance testing and reestablish operating limits no less frequently than every 5 years for sources that are using add-on controls to demonstrate compliance; and

• for each source category, IBR of alternative test methods and references to updated alternative test methods.

We also proposed several minor editorial and technical changes in each subpart, as well as technical corrections to three other recently promulgated RTRs for the following source categories: Surface Coating of Large Appliances NESHAP (40 CFR 63, subpart NNNN); Printing, Coating, and Dyeing of Fabrics and Other Textiles NESHAP (40 CFR 63, subpart OOOO); and Surface Coating of Metal Furniture NESHAP (40 CFR 63, subpart RRRR).

III. What is included in these final rules?

This action finalizes the EPA's proposed determinations pursuant to the RTR provisions of CAA sections 112(d)(6) and (f)(2) for the Surface Coating of ALDT source category, the Surface Coatings of MMPP source category, and the Surface Coating of PPP source category. This action also finalizes other proposed changes to each NESHAP as proposed, including the following for each source category:

• A requirement for electronic submittal of notifications, semi-annual reports, and compliance reports (which include performance test reports);

• revisions to the SSM provisions of each NESHAP;

• adding the option of conducting EPA Method 18 of appendix A to 40 CFR part 60, “Measurement of Gaseous Organic Compound Emissions by Gas Chromatography,” to measure and then subtract methane emissions from measured total gaseous organic mass emissions as carbon;

• replacing a reference to OSHA's Hazard Communication standard (29 CFR 1910.1200(d)(4)) with a list of HAP that must be regarded as potentially carcinogenic based on the EPA guidelines;

• adding a requirement for sources to perform periodic control device testing if they are using add-on controls to demonstrate compliance; and

• IBR of alternative test methods and references to updated alternative test methods.

We are finalizing, as proposed, several minor editorial and technical changes in each subpart, including technical corrections to the Surface Coating of Large Appliances NESHAP (40 CFR 63, subpart NNNN); Printing, Coating, and Dyeing of Fabrics and Other Textiles NESHAP (40 CFR 63, subpart OOOO); and Surface Coating of Metal Furniture NESHAP (40 CFR 63, subpart RRRR).

A. What are the final rule amendments based on the risk reviews for these source categories?

This section describes the final amendments to the Surface Coating of ALDT NESHAP (40 CFR part 63, subpart IIII); the Surface Coating of Miscellaneous Metal Parts NESHAP (40 CFR part 63, subpart MMMM); and the Surface Coating of PPP NESHAP (40 CFR part 63, subpart PPPP) being promulgated pursuant to CAA section 112(f)(2). The EPA proposed no changes to these three subparts based on the risk reviews conducted pursuant to CAA section 112(f)(2). In this action, we are finalizing our proposed determination that, considering compliance with MACT, the public health risks from these three subparts are acceptable, and that the standards provide an ample margin of safety to protect public health and prevent an adverse environmental effect. The EPA received no new data or other information during the public comment period that causes us to change that proposed determination. Therefore, we are not requiring additional emission controls under CAA section 112(f)(2) for any of the three subparts in this action.

B. What are the final rule amendments based on the technology reviews for these source categories?

We determined that there are no cost-effective developments in practices, processes, and control technologies that warrant revisions to the MACT standards for the Surface Coating of ALDT, Surface Coating of MMPP, and Surface Coating of PPP source categories. Therefore, we are not finalizing revisions to the MACT standards under CAA section 112(d)(6) for any of the three subparts in this action.

C. What are the final rule amendments addressing emissions during periods of SSM?

We are finalizing the proposed amendments to the Surface Coating of ALDT NESHAP; the Surface Coating of MMPP NESHAP; and the Surface Coating of PPP NESHAP to remove and revise provisions related to SSM. In its 2008 decision in Sierra Club v. EPA 551 F. 3d 1019 (D.C. Cir. 2008), the Court vacated portions of two provisions in the EPA's CAA section 112 regulations governing the emissions of HAP during periods of SSM. Specifically, the Court vacated the SSM exemption contained in 40 CFR 63.6(f)(1) and 40 CFR 63.6(h)(1), holding that under section 302(k) of the CAA, emissions standards or limitations must be continuous in nature and that the SSM exemption violates the CAA's requirement that some CAA section 112 standards apply continuously.

As detailed in section IV.A, B, and C of the November 1, 2019, proposal preamble, the ALDT NESHAP, MMPP NESHAP, and PPP NESHAP require that the standards apply at all times (see 40 CFR 63.3093(b), 63.3900(a)(2), and 63.4492(b), respectively), consistent with the Court decision in Sierra Club v. EPA, 551 F. 3d 1019 (D.C. Cir. 2008). Table 2 to Subpart IIII of Part 63, Table 2 to Subpart MMMM of Part 63, and Table 2 to Subpart PPPP of Part 63 (General Provisions applicability tables) are being revised to change the specification of the requirements that apply during periods of SSM. We are eliminating or revising certain recordkeeping and reporting requirements related to the eliminated SSM exemption. The EPA is also making other harmonizing changes to remove or modify inappropriate, unnecessary, or redundant language in the absence of the SSM exemption. We have determined that facilities in these source categories can meet the applicable emission standards in the Surface Coating of ALDT NESHAP, the Surface Coating of MMPP NESHAP, and the Surface Coating of PPP NESHAP at all times, including periods of startup and shutdown. Therefore, the EPA has determined that no additional standards are needed to address emissions during these periods. The legal rationale and detailed changes for SSM periods that we are finalizing here are set forth in the November 1, 2019, preamble to the proposed rule. See 84 FR 58959 through 58963 for ALDT, 58971 through 58973 for MMPP, and 58980 through 58982 for PPP.

Further, the EPA is not finalizing standards for malfunctions. As discussed in section IV.A, B, and C of the November 1, 2019, proposal preamble, the EPA interprets CAA section 112 as not requiring emissions that occur during periods of malfunction to be factored into development of CAA section 112 standards, although the EPA has the discretion to set standards for malfunctions where feasible. For these source categories, it is unlikely that a malfunction would result in a violation of the standards, and no comments were submitted that would suggest otherwise. Refer to section IV.A, B, and C of the November 1, 2019, proposal preamble for further discussion of the EPA's rationale for the decision not to set standards for malfunctions, as well as a discussion of the actions a facility could take in the unlikely event that a facility fails to comply with the applicable CAA section 112 standards as a result of a malfunction event, given that administrative and judicial procedures for addressing exceedances of the standards fully recognize that violations may occur despite good faith efforts to comply and can accommodate those situations.

We are finalizing revisions to the General Provisions tables to 40 CRF part 63, subparts IIII, MMMM, and PPPP, to eliminate requirements that include rule language providing an exemption for periods of SSM. Additionally, we are finalizing our proposal to eliminate language related to SSM that treats periods of startup and shutdown the same as periods of malfunction. Finally, we are finalizing our proposal to revise the Deviation Notification Report and related records as they relate to malfunctions. As discussed in detail in the proposal preamble, these revisions are consistent with the requirements in 40 CFR 63.3093(b), 63.3900(a)(2), and 63.4492(b) stating that the standards apply at all times.

We are finalizing a revision to the performance testing requirements at 40 CFR 63.3164(a)(1), 40 CFR 63.3964(a)(1), and 40 CFR 63.4564(a)(1). The final performance testing provisions prohibit performance testing during SSM as these conditions are not representative of steady state operating conditions. The final rules also require that operators maintain records to document that operating conditions during the tests represent steady state conditions.

D. What other changes have been made to these NESHAP?

These rules also finalize, as proposed, revisions to several other NESHAP requirements. We describe the revisions that apply to all the affected source categories in the following paragraphs.

To increase the ease and efficiency of data submittal and data accessibility, we are finalizing a requirement that owners or operators of facilities in the Surface Coating of ALDT; Surface Coating of MMPP; and Surface Coating of PPP source categories submit electronic copies of certain required performance test reports through the EPA's Central Data Exchange (CDX) website using an electronic performance test report tool called the Electronic Reporting Tool (ERT). We also are finalizing, as proposed, provisions that allow facility operators the ability to seek extensions for submitting electronic reports for circumstances beyond the control of the facility, i.e., for a possible outage in the CDX or Compliance and Emissions Data Reporting Interface (CEDRI) or for a force majeure event in the time just prior to a report's due date, as well as the process to assert such a claim.

For each subpart, we also are changing the format of references to test methods in 40 CFR part 60, appendix A to indicate where, in the eight sections of appendix A, each method is found.

We are finalizing amendments to 40 CFR 63.3166(b), 40 CFR 63.3966(b), and 40 CFR 63.4566(b) to add the option of conducting EPA Method 18 of appendix A to 40 CFR part 60, “Measurement of Gaseous Organic Compound Emissions by Gas Chromatography,” to measure and then subtract methane emissions from measured total gaseous organic mass emissions as carbon, when facilities are using EPA Method 25A to measure control device destruction efficiency.

For each subpart, we are finalizing the proposal to re-designate the list of organic HAP that must be used when a facility chooses to use the compliant material option (i.e., for calculating total organic HAP content of a coating material present at 0.1 percent or greater by mass). To specify the applicable HAP, we are changing the rules to remove the references to paragraph (d)(4) of OSHA's Hazard Communication standard (29 CFR 1910.1200) and replace it with a new table in each subpart (Table 5 to 40 CFR part 63, subpart IIII; Table 5 to 40 CFR part 63, subpart MMMM; and Table 5 to 40 CFR part 63, subpart PPPP) that lists the applicable HAP. The organic HAP in these new tables are those HAP that were categorized in the EPA's Prioritized Chronic Dose-Response Values for Screening Risk Assessments (dated May 9, 2014) as a “human carcinogen,” “probable human carcinogen,” or “possible human carcinogen” according to The Risk Assessment Guidelines of 1986 (EPA/600/8-87/045, August 1987) ² or as “carcinogenic to humans,” “likely to be carcinogenic to humans,” or with “suggestive evidence of carcinogenic potential” according to the Guidelines for Carcinogen Risk Assessment (EPA/630/P-03/001F, March 2005).

² See https://www.epa.gov/fera/dose-response-assessment-assessing-health-risks-associated-exposure-hazardous-air-pollutants.

We are including in the final rule for each subpart a requirement for facilities to conduct control device performance testing no less frequently than once every 5 years when using the emission rate with add-on controls compliance option. For facilities with title V permits that require comparable periodic testing prior to permit renewal, no additional testing is required, and we included provisions in the rule to allow facilities to harmonize the NESHAP testing schedule with a facility's current title V testing schedule.

1. Technical Amendments to the Surface Coating of ALDT NESHAP

We are revising the monitoring provisions for thermal and catalytic oxidizers, as proposed, to clarify that a thermocouple is part of the temperature sensor referred to in 40 CFR 63.3168(c)(3) for purposes of performing periodic calibration and verification checks.

We are adding, as proposed, a new paragraph 40 CFR 63.3130(p) and revising 40 CFR 63.3131(a) to allow that any records required to be maintained by 40 CFR part 63, subpart IIII that are submitted electronically via the EPA's CEDRI may be maintained in electronic format. We are also adding clarification that this ability to maintain electronic copies does not affect the requirement for facilities to make records, data, and reports available upon request to a delegated air agency or the EPA as part of an on-site compliance evaluation.

We are amending 40 CFR 63.3166(b) to add the option of conducting EPA Method 18 of appendix A-6 to 40 CFR part 60, “Measurement of Gaseous Organic Compound Emissions by Gas Chromatography,” to measure and subtract methane emissions from total gaseous organic mass emissions as carbon when facilities are using EPA Method 25A.

In the final rule, as proposed, we are adding and updating test methods that are incorporated by reference. In accordance with requirements of 1 CFR 51.5, the EPA is incorporating by reference the voluntary consensus standards (VCS) and other methods described in the amendments to 40 CFR 63.14:

• ASTM D1475-13, Standard Test Method for Density of Liquid Coatings, Inks, and Related Products, IBR approved for 40 CFR 63.3151(b);

• ASTM D2369-10 (Reapproved 2015)ᵉ, Standard Test Method for Volatile Content of Coatings, IBR approved for 40 CFR 63.3151(a)(2);

• ASTM D2697-03 (Reapproved 2014), Standard Test Method for Volume Nonvolatile Matter in Clear or Pigmented Coatings, IBR approved for 40 CFR 63.3161(f)(1);

• ASTM D5066-91 (Reapproved 2017), Standard Test Method for Determination of the Transfer Efficiency Under Production Conditions for Spray Application of Automotive Paints-Weight Basis, IBR approved for 40 CFR 63.3161(g);

• ASTM D5965-02 (Reapproved 2013), Standard Test Methods for Specific Gravity of Coating Powders, IBR approved for 40 CFR 63.3151(b);

• ASTM D6093-97 (Reapproved 2016), Standard Test Method for Percent Volume Nonvolatile Matter in Clear or Pigmented Coatings Using Helium Gas Pycnometer, IBR approved for 40 CFR 63.3161(f)(1);

• ASTM D6266-00a (Reapproved 2017), Standard Test Method for Determining the Amount of Volatile Organic Compound (VOC) Released from Waterborne Automotive Coatings and Available for Removal in a VOC Control Device (Abatement), IBR approved for 40 CFR 63.3165(e); and

• EPA-450/3-88-018, Protocol for Determining the Daily Volatile Organic Compound Emission Rate of Automobile and Light-Duty Truck Topcoat Operations, IBR approved for 40 CFR 63.3130(c), 63.3161(d) and (g), 63.3165(e), and appendix A to subpart IIII of part 63.

2. Technical Amendments to the Surface Coating of MMPP NESHAP

We are amending 40 CFR 63.3966(b) to add the option of conducting EPA Method 18 of appendix A to 40 CFR part 60, “Measurement of Gaseous Organic Compound Emissions by Gas Chromatography,” to measure and then subtract methane emissions from total gaseous organic mass emissions as carbon when facilities are using EPA Method 25A.

Current 40 CFR 63.3931 specifies how records must be maintained. We are adding clarification to this provision at 40 CFR 63.3931(a) that specifies the allowance to retain electronic records applies to all records that were submitted as reports electronically via the EPA's CEDRI. We are also adding text to the same provision clarifying that this ability to maintain electronic copies does not affect the requirement for facilities to make records, data, and reports available upon request to a delegated air agency or the EPA as part of an on-site compliance evaluation.

In the final rule, as proposed, we are adding and updating test methods that are incorporated by reference. In accordance with requirements of 1 CFR 51.5, the EPA is incorporating by reference the VCS and other methods described in the amendments to 40 CFR 63.14:

• ASTM D1475-13, Standard Test Method for Density of Liquid Coatings, Inks, and Related Products, IBR approved for 40 CFR 63.3941(b)(4) and (c) and 63.3951(c);

• ASTM D2111-10 (Reapproved 2015), Standard Test Methods for Specific Gravity and Density of Halogenated Organic Solvents and Their Admixtures, IBR approved for 40 CFR 63.3951(c);

• ASTM Method D2369-10 (Reapproved 2015)ᵉ, Standard Test Method for Volatile Content of Coatings, IBR approved for 40 CFR 63.3961(j)(3);

• ASTM D2697-03 (Reapproved 2014), Standard Test Method for Volume Nonvolatile Matter in Clear or Pigmented Coatings, IBR approved for 40 CFR 63.3941(b)(1);

• ASTM Method D5965-02 (Reapproved 2013), Standard Test Methods for Specific Gravity of Coating Powders, IBR approved for 40 CFR 3951(c); and

• ASTM D6093-97 (Reapproved 2016), Standard Test Method for Percent Volume Nonvolatile Matter in Clear or Pigmented Coatings Using Helium Gas Pycnometer, IBR approved for 40 CFR 63.3941(b)(1).

3. Technical Amendments to the Surface Coating of PPP NESHAP

We are amending 40 CFR 63.4566(b)(4) to add the option of conducting EPA Method 18 of appendix A to 40 CFR part 60, “Measurement of Gaseous Organic Compound Emissions by Gas Chromatography,” to measure and then subtract methane emissions from total gaseous organic mass emissions as carbon when facilities are using EPA Method 25A.

Current 40 CFR 63.4530 specifies records that must be maintained. We are adding clarification to this provision at 40 CFR 63.4530(a) that specifies the allowance to retain electronic records applies to all records that were submitted as reports electronically via the EPA's CEDRI. We are also adding text to the same provision clarifying that this ability to maintain electronic copies does not affect the requirement for facilities to make records, data, and reports available upon request to a delegated air agency or the EPA as part of an on-site compliance evaluation.

We are clarifying and harmonizing the general requirement in 40 CFR 63.4500(b) with the reporting requirement in 40 CFR 63.4520(a)(5), (6), and (7), and the recordkeeping requirement in 40 CFR 63.4530(h)(4).

In the final rule, as proposed, we are adding and updating test methods that are incorporated by reference. In accordance with requirements of 1 CFR 51.5, the EPA is incorporating by reference the following VCS described in the amendments to 40 CFR 63.14:

• ASTM D1475-13, Standard Test Method for Density of Liquid Coatings, Inks, and Related Products, IBR approved for 40 CFR 63.4551(c);

• ASTM D2111-10 (Reapproved 2015), Standard Test Methods for Specific Gravity and Density of Halogenated Organic Solvents and Their Admixtures, IBR approved for 40 CFR 63.4551(c); and

• ASTM D2369-10 (Reapproved 2015)ᵉ, Standard Test Method for Volatile Content of Coatings, IBR approved for 40 CFR 63.4541(a)(2), and 63.4561(j)(3).

4. Technical Amendments to Other Subparts

We are revising the NESHAP for Surface Coating of Large Appliances (40 CFR part 63, subpart NNNN); the NESHAP for Printing, Coating, and Dyeing of Fabrics and Other Textiles (40 CFR part 63, subpart OOOO); and the NESHAP for Surface Coating of Metal Furniture (40 CFR part 63, subpart RRRR) to make corrections after the three subparts were amended in a final rule published in the Federal Register on March 15, 2019 (84 FR 9590). The proposed corrections were published on November 1, 2019 (84 FR 58936), and no public comments on these corrections were received. Therefore, we are making the corrections to these three subparts as proposed.

E. What are the effective and compliance dates of the standards?

The revisions to the MACT standards being promulgated in this action are effective on July 8, 2020.

For affected sources in the ALDT, MMPP, and PPP source categories, the compliance date is January 5, 2021, with the exception of the electronic format for submitting semiannual compliance reports. For the electronic format for submitting semiannual compliance reports, both existing and new (or reconstructed) affected sources must comply within 1 year after the electronic reporting templates are available on CEDRI, or 1 year after July 8, 2020, whichever is later. The EPA selected these compliance dates based on experience with similar industries and the EPA's detailed justification for the selected compliance dates is included in the preamble to the proposed rule (84 FR 58965, 58975, and 58984).

F. What are the requirements for submission of performance test data to the EPA?

As proposed, the EPA is taking a step to increase the ease and efficiency of data submittal and data accessibility. Specifically, the EPA is finalizing the requirement for owners or operators of facilities in the ALDT, MMPP, and PPP source categories to submit electronic copies of certain required performance test reports.

Performance test results collected using test methods that are supported by the EPA's ERT as listed on the ERT website (https://www.epa.gov/electronic-reporting-air-emissions/electronic-reporting-tool-ert) at the time of the test be submitted in the format generated through the use of the ERT. The ERT will generate an electronic report package which will be submitted to the CEDRI interface on the EPA's CDX. CEDRI can be accessed through the CDX website (https://cdx.epa.gov/).

The requirement to submit performance test data electronically to the EPA does not create any additional performance testing and will apply only to those performance tests conducted using test methods that are supported by the ERT. A listing of the pollutants and test methods supported by the ERT is available at the ERT website. Electronic reporting will save time in the performance test submittal process. The electronic submittal of reports increases the usefulness of the data contained in those reports, is in keeping with current trends in data availability, further assists in the protection of public health and the environment, and ultimately results in less burden on regulated facilities. It also will improve compliance by facilitating the ability of regulated facilities to demonstrate compliance and the ability of air agencies and the EPA to assess and determine compliance. Electronic storage of reports make data more accessible for review, analysis, and sharing. Electronic reporting also eliminates paper-based, manual processes; thereby saving time and resources, simplifying data entry, eliminating redundancies, minimizing data reporting errors, and providing data quickly and accurately to affected facilities, air agencies, the EPA, and the public. For a more thorough discussion of electronic reporting of performance tests, see the memorandum, Electronic Reporting Requirements for New Source Performance Standards (NSPS) and National Emission Standards for Hazardous Air Pollutants (NESHAP) Rules, August 8, 2018, in the ALDT Docket, MMPP Docket, and PPP Docket.

In summary, in addition to supporting regulation development, control strategy development, and other air pollution control activities, having an electronic database populated with performance test data will save industry, state/local/tribal agencies, and the EPA significant time, money, and effort while improving the quality of emission inventories and air quality regulations.

IV. What is the rationale for our final decisions and amendments for these source categories?

For each amendment, this section provides a description of what we proposed and what we are finalizing for the amendment, the EPA's rationale for the final decisions and amendments, and a summary of key comments and responses. For all comments not discussed in this preamble, comment summaries and the EPA's responses can be found in the comment summary and response document available in the ALDT Docket, MMPP Docket, and PPP Docket.

A. Residual Risk Reviews

1. What did we propose pursuant to CAA section 112(f)?

a. Surface Coating of ALDT (40 CFR part 63, subpart IIII) Source Category

Pursuant to CAA section 112(f)(2), the EPA conducted a residual risk review and presented the results of this review, along with our proposed decisions regarding risk acceptability and ample margin of safety, in the November 1, 2019, proposed rule for 40 CFR part 63, subpart IIII (84 FR 58954). The results of the risk assessment for the proposal are presented briefly below in Table 2 of this preamble. More detail is in the residual risk technical support document, Residual Risk Assessment for the Surface Coating of Automobiles and Light-Duty Trucks Source Category in Support of the 2019 Risk and Technology Review Proposed Rule, available in the ALDT Docket.

Table 2—Surface Coating of ALDT Source Category Inhalation Risk Assessment Results
Risk assessment | Maximum individual cancer risk (in 1 million): Based on actual emissions | Maximum individual cancer risk (in 1 million): Based on allowable emissions | Estimated population at increased risk of cancer ≥ 1-in-1 million: Based on actual emissions | Estimated population at increased risk of cancer ≥ 1-in-1 million: Based on allowable emissions | Estimated annual cancer incidence (cases per year): Based on actual emissions | Estimated annual cancer incidence (cases per year): Based on allowable emissions | Maximum chronic noncancer target organ-specific hazard index (TOSHI 1): Based on actual emissions | Maximum chronic noncancer target organ-specific hazard index (TOSHI 1): Based on allowable emissions | Maximum screening acute noncancer HQ 2
Source Category | 10 | 10 | 15,000 | 19,000 | 0.01 | 0.01 | 0.3 | 0.3 | hazard quotient reference exposure limit (HQREL) = 1.
Whole Facility | 10 |  | 48,000 |  | 0.02 |  | 0.3 |  |
¹ The TOSHI is the sum of the chronic noncancer hazard quotients (HQs) for substances that affect the same target organ or organ system.
² The maximum estimated acute exposure concentration was divided by available short-term threshold values to develop HQ values (HQREL = HQ reference exposure level).

The results of the proposal inhalation risk modeling using actual emissions data, as shown in Table 2 of this preamble, indicate that the maximum individual cancer risk based on actual emissions (lifetime) is 10-in-1 million (driven by naphthalene and ethyl benzene from miscellaneous industrial processes—other/not classified), the maximum chronic noncancer TOSHI value based on actual emissions is 0.3 (driven by hexamethylene-1,6-diisocyanate from a painting topcoat process), and the maximum screening acute noncancer HQ value (off-facility site) could be up to 1 (driven by formaldehyde). At proposal, the total annual cancer incidence (national) from these facilities based on actual emission levels was estimated to be 0.01 excess cancer cases per year, or one case in every 100 years.

The results of the proposal inhalation risk modeling using allowable emissions data, as shown in Table 2 of this preamble, indicate that the maximum individual cancer risk based on allowable emissions (lifetime) is 10-in-1 million (driven by naphthalene and ethyl benzene), and the maximum chronic noncancer TOSHI value based on allowable emissions is 0.3 (driven by hexamethylene-1,6-diisocyanate). At proposal, the total annual cancer incidence (national) from these facilities based on allowable emissions was estimated to be 0.01 excess cancer cases per year, or one case in every 100 years.

The maximum individual cancer risk (lifetime) for the whole facility was determined to be 10-in-1 million at proposal (driven by naphthalene and ethyl benzene). The maximum facility-wide TOSHI for the source category was estimated to be 0.3 (driven by emissions of hexamethylene-1,6-diisocyanate). At proposal, the total estimated cancer incidence from the whole facility was determined to be 0.02 excess cancer cases per year, or one excess case in every 50 years.

One persistent and bioaccumulative HAP (PB-HAP) is emitted by facilities in the source category: Lead. In evaluating the potential for multipathway effects from emissions of lead, we compared modeled annual lead concentrations to the National Ambient Air Quality Standard (NAAQS) for lead of 0.15 milligrams per cubic meter (mg/m³), arithmetic mean concentration over a 3-month period. The highest annual average lead concentration of 1.5 × 10⁻⁵ mg/m³ is below the NAAQS level for lead, indicating a low potential for multipathway impacts of concern due to lead even assuming a shorter averaging period is analyzed. Based on this evaluation, we proposed that there is no significant potential for human health multi-pathway risks as a result of HAP emissions from this source category. Three environmental HAP are emitted by sources within this source category: Lead, hydrochloric acid (HCl) and hydrogen fluoride (HF). Therefore, at proposal, we conducted a screening-level evaluation of the potential adverse environmental risks associated with emissions of lead, HCl, and HF for the ALDT source category. Based on this evaluation, we proposed that we do not expect an adverse environmental effect as a result of HAP emissions from this source category.

We weighed all health risk factors, including those shown in Table 2 of this preamble, in our risk acceptability determination and proposed that the residual risks from the Surface Coating of ALDT source category are acceptable (section IV.A.2.a of proposal preamble, 84 FR 58956, November 1, 2019).

We then considered whether 40 CFR part 63, subpart IIII provides an ample margin of safety to protect public health. In considering whether the standards should be tightened to provide an ample margin of safety to protect public health, we considered the same risk factors that we considered for our acceptability determination and also considered the costs, technological feasibility, and other relevant factors related to emissions control options that might reduce risk associated with emissions from the source category. Related to risk, the baseline risks were low, and regardless of the availability of further control options, little risk reduction could be realized. As discussed further in section IV.B of this preamble, we did not identify any cost-effective measures to further reduce HAP emissions for the Surface Coating of ALDT source category. Therefore, given the low baseline risks and lack of options for further risk reductions, we proposed that additional emission controls for this source category are not necessary to provide an ample margin of safety (section IV.A.2.b of proposal preamble, 84 FR 58956, November 1, 2019).

b. Surface Coating of MMPP (40 CFR part 63, subpart MMMM) Source Category

Pursuant to CAA section 112(f)(2), the EPA conducted a residual risk review and presented the results of this review, along with our proposed decisions regarding risk acceptability and ample margin of safety, in the November 1, 2019, proposed rule for 40 CFR part 63, subpart MMMM (84 FR 58966). The results of the risk assessment for the proposal are presented briefly below in Table 3 of this preamble. More detail is in the residual risk technical support document, Residual Risk Assessment for the Surface Coating of MMPP Source Category in Support of the 2019 Risk and Technology Review Proposed Rule, available in the MMPP Docket.

Table 3—Surface Coating of MMPP Source Category Inhalation Risk Assessment Results
Risk assessment | Maximum individual cancer risk (in 1 million): Based on actual emissions | Maximum individual cancer risk (in 1 million): Based on allowable emissions | Estimated population at increased risk of cancer ≥ 1-in-1 million: Based on actual emissions | Estimated population at increased risk of cancer ≥ 1-in-1 million: Based on allowable emissions | Estimated annual cancer incidence (cases per year): Based on actual emissions | Estimated annual cancer incidence (cases per year): Based on allowable emissions | Maximum chronic noncancer TOSHI 1: Based on actual emissions | Maximum chronic noncancer TOSHI 1: Based on allowable emissions | Maximum screening acute noncancer HQ 2
Source category | 20 | 30 | 18,000 | 24,000 | 0.008 | 0.01 | 0.8 | 1 | HQREL = 4.
Whole facility | 100 |  | 370,000 |  | 0.04 |  | 1 |  |
¹ The TOSHI is the sum of the chronic noncancer HQ for substances that affect the same target organ or organ system.
² The maximum estimated acute exposure concentration was divided by available short-term threshold values to develop HQ values (HQREL = HQ reference exposure level).

The results of the proposal inhalation risk modeling using actual emissions data, as shown in Table 3 of this preamble, indicate that the maximum individual cancer risk based on actual emissions (lifetime) is 20-in-1 million (driven by naphthalene and ethyl benzene from coating operations), the maximum chronic noncancer TOSHI value based on actual emissions is 0.8 (driven by antimony from coating operations), and the maximum screening acute noncancer HQ value (off-facility site) could be up to 4 (driven by glycol ethers). At proposal, the total annual cancer incidence (national) from these facilities based on actual emission levels was estimated to be 0.008 excess cancer cases per year, or one case in every 125 years.

The results of the proposal inhalation risk modeling using allowable emissions data, as shown in Table 3 of this preamble, indicate that the maximum individual cancer risk based on allowable emissions (lifetime) is 30-in-1 million (driven by naphthalene and ethyl benzene), and the maximum chronic noncancer TOSHI value based on allowable emissions is 1 (driven by antimony). At proposal, the total annual cancer incidence (national) from these facilities based on allowable emissions was estimated to be 0.01 excess cancer cases per year, or one case in every 100 years.

The maximum individual cancer risk (lifetime) for the whole facility was determined to be 100-in-1 million at proposal (driven by nickel from welding operations). The maximum facility-wide TOSHI for the source category was estimated to be 1 (driven by emissions of cobalt from a gel coating operation). At proposal, the total estimated cancer incidence from the whole facility was determined to be 0.04 excess cancer cases per year, or one excess case in every 25 years.

Three PB-HAP are emitted by facilities in the source category: Arsenic, cadmium, and lead. The PB-HAP emissions from these facilities did not exceed the Tier 1 multipathway screening value of 1 for cancer or noncancer. In evaluating the potential for multipathway effects from emissions of lead, we compared modeled annual lead concentrations to the NAAQS for lead of 0.15 mg/m³, arithmetic mean concentration over a 3-month period). The highest annual average lead concentration of 0.059 mg/m³ is below the NAAQS level for lead, indicating a low potential for multipathway impacts of concern due to lead even assuming a shorter averaging period is analyzed. Based on this evaluation, we proposed that there is no significant potential for human health multi-pathway risks as a result of HAP emissions from this source category. Four environmental HAP are emitted by facilities in this source category: Arsenic, cadmium, lead and HCl. Therefore, at proposal, we conducted a screening-level evaluation of the potential adverse environmental effects associated with emissions of arsenic, cadmium, lead, and HCl for the MMPP source category. Based on this evaluation, we proposed that we do not expect an adverse environmental effect as a result of HAP emissions from this source category.

We weighed all health risk factors, including those shown in Table 3 of this preamble, in our risk acceptability determination and proposed that the residual risks from the Surface Coating of MMPP source category are acceptable (section IV.B.2.a of proposal preamble, 84 FR 58967, November 1, 2019).

We then considered whether 40 CFR part 63, subpart MMMM provides an ample margin of safety to protect public health. In considering whether the standards should be tightened to provide an ample margin of safety to protect public health, we considered the same risk factors that we considered for our acceptability determination and also considered the costs, technological feasibility, and other relevant factors related to emissions control options that might reduce risk associated with emissions from the source category. Based on our review (described in section IV.B of this preamble), we identified and evaluated the use of add-on control technologies for the rubber-to-metal bonding and high-performance coating subcategories.

We determined that the added costs and cost effectiveness for these two coating subcategories ($9,500 per ton of HAP reduced for the rubber-to-metal bonding subcategory and $11,700 per ton for the high-performance coating subcategory) are not justified. We proposed that these costs are unreasonable particularly because the risks are already low, and the risks would not be reduced in a meaningful manner by the control of these subcategories. Six facilities in the high-performance subcategory had a cancer risk above 1-in-1 million. The cancer risk for only one of these facilities would be reduced as a result of the add-on controls evaluated, going from 6-in-1 million to 2-in-1 million (based on actual emissions) because the facility would be required to reduce emissions. Only one facility in the rubber-to-metal bonding subcategory had a cancer risk above 1-in-1 million. The cancer risk for this facility would not be reduced as a result of the add-on controls evaluated because the facility is able to use averaging between the general-use subcategory and the rubber-to-metal bonding subcategory to meet the general-use emission limit and would not have to reduce emissions. Therefore, we proposed that additional emissions controls for this source category are not necessary to provide an ample margin of safety (section IV.B.2.b of proposal preamble, 84 FR 58968, November 1, 2019). Of the 40 facilities in the high-performance subcategory, there were six with cancer risk above 1-in-1 million. The cancer risk for only one of these facilities would be reduced as a result of the add-on controls evaluated, going from 6-in-1 million to 2-in-1 million (based on actual emissions). Of the 16 facilities in the rubber-to-metal bonding subcategory, only one had cancer risk above 1-in-1 million. The cancer risk for this facility would not be reduced as a result of the add-on controls evaluated.

c. Surface Coating of PPP (40 CFR part 63, subpart PPPP) Source Category

Pursuant to CAA section 112(f)(2), the EPA conducted a residual risk review and presented the results of this review, along with our proposed decisions regarding risk acceptability and ample margin of safety, in the November 1, 2019, proposed action for 40 CFR part 63, subpart PPPP (84 FR 58976). The results of the risk assessment for the proposal are presented briefly below in Table 4 of this preamble. More detail is in the residual risk technical support document, Residual Risk Assessment for the Surface Coating of PPP Source Category in Support of the 2019 Risk and Technology Review Proposed Rule, available in the PPP Docket.

Table 4—Surface Coating of PPP Source Category Inhalation Risk Assessment Results
Risk assessment | Maximum individual cancer risk (in 1 million): Based on actual emissions | Maximum individual cancer risk (in 1 million): Based on allowable emissions | Estimated population at increased risk of cancer ≥ 1-in-1 million: Based on actual emissions | Estimated population at increased risk of cancer ≥ 1-in-1 million: Based on allowable emissions | Estimated annual cancer incidence (cases per year): Based on actual emissions | Estimated annual cancer incidence (cases per year): Based on allowable emissions | Maximum chronic noncancer TOSHI 1: Based on actual emissions | Maximum chronic noncancer TOSHI 1: Based on allowable emissions | Maximum screening acute noncancer HQ 2
Source Category | 10 | 10 | 600 | 700 | 0.001 | 0.001 | 1 | 1 | HQREL = 4.
Whole Facility | 70 |  | 29,000 |  | 0.006 |  | 1 |  |
¹ The TOSHI is the sum of the chronic noncancer HQ for substances that affect the same target organ or organ system.
² The maximum estimated acute exposure concentration was divided by available short-term threshold values to develop HQ values (HQREL = HQ reference exposure level).

The results of the proposal inhalation risk modeling using actual emissions data, as shown in Table 4 of this preamble, indicate that the maximum individual cancer risk based on actual emissions (lifetime) is 10-in-1 million (driven by formaldehyde, naphthalene, and ethyl benzene from coating operations), the maximum chronic noncancer TOSHI value based on actual emissions is 1 (driven by hexamethylene-1,6-diisocyanate from coating operations), and the maximum screening acute noncancer HQ value (off-facility site) could be up to 4 (driven by glycol ethers). At proposal, the total annual cancer incidence (national) from these facilities based on actual emission levels was estimated to be 0.001 excess cancer cases per year, or one case in every 1,000 years.

The results of the proposal inhalation risk modeling using allowable emissions data, as shown in Table 4 of this preamble, indicate that the maximum individual cancer risk based on allowable emissions (lifetime) is 10-in-1 million (driven by formaldehyde, naphthalene, and ethyl benzene), and the maximum chronic noncancer TOSHI value based on allowable emissions is 1 (driven by hexamethylene-1,6-diisocyanate from coating operations). At proposal, the total annual cancer incidence (national) from these facilities based on allowable emissions was estimated to be 0.001 excess cancer cases per year, or one case in every 1,000 years.

The maximum individual cancer risk (lifetime) for the whole facility was determined to be 70-in-1 million at proposal (driven by nickel and formaldehyde from a co-located boiler). The maximum facility-wide TOSHI for the source category was estimated to be 1 (driven by emissions of nickel and formaldehyde from a co-located boiler). At proposal, the total estimated cancer incidence from the whole facility was determined to be 0.006 excess cancer cases per year, or one excess case in every 200 years.

No PB-HAP are emitted by facilities in this source category; therefore, at proposal we did not estimate any human health multi-pathway risks from this source category. No environmental HAP are emitted by facilities in this source category; therefore, we proposed that we do not expect an adverse environmental effect as a result of HAP emissions from this source category.

We weighed all health risk factors, including those shown in Table 4 of this preamble, in our risk acceptability determination and proposed that the residual risks from the Surface Coating of PPP source category are acceptable (section IV.C.2.a of proposal preamble, 84 FR 58977, November 1, 2019).

We then considered whether 40 CFR part 63, subpart PPPP provides an ample margin of safety to protect public health. In considering whether the standards should be tightened to provide an ample margin of safety to protect public health, we considered the same risk factors that we considered for our acceptability determination and also considered the costs, technological feasibility, and other relevant factors related to emissions control options that might reduce risk associated with emissions from the source category. Based on our review at proposal (described in section IV.B of this preamble), we did not identify any measures to further reduce HAP. Therefore, we proposed that additional emissions controls for this source category are not necessary to provide an ample margin of safety (section IV.C.2.b of proposal preamble, 84 FR 58978, November 1, 2019).

2. How did the risk reviews change since proposal?

We have not changed any aspect of the risk assessments for any of the three source categories as a result of public comments received on the November 1, 2019, proposal for any of the three source categories.

3. What key comments did we receive on the risk reviews, and what are our responses?

We received comments in support of and against the proposed residual risk reviews and our determinations that no revisions were warranted under CAA section 112(f)(2) for all three source categories. Generally, the comments that were not supportive of the determination from the risk reviews suggested changes to the underlying risk assessment methodology. For example, some commenters stated that the EPA should lower the acceptability benchmark so that risks below 100-in-1 million are unacceptable, include emissions outside of the source categories in question in the risk assessment, and assume that pollutants with noncancer health risks have no safe level of exposure. After review of all the comments received, we determined that no changes to our Science Advisory Board-approved review process were necessary. The comments and our specific responses can be found in the document, Summary of Public Comments and Responses for the Risk and Technology Reviews for Surface Coating Automobiles and Light-Duty Trucks, Surface Coating of Miscellaneous Metal Parts and Products, and Surface Coating of Plastic Parts and Products, available in the dockets for this action (Docket ID Nos. EPA-HQ-OAR-2019-0312, EPA-HQ-OAR-2019-0313, and EPA-HQ-OAR-2019-0314).

4. What is the rationale for our final approach and final decisions for the risk reviews?

As noted in our proposal, the EPA sets standards under CAA section 112(f)(2) using “a two-step standard-setting approach, with an analytical first step to determine an `acceptable risk' that considers all health information, including risk estimation uncertainty, and includes a presumptive limit on the maximum individual risk (MIR) of approximately 1-in-10 thousand” (see 54 FR 38045, September 14, 1989). We weigh all health risk factors in our risk acceptability determination, including the cancer MIR, cancer incidence, the maximum cancer TOSHI, the maximum acute noncancer HQ, the extent of noncancer risks, the distribution of cancer and noncancer risks in the exposed population, and the risk estimation uncertainties.

Since proposal, neither the quantitative risk assessment nor our determinations regarding risk acceptability, ample margin of safety, or adverse environmental effects have changed. For the reasons explained in the proposed rule and above, we find that the risks from the Surface Coating of ALDT, Surface Coating of MMPP, and Surface Coating of PPP source categories are acceptable, and the current standards provide an ample margin of safety to protect public health and prevent an adverse environmental effect. Therefore, we are not revising any of these three subparts to require additional controls pursuant to CAA section 112(f)(2) based on the residual risk review, and we are maintaining the existing standards under CAA section 112(f)(2).

B. Technology Reviews

1. What did we propose pursuant to CAA section 112(d)(6)?

Based on our review, we did not identify any developments in practices, processes, or control technologies for the Surface Coating of ALDT source category, and, therefore, we did not propose any changes to the standards under CAA section 112(d)(6). A brief summary of the EPA's findings in conducting the technology review of ALDT surface coating operations was included in the preamble to the proposed action (84 FR 58957, November 1, 2019). For a detailed discussion of the EPA's findings, refer to the memorandum, Technology Review for Surface Coating Operations in the Automobiles and Light-Duty Trucks Source Category, June 2019, in the ALDT Docket.

In our technology review of the Surface Coating of MMPP source category, we identified and evaluated the use of add-on control technologies (e.g., regenerative thermal oxidizers) for two coating subcategories, high-performance coating and rubber-to-metal coating, that had not been previously considered during development of the MMPP NESHAP. This analysis is described in detail in the preamble to the proposed action (84 FR 58969, November 1, 2019). However, we determined that the added costs and cost effectiveness for these two coating subcategories ($9,500 per ton of HAP reduced for the rubber-to-metal coating subcategory and $11,700 per ton for the high-performance subcategory) were not justified. Aside from this, we did not identify any new or improved process equipment, work practices, or procedures that would further reduce emissions. Therefore, the EPA proposed no revisions to the MMPP NESHAP pursuant to CAA section 112(d)(6). For a detailed discussion of the EPA's findings, refer to the MMPP Technology Review Memo in the MMPP Docket.

Based on our review, we did not identify any developments in practices, processes, or control technologies for the Surface Coating of PPP source category, and, therefore, we did not propose any changes to the standards under CAA section 112(d)(6). A brief summary of the EPA's findings in conducting the technology review of plastic parts surface coating operations was included in the preamble to the proposed action (84 FR 58978, November 1, 2019). For a detailed discussion of the EPA's findings, refer to the memorandum, Technology Review for the Plastic Parts and Products Surface Coating Operations Source Category, June 2019, in the PPP Docket.

2. How did the technology reviews change since proposal?

We are making no changes to the conclusions of the technology review and are finalizing the results of the technology reviews for the Surface Coating of ALDT, Surface Coating of MMPP, and Surface Coating of PPP source categories as proposed.

3. What key comments did we receive on the technology reviews, and what are our responses?

We received several general comments supporting the results of our technology reviews for all three source categories and one comment objecting to our conclusion that there have been no technology developments in these three source categories.

Comment: One commenter alleged that the EPA has failed to meet the statutory obligation to conduct a technology review under CAA section 112(d)(6). The commenter argued that the EPA has refused to complete the technology review by refusing to strengthen the emission standards for regulated pollutants based primarily on cost or cost effectiveness. The commenter argued that CAA section 112(d)(6) does not include that term “cost effectiveness,” and so the EPA's proposed action on the technology review is unlawful and arbitrary.

Response: The EPA disagrees with the commenter that cost effectiveness cannot be considered in the technology reviews. CAA section 112(d)(6) does include the phrase “as necessary” and the EPA interprets “as necessary” to include a cost component, such as cost effectiveness. The EPA's interpretation that cost and cost effectiveness may be considered in technology reviews was affirmed by the Court in Association of Battery Recyclers, Inc. v. EPA, 716 F.3d 667 (DC Cir. 2013).³ Therefore, the technology review for the Surface Coating of MMPP source category completed at proposal is not being revised based on this comment.

³ See Association of Battery Recyclers, Inc. v. EPA, 716 F.3d 667 (DC Cir. 2013), p. 673: Environmental petitioners next argue that the EPA impermissibly considered cost in revising emissions standards under CAA section 112(d)(6). But the statute only bars cost consideration in setting MACT floors under CAA section 112(d)(3), see National Lime, 233 F.3d at 640; CAA section 112(d)(2) in contrast expressly directs the EPA to consider costs when setting beyond-the-floor standards, see 42 U.S.C. 7412(d)(2) (directing the Administrator to “tak[e] into consideration the cost of achieving . . . emission reduction”). Petitioners are correct that CAA section 112(d)(6) itself makes no reference to cost and that the Supreme Court has “refused to find implicit in ambiguous sections of the [CAA] an authorization to consider costs that has elsewhere, and so often, been expressly granted.” Whitman v. American Trucking Associations, Inc., 531 U.S. 457, 467, 121 S. Ct. 903, 149 L.Ed.2d 1 (2001). But given that the EPA has no obligation to recalculate the MACT floor when revising standards, see supra at 672-73, and given that CAA section 112(d)(2) expressly authorizes cost consideration in other aspects of the standard-setting process, we believe this clear statement rule is satisfied.

4. What is the rationale for our final approach and final decisions for the technology reviews?

For the reasons explained in the preamble to the proposed rules (84 FR 58597, 58969, and 58978, November 1, 2019), and in our analysis of public comments explained above in section IV.B.3 of this preamble, we are making no changes to any of the three subparts to require additional controls pursuant to CAA section 112(d)(6) and are finalizing the results of the technology reviews as proposed.

C. Electronic Reporting Provisions

1. What did we propose?

In the November 1, 2019, document, we proposed to require owners and operators of surface coating facilities in all three source categories to submit electronic copies of notifications, reports, and performance tests through the EPA's CDX, using the CEDRI. These include the initial notifications required in 40 CFR 63.9(b); notifications of compliance status required in 40 CFR 63.9(h); the performance test reports required in 40 CFR 63.7(g); and the semiannual reports required in 40 CFR 63.3120(a) for ALDT surface coating, 40 CFR 63.3920(a) for MMPP surface coating, and 40 CFR 63.4520(a) for PPP surface coating. A description of the electronic submission process is provided in the memorandum, Electronic Reporting Requirements for New Source Performance Standards (NSPS) and National Emission Standards for Hazardous Air Pollutants (NESHAP), August 8, 2018, in the ALDT, MMPP, and PPP Dockets. The proposed rule requirements would replace the current rule requirements to submit the notifications and reports to the Administrator at the appropriate address listed in 40 CFR 63.13. The proposed rule requirement would not affect submittals required by state air agencies.

2. What changed since proposal?

We are finalizing the electronic reporting provisions as proposed with no changes (84 FR 58958, 58970, and 58979, November 1, 2019).

3. What key comments did we receive and what are our responses?

Comment: Several commenters requested that additional opportunity should be provided for public review and comment of the electronic reporting templates before they are final and facilities are required to use them for electronic reporting. One commenter also requested that the EPA provide a notice and comment period through a Federal Register document for all future changes in reporting templates because many industry members do not track changes to the CEDRI website where the EPA intends to make future template changes. The commenter argued that this would be consistent with the requirements of both the CAA and the Administrative Procedures Act (APA) because, the commenter argues, the development of the reporting template constitutes a rulemaking action.

Response: The EPA disagrees that changes to the electronic reporting template constitute a rulemaking because the reporting template does not create new requirements, but instead, provides the mechanism by which the sources report the information required to be submitted pursuant to the underlying NESHAP.

The EPA promulgated the original MACT emissions standards and attendant monitoring, recordkeeping, and reporting requirements through notice and comment rulemaking, but the sources were not required to submit reports via electronic reporting at the time. The EPA is moving toward electronic reporting for all NESHAP and proposed to require electronic reporting for these source categories along with the RTR rulemaking. The electronic reporting template is the tool by which the sources will enter their required reports and data to CEDRI to comply with the NESHAP, but it does not establish, in itself, any requirements, including monitoring, recordkeeping, and reporting requirements. Any future revisions to the underlying NESHAP's monitoring, recordkeeping, and reporting requirements will be made through a proposed rulemaking that will be published in the Federal Register; thereby giving the public notice and an opportunity to comment. The changes to reporting templates, by contrast, are merely changes that are necessary to allow owners/operators to successfully submit reports (e.g., resolving issues with template cells that are not properly formatted, unlocking inadvertently locked cells, and correcting regulatory citations). The EPA disagrees that the APA and the CAA require such changes undergo notice and comment rulemaking in the Federal Register.

We also note that if the reporting templates for these subparts are completed concurrently with the final rule publication, facilities will have 1 year after the final rule is published to submit semiannual compliance reports using the electronic reporting template in CEDRI. If the reporting templates are not finalized concurrently with the final rule publication, facilities will be required to submit semiannual compliance reports using the electronic reporting template in CEDRI once the reporting template has been available on the CEDRI website for one year. The dates that templates are initially made available in CEDRI are listed on the CEDRI website.

4. What is the rationale for our final approach for the electronic reporting provisions?

For the reasons explained in the preamble to the proposed rules (84 FR 58958, 58970, and 58979, November 1, 2019), and in the comment responses above in section IV.C.3 of this preamble, we are finalizing the electronic reporting provisions for 40 CFR parts 63, subparts IIII, MMMM, and PPPP, as proposed.

D. SSM Provisions

1. What did we propose?

In the November 1, 2019, action, we proposed amendments to the ALDT NESHAP, the MMPP NESHAP, and the PPP NESHAP to remove and revise provisions related to SSM that are not consistent with the statutory requirement that the standards apply at all times. More information concerning the elimination of SSM provisions is in the preamble to the proposed rules (84 FR 58959, 58971, and 58980, November 1, 2019).

2. What changed since proposal?

We are finalizing the SSM provisions as proposed except for some changes to the General Provisions references in Table 2 of 40 CFR part 63, subpart IIII (84 FR 58959, 58971, and 58980, November 1, 2019).

3. What key comments did we receive and what are our responses?

Comment: One commenter argued that the proposed removal and revision of the SSM provisions would effectively eliminate a longstanding provision applicable to magnet wire coating operations that allows for extra HAP emissions during SSM events, so long as the permittee addresses those events according to its facility SSM plan. The commenter acknowledged that the EPA is compelled to take this action by the decision in Sierra Club v. EPA, 551 F.3d 1019 (DC Cir. 2008), but the commenter reported that certain facilities now are challenged to find a methodology for emission calculations during SSM periods.

The commenter reported that magnet wire coaters—unless advised of an alternative approach—would account for SSM events in emission calculations by weighing coating hours in full compliance (with control percentage determined through stack testing) v. coating hours during start-up, shutdown, and malfunction periods, where the default assumption during the latter is zero control. The commenter stated that the weighted efficiency ratio would then be applied to the total mass of HAP input to surface coating operations to determine estimated emissions.

Response: The EPA agrees we are compelled to remove and revise the SSM provisions from each subpart consistent with Sierra Club v. EPA, 551 F.3d 1019 (DC Cir. 2008).

The commenter has not provided enough detail for the EPA to determine whether the compliance approach described by the commenter is consistent with the current requirements of 40 CFR part 63, subpart MMMM. However, subpart MMMM already includes provisions to account for deviation periods, so the commenter's proposed approach should not be necessary. For example, for coating operations that use an add-on control device, Equation 1 of 40 CFR 63.3961 includes the term HUNC, which is the total mass in kilograms of organic HAP in the coatings, thinners, and/or other additives, and cleaning materials used during all deviations specified in 40 CFR 63.3963(c) and (d) that occurred during the month, as calculated in Equation 1D of 40 CFR 63.3961. The rest of subpart MMMM treats these HAP as being uncontrolled, which is consistent with the commenter's assumption of zero control during SSM events.

Comment: One commenter recommended several changes to Table 2 (Applicability of General Provisions) to 40 CFR part 63, subpart IIII, as result of the changes made to reflect the SSM changes:

• Clarify that the provisions of 40 CFR 63.6(e)(3), 63.6(f)(1), 63.10(b)(2), and 63.10(d)(5) apply only to capture systems and add-on control devices used to comply with the standards, as in the current rule;

• correct an apparent drafting error and add back in a reference to 40 CFR 63.6(i)(16) with an indicator that it is still applicable to 40 CFR part 63, subpart IIII;

• do not finalize the applicability of 40 CFR 63.8(c)(7) from “No” to “Yes” unless the EPA provides further explanation of this change because it was not discussed in the preamble to the proposed rule; and

• combine the provisions of 40 CFR 63.9(h)(5) and (6) with the other notification of compliance status requirements in 40 CFR 63.9(h)(1) through (3).

Response: We agree with the commenter that the language indicating that the provisions of 40 CFR 63.6(e)(3), 63.6(f)(1), 63.10(b)(2), and 63.10(d)(5) apply only to capture systems and add-on control devices used to comply with the standards is a useful clarification and it is being added back into the appropriate rows of Table 2 to 40 CFR part 63, subpart IIII suggested by the commenter.

The commenter is correct that 40 CFR 63.6(i)(16) is still applicable to 40 CFR part 63, subpart IIII and this has been added back into the final Table 2 to subpart IIII.

We proposed to change the applicability of 40 CFR 63.8(c)(7) in Table 2 to 40 CFR part 63, subpart IIII from “No” to “Yes” because that was an apparent error in the original Table 2 to subpart IIII. Facilities are required to comply with 40 CFR 63.8(c)(7) as specified in 40 CFR 63.3120(a)(4), and the Table 2 to subpart IIII should already have been “Yes” instead of “No.” New references to 40 CFR 63.8(c)(7) are also being added in 40 CFR 63.3120(a)(6)(vii) and (a)(8)(vi).

We agree with the commenter that the provisions of 40 CFR 63.9(h)(5) and (6) should be combined with the other notification of compliance status requirements in 40 CFR 63.9(h)(1) through (3). The provisions of 40 CFR 63.9(h)(5) and (6) were separated in drafting the revised table because 40 CFR 63.9(h)(4) is reserved, but we agree that keeping them together on one line as “§ 63.9(h)(1) through (3), (5), and (6)” would avoid confusion, so we are adopting that approach in the promulgated version of Table 2 to 40 CFR part 63, subpart IIII.

4. What is the rationale for our final approach for the SSM provisions?

For the reasons explained in the proposed rule and after evaluation of the comments on the proposed amendments to the SSM provisions for the ALDT NESHAP, MMPP NESHAP, and PPP NESHAP, we are finalizing the proposed revisions related to SSM so that they are now consistent with the requirement that the standards apply at all times. More information concerning the proposed amendments to the SSM provisions is in the preamble to the proposed rules (84 FR 58959, 58971, and 58980, November 1, 2019).

E. Ongoing Compliance Demonstrations

1. What did we propose?

In the November 1, 2019, action, we proposed to require owners and operators of ALDT, MMPP, and PPP surface coating facilities that use the emission rate with add-on controls compliance option to conduct periodic performance testing of add-on control devices on a regular frequency of every 5 years to ensure the equipment continues to operate properly. This proposed periodic testing requirement included an exception to the general requirement for periodic testing for facilities using the catalytic oxidizer control options and following catalyst maintenance procedures that are found in 40 CFR part 63, subparts IIII, MMMM, and PPPP. These catalyst maintenance procedures include annual testing of the catalyst and other maintenance procedures that provide ongoing demonstrations that the control system is operating properly and may, thus, be considered comparable to conducting a performance test. The proposed periodic performance testing requirement also allows an exception from periodic testing for facilities using continuous emission monitoring systems (CEMS) to show actual emissions. The use of CEMS to demonstrate compliance would obviate the need for periodic testing.

This proposed requirement did not require periodic testing or CEMS monitoring of facilities using the compliant materials option or the emission-rate without add-on controls compliance option because these two compliance options do not use any add-on controls or control efficiency measurements in the compliance calculations.

The proposed periodic performance testing requirement requires facilities complying with the standards using emission capture systems and add-on controls and which are not already on a 5-year testing schedule to conduct the first of the periodic performance tests within 3 years of the effective date of the revised standards. Afterward, they would conduct periodic testing before they renew their operating permits, but no longer than 5 years following the previous performance test. Additionally, facilities that have already tested as a condition of their permit within the last 2 years before the effective date would be permitted to maintain their current 5-year schedule.

2. What changed since proposal?

We have revised the proposed periodic testing language in 40 CFR part 63, subparts IIII, MMMM, and PPPP, since proposal to clarify that testing is only required for add-on control devices and is not for emission capture systems. We are also revising 40 CFR 63.3093(a) to clarify that facilities in the ALDT source category are not required to meet any operating limits for any coating operations that do not use add-on controls to comply with the emission limits in 40 CFR 63.3090 or 63.3091.

3. What key comments did we receive and what are our responses?

Comment: One commenter recommended that proposed rule language at 40 CFR 63.3163(c)(3) in subpart IIII should be revised to clarify that periodic performance testing is only required for the add-on control device and that capture system efficiency testing is not required. The commenter argued that the EPA provided no technical justification to require periodic capture efficiency testing, and that capture efficiency is not likely to change without structural or operational changes to the emission capture system.

Response: The EPA agrees with the commenter and has revised the periodic performance testing language in 40 CFR part 63, subparts IIII, MMMM, and PPPP to clarify that the testing applies to the add-on control devices and does not include capture efficiency testing.

Comment: One commenter requested that the final 40 CFR part 63, subpart IIII should clarify that timing of subsequent performance tests should be aligned with title V permit requirements for testing to avoid additional testing to comply with both the NESHAP and their title V permits. The commenter recommended that regulatory language should provide for periodic testing “within the 5-year term of the Title V permit” or “within 5 years of the most recent testing,” or something similar. The commenter stated that the EPA should not require testing within a specified time period from the issuance of the amended rule or by a specific date.

Response: The EPA disagrees with the commenter that changes to the proposed rule language are needed because the proposed rule language already allows this flexibility. The proposed rule language at 40 CFR 63.3163(c)(3) stated,

“. . . You must conduct the first periodic performance test before [date 3 years after date of publications of final rule in the Federal Register], unless you are already required to complete periodic performance tests as a requirement of renewing your facility's operating permit under 40 CFR part 70 or 40 CFR part 71 and have conducted a performance test on or after [date 2 years before date of publications of final rule in the Federal Register]. Thereafter you must conduct a performance test no later than 5 years following the previous performance test. . . .”

Therefore, the proposed rule language already allows a facility to conduct a performance test within the 5-year period of a title V permit if testing is already required, and does not specify any additional testing, as long as the title V permit is renewed on a regular 5-year schedule as specified under 40 CFR part 70 and 40 CFR part 71.

Comment: One commenter requested that the EPA should allow for performance testing extensions beyond the 5-year requirement when necessary to obtain representative conditions and when agreed to with the EPA or with an EPA-approved permitting authority. The commenter argued that if, for example, significant coating operation facility changes or product changes are planned near the end of a 5-year period, deferring testing until after the change occurs would be preferable to obtain a more representative result. The commenter noted that the General Provisions currently allow for delays in performance tests due to force majeure events or a waiver of subsequent performance tests under certain conditions, but the General Provisions do not specifically reference testing delays due to the need to establish representative conditions. The commenter provided two examples of permit language that allow for extensions of testing periods.

Response: The EPA disagrees with the need to allow for testing delays and is not revising the proposed language to include the commenter's recommendation. The compliance calculations in 40 CFR part 63, subparts IIII, MMMM, and PPPP require a facility to use the organic HAP destruction or removal efficiency (DRE) of the add-on control device. The standards already require that tests be performed under representative coating operation operating conditions and under representative emission capture system and add-on control device operating conditions, which specifically exclude testing during periods of startup, shutdown, nonoperation, and malfunction. The EPA currently does not have sufficient information to define the conditions under which an extension should be granted, and no additional information was provided by the commenter. The commenter also provided no additional information to indicate whether and how the situations described by the commenter (e.g., significant coating operation changes or product changes) would alter the DRE of an add-on control device.

The EPA also notes that the purpose of periodic compliance testing is to not only demonstrate future compliance, but to also confirm past compliance. If a facility is planning significant changes that would prevent testing according to the 5-year schedule, the facility may need to complete testing earlier so as to demonstrate that the facility was in compliance under the original configuration. It may be necessary for the facility to repeat testing under the new configuration to re-establish new operating limits and efficiency values for the emission capture and control system.

Comment: One commenter requested that the EPA revise 40 CFR 63.3093(a) to clarify that facilities in the ALDT source category that do not use add-on controls to comply with the emission limits in 40 CFR 63.3090 or 63.3091 are not required to comply with the operating limits for add-on controls and emission capture systems. The commenters reported that the original language in 40 CFR 63.3093(a) only mentioned “coating operations without add-on controls” and this has led to confusion because many facilities have add-on controls to limit VOC emissions, but they are not needed to comply with the HAP emission limits.

Response: The EPA agrees that this change will avoid confusion and we will make the change to the language in 40 CFR part 63, subpart IIII. Other surface coating NESHAP, such as 40 CFR part 63, subparts MMMM and PPPP, already have language that avoids similar confusion over the applicability of the operating limits.

4. What is the rationale for our final approach for the ongoing compliance demonstrations?

For the reasons explained in the preamble to the proposed rules (84 FR 58963, 58974, and 58983, November 1, 2019), and in the comment responses above in section IV.E.3 of this preamble, we are finalizing the periodic testing provisions for 40 CFR part 63, subparts IIII, MMMM, and PPPP, as proposed. As also described in section IV.E.3 of this preamble, we are also making changes to each NESHAP to clarify that testing is only required for add-on control devices and is not required for emission capture systems. We are also revising 40 CFR 63.3093(a) to clarify that facilities in the ALDT source category are not required to meet any operating limits for any coating operations that do not use add-on controls to comply with the emission limits in 40 CFR 63.3090 or 63.3091, as described in section IV.E.3 of this preamble.

V. Summary of Cost, Environmental, and Economic Impacts and Additional Analyses Conducted

A. What are the affected facilities?

Currently, we estimate 43 major source facilities are subject to the ALDT NESHAP and operating in the United States. The affected source under the NESHAP is the collection of all coating operations; all storage containers and mixing vessels in which coatings, thinners, and cleaning materials are stored or mixed; all manual and automated equipment and containers used for conveying coatings, thinners, and cleaning materials; and all storage containers and all manual and automated equipment and containers used for conveying waste materials generated by a coating operation. A coating operation is defined as the equipment used to apply coating to a substrate (coating application) and to dry or cure the coating after application. A single coating operation always includes at least the point at which a coating is applied and all subsequent points in the affected source where organic HAP emissions from that coating occur. There may be multiple coating operations in an affected source. Coating application with hand-held nonrefillable aerosol containers, touchup bottles, touchup markers, marking pens, or pinstriping equipment is not a coating operation for the purposes of this subpart. The application of temporary materials such as protective oils and “travel waxes” that are designed to be removed from the vehicle before it is delivered to a retail purchaser is not a coating operation for the purposes of 40 CFR part 61, subpart IIII.

Currently, we estimate 368 major source facilities are subject to the MMPP NESHAP and operating in the United States. The affected source under the NESHAP is the collection of all coating operations; all storage containers and mixing vessels in which coatings, thinners, and cleaning materials are stored or mixed; all manual and automated equipment and containers used for conveying coatings, thinners, and cleaning materials; and all storage containers and all manual and automated equipment and containers used for conveying waste materials generated by a coating operation. A coating operation is defined as the equipment used to apply cleaning materials to a substrate to prepare it for coating application (surface preparation) or to remove dried coating; to apply coating to a substrate (coating application) and to dry or cure the coating after application; or to clean coating operation equipment (equipment cleaning). A single coating operation may include any combination of these types of equipment but always includes at least the point at which a given quantity of coating or cleaning material is applied to a given part and all subsequent points in the affected source where organic HAP are emitted from the specific quantity of coating or cleaning material on the specific part. There may be multiple coating operations in an affected source. Coating application with handheld, non-refillable aerosol containers, touch-up markers, or marking pens is not a coating operation for the purposes of 40 CFR part 63, subpart MMMM.

Currently, we estimate 125 major source facilities are subject to the PPP NESHAP and operating in the United States. The affected source under the NESHAP is the collection of coating operations; all storage containers and mixing vessels in which coatings, thinners, and cleaning materials are stored or mixed; all manual and automated equipment and containers used for conveying coatings, thinners, and cleaning materials; and all storage containers and all manual and automated equipment and containers used for conveying waste materials generated by a coating operation. A coating operation is defined as the equipment used to apply cleaning materials to a substrate to prepare it for coating application (surface preparation) or to remove dried coating; to apply coating to a substrate (coating application) and to dry or cure the coating after application; or to clean coating operation equipment (equipment cleaning). A single coating operation may include any combination of these types of equipment but always includes at least the point at which a given quantity of coating or cleaning material is applied to a given part and all subsequent points in the affected source where organic HAP are emitted from the specific quantity of coating or cleaning material on the specific part. There may be multiple coating operations in an affected source. Coating application with handheld, non-refillable aerosol containers, touch-up markers, or marking pens is not a coating operation for the purposes of 40 CFR part 63, subpart PPPP.

B. What are the air quality impacts?

At the current level of control, estimated emissions of volatile organic HAP from the 43 facilities in the ALDT source category are approximately 1,700 tpy. Current estimated emissions of volatile organic HAP from the 368 facilities in the MMPP source category are approximately 2,700 tpy. Current estimated emissions of volatile organic HAP from the 125 facilities in the PPP source category are approximately 760 tpy.

The amendments require that all major sources in the ALDT, MMPP, and PPP source categories comply with the relevant emission standards at all times, including periods of SSM. We were unable to quantify the emissions that occur during periods of SSM or the specific emissions reductions that will occur as a result of this action. However, eliminating the SSM exemption has the potential to reduce emissions by requiring facilities to meet the applicable standard at all times and to minimize SSM periods.

Indirect or secondary air emissions impacts are impacts that would result from, for example, the increased electricity, natural gas, or water usage associated with the operation of control devices (e.g., increased secondary emissions of criteria pollutants from power plants). Energy impacts consist of the electricity and steam needed to operate control devices and other equipment. The amendments would have no effect on the energy needs of the affected facilities in any of the three source categories and will, therefore, have no indirect or secondary air emissions impacts.

C. What are the cost impacts?

We estimate that each affected facility in these three source categories will experience costs as a result of these final amendments for recordkeeping and reporting. Each facility will experience costs to read and understand the rule amendments. Costs associated with eliminating the SSM exemption were estimated as part of the reporting and recordkeeping costs and include time for re-evaluating previously developed SSM record systems. Costs associated with the requirement to electronically submit notifications and semi-annual compliance reports using CEDRI were estimated as part of the reporting and recordkeeping costs and include time for becoming familiar with CEDRI and the reporting template for semi-annual compliance reports. The recordkeeping and reporting costs are presented in section VI.C of this preamble.

We are also finalizing a requirement for performance testing no less frequently than every 5 years for sources in each source category using the add-on controls compliance options. We estimate that five major source facilities subject to the ALDT NESHAP may incur costs to conduct periodic testing because they are currently using the emission rate with add-on controls compliance option, and the total cost for all five facilities subject to the ALDT NESHAP in a single year would be $95,000. Similarly, we estimate that seven major source facilities subject to the MMPP NESHAP may incur costs to conduct periodic testing because they are currently using the emission rate with add-on controls compliance option, at a total cost in a single year of $133,000. Finally, we estimate that three major source facilities subject to the PPP NESHAP may incur costs to conduct periodic testing because they are currently using the emission rate with add-on controls compliance option, at a total cost in a single year of $57,000. These estimates exclude testing costs for facilities that have add-on controls and are currently required to perform periodic performance testing as a condition of their state operating permit. The cost for a facility to conduct a destruction or removal efficiency performance test using EPA Method 25 or 25A is estimated to be about $19,000. For further information on the potential costs, see the memorandum titled Estimated Costs/Impacts 40 CFR part 63 Subparts IIII, MMMM, and PPPP Monitoring Review Revisions, May 2019, in the ALDT Docket, MMPP Docket, and PPP Docket.

D. What are the economic impacts?

The economic impact analysis is designed to inform decision makers about the potential economic consequences of the compliance costs outlined in section VI.C. of this preamble. To assess the maximum potential impact, the largest cost expected to be experienced in any one year is compared to the total sales for the ultimate owner of the affected facilities to estimate the total burden for each facility.

For the final revisions to the ALDT NESHAP, the total cost is estimated to be approximately $113,000 for the 43 affected entities in the first year of the rule, and an additional $122,000 in testing and reporting costs for five facilities in the third year of the rule and every 5 years thereafter. The 43 affected facilities are owned by 14 different parent companies, and the total costs associated with the final requirements range from 0.000002 to 0.0056 percent of annual sales revenue per ultimate owner. These costs are not expected to result in a significant market impact, regardless of whether they are passed on to the purchaser or absorbed by the firms.

For the final revisions to the MMPP NESHAP, the total cost is estimated to be approximately $964,000 for the 368 affected entities in the first year of the rule, and an additional $172,000 in testing and reporting costs for seven facilities in the third year of the rule and every 5 years thereafter. The 368 affected facilities are owned by 265 different parent companies, and the total costs associated with the final requirements range from 0.000002 to 0.25 percent of annual sales revenue per ultimate owner. These costs are not expected to result in a significant market impact, regardless of whether they are passed on to the purchaser or absorbed by the firms.

For the final revisions to the PPP NESHAP, the total cost is estimated to be approximately $327,000 for the 125 affected entities in the first year of the rule, and an additional $74,000 in testing and reporting costs for three facilities in the third year of the rule and every 5 years thereafter. The 125 affected facilities are owned by 94 different parent companies, and the total costs associated with the final requirements range from 0.000008 to 0.22 percent of annual sales revenue per ultimate owner. These costs are not expected to result in a significant market impact, regardless of whether they are passed on to the purchaser or absorbed by the firms.

The EPA also prepared a small business screening assessment to determine whether any of the identified affected entities are small entities, as defined by the U.S. Small Business Administration. One of the facilities potentially affected by the final revisions to the ALDT NESHAP is a small entity. However, the annualized costs associated with the final requirements is 0.0056 percent of annual sales revenue for the owner of that facility. Of the facilities potentially affected by the final revisions to the MMPP NESHAP, 110 are small entities. However, the annualized costs associated with the final requirements for the 103 ultimate owners of these 110 affected small entities range from 0.001 to 0.25 percent of annual sales revenues per ultimate owner. Of the facilities potentially affected by the final revisions to the PPP NESHAP, 35 are small entities. However, the annualized costs associated with the final requirements for the 35 ultimate owners of these 35 affected small entities range from 0.0009 to 0.22 percent of annual sales revenues per ultimate owner. Therefore, there are no significant economic impacts on a substantial number of small entities from these final amendments.

E. What are the benefits?

As stated in section V.B. of the November 1, 2019, RTR proposal (84 FR 58986), we were unable to quantify the specific emissions reductions associated with eliminating the SSM exemption, although this change has the potential to reduce emissions of volatile organic HAP.

Because these amendments are not considered economically significant, as defined by Executive Order 12866, we did not monetize the benefits of reducing these emissions. This does not mean that there are no benefits associated with the potential reduction in volatile organic HAP from this rule.

F. What analysis of environmental justice did we conduct?

Executive Order 12898 (59 FR 7629, February 16, 1994) establishes federal executive policy on environmental justice. The order directs federal agencies, to the greatest extent practicable and permitted by law, to make environmental justice part of their mission by identifying and addressing, as appropriate, disproportionately high and adverse human health or environmental effects of their programs, policies, and activities on minority populations and low-income populations in the United States.

To examine the potential for any environmental justice issues that might be associated with these source categories, we performed a demographic analysis for each source category, which is an assessment of risks to individual demographic groups of the populations living within 5 kilometers (km) and within 50 km of the facilities. In the analysis, we evaluated the distribution of HAP-related cancer and noncancer risks from each source category across different demographic groups within the populations living near facilities.

1. Surface Coating of ALDT

The results of the demographic analysis for the Surface Coating of ALDT source category are summarized in Table 5 of this preamble. These results, for various demographic groups, are based on the estimated risk from actual emissions levels for the population living within 50 km of the facilities.

The results of the ALDT source category demographic analysis indicate that emissions from the source category expose approximately 15,000 people to a cancer risk at or above 1-in-1 million and no one is exposed to a chronic noncancer HI greater than 1. The overall percent of the population that is minorities is similar nationally (38 percent) and for the category population with cancer risk greater than or equal to 1-in-1 million (40 percent). However, the category population with cancer risk greater than or equal to 1-in-1 million has a greater percent Hispanic population (27 percent) as compared to the national percent Hispanic population (18 percent).

Table 5—Surface Coating of ALDT Source Category Demographic Risk Analysis Results
| Nationwide | Population with cancer risk at or above 1-in-1 million due to surface coating of ALDT | Population with chronic noncancer HI above 1 due to surface coating of ALDT
Total Population | 317,746,049 | 15,000 | 0
White and Minority by Percent
White | 62 | 60 | 0
Minority | 38 | 40 | 0
Minority Detail by Percent
African American | 12 | 10 | 0
Native American | 0.8 | 0.2 | 0
Hispanic or Latino | 18 | 27 | 0
Other and Multiracial | 7 | 3 | 0
Income by Percent
Below the Poverty Level | 14 | 19 | 0
Above the Poverty Level | 86 | 81 | 0
Education by Percent
Over 25 Without High a School Diploma | 14 | 14 | 0
Over 25 With a High School Diploma | 86 | 86 | 0
Linguistically Isolated by Percent
Linguistically Isolated | 6 | 3 | 0

The methodology and the results of the demographic analysis are presented in a technical report titled Risk and Technology Review—Analysis of Demographic Factors for Populations Living Near Automobile and Light-Duty Truck Surface Coating Source Category Operations, in the ALDT Docket.

2. Surface Coating of MMPP

The results of the demographic analysis for the Surface Coating of MMPP source category are summarized in Table 6 of this preamble. These results, for various demographic groups, are based on the estimated risk from actual emissions levels for the population living within 50 km of the facilities.

The results of the MMPP source category demographic analysis indicate that approximately 18,000 people are exposed to a cancer risk at or above 1-in-1 million and no one is exposed to a chronic noncancer HI greater than 1. The percentages of the at-risk population in the following specific demographic groups are higher than their respective nationwide percentages: “White,” “Below the Poverty Level,” and “Over 25 and Without a High School Diploma.”

Table 6—Surface Coating of MMPP Source Category Demographic Risk Analysis Results
| Nationwide | Population with cancer risk at or above 1-in-1 million due to surface coating of MMPP | Population with chronic noncancer HI above 1 due to surface coating of MMPP
Total Population | 317,746,049 | 18,000 | 0
White and Minority by Percent
White | 62 | 75 | 0
Minority | 38 | 25 | 0
Minority Detail by Percent
African American | 12 | 12 | 0
Native American | 0.8 | 0.6 | 0
Hispanic or Latino | 18 | 9 | 0
Other and Multiracial | 7 | 3 | 0
Income by Percent
Below the Poverty Level | 14 | 20 | 0
Above the Poverty Level | 86 | 80 | 0
Education by Percent
Over 25 Without High a School Diploma | 14 | 18 | 0
Over 25 With a High School Diploma | 86 | 82 | 0
Linguistically Isolated by Percent
Linguistically Isolated | 6 | 3 | 0

The methodology and the results of the demographic analysis are presented in a technical report titled Risk and Technology Review—Analysis of Demographic Factors for Populations Living Near the Surface Coating of Miscellaneous Metal Parts and Products Source Category, in the MMPP Docket.

3. Surface Coating of PPP

The results of the demographic analysis for the Surface Coating of PPP source category are summarized in Table 7 of this preamble. These results, for various demographic groups, are based on the estimated risk from actual emissions levels for the population living within 50 km of the facilities.

The results of the PPP source category demographic analysis indicate that approximately 500 people are exposed to a cancer risk at or above 1-in-1 million and no one is exposed to a chronic noncancer HI greater than 1. The percentages of the at-risk population in the following specific demographic groups are higher than their respective nationwide percentages: “White” and “Below the Poverty Level.”

Table 7—Surface Coating of PPP Source Category Demographic Risk Analysis Results
| Nationwide | Population with cancer risk at or above 1-in-1 million due to surface coating of PPP | Population with chronic noncancer HI above 1 due to surface coating of PPP
Total Population | 317,746,049 | 500 | 0
White and Minority by Percent
White | 62 | 92 | 0
Minority | 38 | 8 | 0
Minority Detail by Percent
African American | 12 | 4 | 0
Native American | 0.8 | 0.1 | 0
Hispanic or Latino | 18 | 3 | 0
Other and Multiracial | 7 | 1 | 0
Income by Percent
Below the Poverty Level | 14 | 19 | 0
Above the Poverty Level | 86 | 81 | 0
Education by Percent
Over 25 Without High a School Diploma | 14 | 14 | 0
Over 25 With a High School Diploma | 86 | 86 | 0
Linguistically Isolated by Percent
Linguistically Isolated | 6 | 0 | 0

The methodology and the results of the demographic analysis are presented in a technical report titled Risk and Technology Review—Analysis of Demographic Factors for Populations Living Near Surface Coating of Plastic Parts and Products Source Category Operations, in the PPP Docket.

G. What analysis of children's environmental health did we conduct?

The EPA does not believe the environmental health or safety risks addressed by this action present a disproportionate risk to children. This action's health and risk assessments are summarized in section IV.A of this preamble and are further documented in the Residual Risk Assessment for the Surface Coating of Automobiles and Light-Duty Trucks Source Category in Support of the 2020 Risk and Technology Review Final Rule, Residual Risk Assessment for the Surface Coating of Miscellaneous Metal Parts and Products Source Category in Support of the 2020 Risk and Technology Review Final Rule, and Residual Risk Assessment for the Surface Coating of Plastic Parts and Products Source Category in Support of the 2020 Risk and Technology Review Final Rule, in the ALDT Docket, MMPP Docket, and PPP Docket, respectively.

VI. Statutory and Executive Order Reviews

Additional information about these statutes and Executive Orders can be found at https://www.epa.gov/laws-regulations/laws-and-executive-orders.

A. Executive Orders 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is not an Executive Order 13771 regulatory action because this action is not significant under Executive Order 12866.

C. Paperwork Reduction Act (PRA)

The information collection activities in this rule have been submitted for approval to OMB under the PRA, as discussed for each source category covered by this action in sections VI.C.1, 2, and 3 of this preamble.

1. Surface Coating of ALDT

The Information Collection Request (ICR) document that the EPA prepared has been assigned EPA ICR number 2045.09. You can find a copy of the ICR in the ALDT Docket for this rule (Docket ID No. EPA-HQ-OAR-2019-0314), and it is briefly summarized here. The information collection requirements are not enforceable until OMB approves them.

As part of the RTR for the ALDT NESHAP, the EPA is not revising the emission limit requirements. The EPA has revised the SSM provisions of the rule and is requiring the use of electronic data reporting for future performance test data submittals, notifications, and reports. This information is being collected to assure compliance with 40 CFR part 63, subpart IIII. The EPA is finalizing a requirement to conduct control device performance testing no less frequently than once every 5 years for facilities using the emission rate with add-on controls compliance option.

Respondents/affected entities: Facilities performing surface coating of ALDT.

Respondent's obligation to respond: Mandatory (40 CFR part 63, subpart IIII).

Estimated number of respondents: In the 3 years after the amendments are final, approximately 43 respondents per year will be subject to the NESHAP and no additional respondents are expected to become subject to the NESHAP during that period. The EPA estimates that five facilities will be required to conduct performance testing in the 3 years after the amendments are final.

Frequency of response: The total number of responses in year 1 is 129 and in year 3 is 15. Year 2 would have no responses.

Total estimated burden: The average annual burden to the ALDT surface coating facilities over the 3 years after the amendments are finalized is estimated to be 410 hours (per year). Burden is defined at 5 CFR 1320.3(b).

Total estimated cost: The average annual cost to the ALDT surface coating facilities is $47,000 in labor costs in the first 3 years after the amendments are final. The average annual capital and operation and maintenance (O&M) costs is $32,000.

2. Surface Coating of MMPP

The ICR document that the EPA prepared has been assigned EPA ICR number 2056.08. You can find a copy of the ICR in the MMPP Docket for this rule (Docket ID No. EPA-HQ-OAR-2019-0312), and it is briefly summarized here. The information collection requirements are not enforceable until OMB approves them.

As part of the RTR for the MMPP NESHAP, the EPA is not revising the emission limit requirements. The EPA has revised the SSM provisions of the rule and is requiring the use of electronic data reporting for future performance test data submittals, notifications, and reports. This information is being collected to assure compliance with 40 CFR part 63, subpart MMMM. The EPA is finalizing a requirement to conduct control device performance testing no less frequently than once every 5 years for facilities using the emission rate with add-on controls compliance option.

Respondents/affected entities: Facilities performing surface coating of MMPP.

Respondent's obligation to respond: Mandatory (40 CFR part 63, subpart MMMM).

Estimated number of respondents: In the 3 years after the amendments are final, approximately 368 respondents per year will be subject to the NESHAP and no additional respondents are expected to become subject to the NESHAP during that period.

Frequency of response: The total number of responses in year 1 is 1,104 and in year 3 is 21. Year 2 would have no responses.

Total estimated burden: The average annual burden to the MMPP surface coating facilities over the 3 years after the amendments are final is estimated to be 2,930 hours (per year). Burden is defined at 5 CFR 1320.3(b).

Total estimated cost: The average annual cost to the MMPP surface coating facilities is $334,000 in labor costs in the first 3 years after the amendments are final. The average annual capital and O&M cost is $44,000.

3. Surface Coating of PPP

The ICR document that the EPA prepared has been assigned EPA ICR number 2044.09. You can find a copy of the ICR in the PPP Docket for this rule (Docket ID No. EPA-HQ-OAR-2019-0313), and it is briefly summarized here. The information collection requirements are not enforceable until OMB approves them.

As part of the RTR for the PPP NESHAP, the EPA is not revising the emission limit requirements. The EPA has revised the SSM provisions of the rule and is requiring the use of electronic data reporting for future performance test data submittals, notifications, and reports. This information is being collected to assure compliance with 40 CFR part 63, subpart PPPP. The EPA is finalizing a requirement to conduct control device performance testing no less frequently than once every 5 years for facilities using the emission rate with add-on controls compliance option.

Respondents/affected entities: Facilities performing surface coating of PPP.

Respondent's obligation to respond: Mandatory (40 CFR part 63, subpart PPPP).

Estimated number of respondents: In the 3 years after the amendments are final, approximately 125 respondents per year will be subject to the NESHAP and no additional respondents are expected to become subject to the NESHAP during that period.

Frequency of response: The total number of responses in year 1 is 375 and in year 3 is nine. Year 2 would have no responses.

Total estimated burden: The average annual burden to the PPP surface coating facilities over the 3 years after the amendments are final is estimated to be 1,007 hours (per year). Burden is defined at 5 CFR 1320.3(b).

Total estimated cost: The average annual cost to the PPP surface coating facilities is $115,000 in labor costs in the first 3 years after the amendments are final. The average annual capital and O&M cost is $19,000.

This action does not impose any new information collection burden related to the NESHAP for Surface Coating of Large Appliances; NESHAP for Printing, Coating, and Dyeing of Fabrics and Other Textiles; and NESHAP for Surface Coating of Metal Furniture. OMB has previously approved the information collection activities contained in the existing regulations and has assigned OMB control number 2060-0457 for NESHAP for Surface Coating of Large Appliances; 2060-0522 for NESHAP for Printing, Coating, and Dyeing of Fabrics and Other Textiles; and 2060-0518 for NESHAP for Surface Coating of Metal Furniture. This notice only finalizes technical corrections to these standards and does not impact the reporting or recordkeeping requirements.

An agency may not conduct or sponsor, and a person is not required to respond to, a collection of information unless it displays a currently valid OMB control number. The OMB control numbers for the EPA's regulations in 40 CFR are listed in 40 CFR part 9. When OMB approves the ICRs, the Agency will announce that approval in the Federal Register and publish a technical amendment to 40 CFR part 9 to display the OMB control number for the approved information collection activities contained in the final rule.

D. Regulatory Flexibility Act (RFA)

I certify that this action will not have a significant economic impact on a substantial number of small entities under the RFA. The economic impact associated with the requirements in this action for the affected small entities is described in section V.D. of this preamble.

E. Unfunded Mandates Reform Act (UMRA)

This action does not contain an unfunded mandate of $100 million or more as described in UMRA, 2 U.S.C. 1531-1538, and does not significantly or uniquely affect small governments. The action imposes no enforceable duty on any state, local, or tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. No tribal facilities are known to be engaged in any of the industries that would be affected by this action (ALDT surface coating, MMPP surface coating, and PPP surface coating). Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections III.A and C, IV.A.1 and 2, IV.B.1 and 2, and IV.C.1 and 2 of this preamble and are further documented in the Residual Risk Assessment for the Surface Coating of ALDT Source Category in Support of the 2020 Risk and Technology Review Final Rule, Residual Risk Assessment for the Surface Coating of MMPP Source Category in Support of the 2020 Risk and Technology Review Final Rule, and Residual Risk Assessment for the Surface Coating of PPP Source Category in Support of the 2020 Risk and Technology Review Final Rule, in the ALDT Docket, MMPP Docket, and PPP Docket, respectively.

I. Executive Order 13211: Actions Concerning Regulations That Significantly Affect Energy Supply, Distribution, or Use

This action is not subject to Executive Order 13211 because it is not a significant regulatory action under Executive Order 12866.

J. National Technology Transfer and Advancement Act (NTTAA) and 1 CFR Part 51

This rulemaking involves technical standards. The EPA conducted searches for the MACT standards through the Enhanced National Standards Systems Network Database managed by the American National Standards Institute. We also contacted VCS organizations and accessed and searched their databases. During the EPA's VCS search, if the title or abstract (if provided) of the VCS described technical sampling and analytical procedures that are similar to the EPA's reference method, the EPA reviewed it as a potential equivalent method. The EPA is finalizing, as proposed, addition of methods to the ALDT NESHAP, the MMPP NESHAP, and the PPP NESHAP, as discussed in this section VI.J.

The EPA is amending the ALDT NESHAP, the MMPP NESHAP, and the PPP NESHAP to provide owners and operators with the option of using two new methods. We are adding EPA Method 18 of appendix A to 40 CFR part 60, “Measurement of Gaseous Organic Compound Emissions by Gas Chromatography,” to measure and subtract methane emissions from measured total gaseous organic mass emissions as carbon. We are also amending each of these NESHAP to incorporate by reference ASTM D2369-10 (Reapproved 2015)ᵉ, “Standard Test Method for Volatile Content of Coatings,” into these three NESHAP as an alternative to EPA Method 24 for the determination of the volatile matter content in surface coatings. ASTM D2369-10 (Reapproved 2015)ᵉ is a test method that allows for more accurate results for multi-component chemical resistant coatings.

We are amending the MMPP NESHAP and the PPP NESHAP to incorporate by reference ASTM D2111-10 (Reapproved 2015), “Standard Test Methods for Specific Gravity and Density of Halogenated Organic Solvents and Their Admixtures,” as an alternative to ASTM D1475-13. ASTM D2111-10 (Reapproved 2015) is a test method that allows measurement of specific gravity at different temperatures that are chosen by the analyst.

We are amending all three NESHAP to update ASTM D1475-98 (Reapproved 2003), “Standard Test Method for Density of Liquid Coatings, Inks, and Related Products,” by incorporating by reference ASTM D1475-13, “Standard Test Method for Density of Liquid Coatings, Inks, and Related Products.” This test method covers the measurement of the density of paints, inks, varnishes, lacquers, and components thereof, other than pigments, when in fluid form.

We are amending the ALDT NESHAP and the MMPP NESHAP to update ASTM D2697-86 (Reapproved 1998), “Standard Test Method for Volume Nonvolatile Matter in Clear or Pigmented Coatings,” by incorporating by reference ASTM D2697-03 (Reapproved 2014), which is the updated version of the previously approved method, and to update ASTM D6093-97 (Reapproved 2003), “Standard Test Method for Percent Volume Nonvolatile Matter in Clear or Pigmented Coatings Using Helium Gas Pycnometer,” by incorporating by reference ASTM D6093-97 (Reapproved 2016), which is the updated version of the previously approved method. ASTM D2697-03 (Reapproved 2014) is a test method that can be used to determine the volume of nonvolatile matter in clear and pigmented coatings, and ASTM D6093-97 (Reapproved 2016) is a test method that can be used to determine the percent volume of nonvolatile matter in clear and pigmented coatings.

We are amending the ALDT NESHAP to update ASTM D5066-91 (Reapproved 2001), “Standard Test Method for Determination of the Transfer Efficiency Under Production Conditions for Spray Application of Automotive Paints-Weight Basis,” by incorporating by reference ASTM D5066-91 (Reapproved 2017), which is the updated version of the previously approved method. This test method covers procedures for determination of the transfer efficiency (using a weight method) under production conditions for in-plant spray application of automotive paints as outlined in Section 18 of EPA 450/3-88-018.

We are amending the ALDT NESHAP and the MMPP NESHAP to update ASTM D5965-02, “Standard Test Methods for Specific Gravity of Coating Powders,” by incorporating by reference ASTM D5965-02 (Reapproved 2013), which is the updated version of the previously approved method. These test methods cover three procedures for determining the specific gravity (see definition) of coating powders, i.e., Test Method A—For Testing Coating Powders, Excluding Metallics; Test Method B—For Tests Requiring Greater Precision than Test Method A, Including Metallics, Using Helium Pycnometry; and Test Method C—For Theoretical Calculation Based on Raw Material.

We are amending the ALDT NESHAP to update ASTM D6266-00a, “Standard Test Method for Determining the Amount of Volatile Organic Compound (VOC) Released from Waterborne Automotive Coatings and Available for Removal in a VOC Control Device (Abatement),” by incorporating by reference ASTM D6266-00a (Reapproved 2017), which is the updated version of the previously approved method. This test method describes the determination of the amount of VOC released from applied waterborne automotive coatings that is available for delivery to a VOC control device. The determination is accomplished by measuring the weight loss of a freshly coated test panel subject to evaporation or drying and by analysis of the VOC or water content in the coating.

The ASTM standards are available from ASTM International 100 Barr Harbor Drive, Post Office Box C700, West Conshohocken, PA 19428-2959. See https://www.astm.org/.

The EPA is amending the ALDT NESHAP to incorporate by reference EPA-450/3-88-018 “Protocol for Determining the Daily Volatile Organic Compound Emission Rate of Automobile and Light-Duty Truck Topcoat Operations,” for use in 40 CFR 63.3130(c), 63.3161(d), and (g), 63.3165(e), and appendix A to subpart IIII of part 63. This protocol determines the daily VOC emission rate (pounds of VOC per gallon of coating solids deposited) for a complete ALDT topcoat operation and is available in the ALDT Docket. The protocol is designed for uses in cases where topcoat emission limit is stated in units of pounds of VOC per gallon of solids deposited, compliance is demonstrated each day, and entire topcoat operation is treated as a single entity. The protocol uses the number of square feet coated on each vehicle in each booth with each coating as the basis for the daily weighting of individual transfer efficiency and bake oven exhaust control values. The method is intended to apply to primary coatings for new ALDT bodies, body parts for new ALDT, and other parts that are coated along with these bodies or body parts. It can also be downloaded from the EPA's website at the National Service Center for Environmental Publications, just access the following website at https://nepis.epa.gov and search either the title or document number.

The EPA decided not to include certain other VCS; these methods are impractical as alternatives because of the lack of equivalency, documentation, validation date, and other important technical and policy considerations. The search and review results have been documented and are in the memoranda titled Voluntary Consensus Standard Results for NESHAP RTR: Surface Coating of Automobile and Light-Duty Trucks, June 2019, Voluntary Consensus Standard Results for NESHAP RTR: Surface Coating of Miscellaneous Metal Parts, June 2019, and Voluntary Consensus Standard Results for NESHAP RTR: Surface Coating of Plastic Parts and Products, June 2019, in the ALDT Docket, MMPP Docket, and the PPP Docket, respectively.

The revised regulatory text contains references to ANSI/ASME PTC 19.10-1981 (§ 63.3166) and ASTM D5087-02 (§ 63.3165 and appendix A to subpart IIII). Both of these standards were previously approved for these sections. That approval continues without change.

Under 40 CFR 63.7(f) and 40 CFR 63.8(f) of subpart A of the General Provisions, a source may apply to the EPA for permission to use alternative test methods or alternative monitoring requirements in place of any required testing methods, performance specifications, or procedures in the final rule or any amendments.

K. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994). This action increases the level of environmental protection for all affected populations. The results of this evaluation are contained in section IV.A of this preamble and the technical reports titled Risk and Technology Review—Analysis of Demographic Factors for Populations Living Near Automobile and Light-Duty truck Surface Coating Category Operations, March 2019, Risk and Technology Review—Analysis of Demographic Factors for Populations Living Near the Surface Coating of Miscellaneous Metal Parts and Products Source Category, May 2019, and Risk and Technology Review—Analysis of Demographic Factors for Populations Living Near Surface Coating of Plastic Parts and Products Source Category Operations, April 2019, available in the ALDT Docket, MMPP Docket, and the PPP Docket, respectively.

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Incorporation by reference, Reporting and recordkeeping requirements, Surface coating of automobiles and light-duty trucks, Surface coating of miscellaneous metal parts and products, Surface coating of plastic parts and products.

Dated: March 11, 2020.
Andrew R. Wheeler,
Administrator.

For the reasons set forth in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by:

a. Removing paragraph (h)(12);

b. Redesignating paragraphs (h)(13) through (115) as paragraphs (h)(12) through (114);

c. Revising newly redesignated paragraphs (h)(12), (20), (25), (28), (29), (65), (75), (77), (78), and (80);

d. Redesignating paragraphs (n)(1) through (24) as paragraphs (n)(2) through (25); and

e. Adding new paragraph (n)(1).

The revisions and addition read as follows:

§ 63.14 Incorporations by reference

* * * * *

(h) * * *

(12) ASTM D1475-13, Standard Test Method for Density of Liquid Coatings, Inks, and Related Products, approved November 1, 2013, IBR approved for §§ 63.3151(b), 63.3941(b) and (c), 63.3951(c), 63.4141(b) and (c), 63.4551(c), 63.4741(b) and (c), 63.4751(c), and 63.4941(b) and (c).

* * * * *

(20) ASTM D2111-10 (Reapproved 2015), Standard Test Methods for Specific Gravity and Density of Halogenated Organic Solvents and Their Admixtures, approved June 1, 2015, IBR approved for §§ 63.3951(c), 63.4141(b) and (c), 63.4551(c), and 63.4741(a).

* * * * *

(25) ASTM D2369-10 (Reapproved 2015)ᵉ, Standard Test Method for Volatile Content of Coatings, approved June 1, 2015, IBR approved for §§ 63.3151(a), 63.3961(j), 63.4141(a) and (b), 63.4161(h), 63.4321(e), 63.4341(e), 63.4351(d), 63.4541(a), 63.4561(j), 63.4741(a), 63.4941(a) and (b), and 63.4961(j).

* * * * *

(28) ASTM D2697-86 (Reapproved 1998), Standard Test Method for Volume Nonvolatile Matter in Clear or Pigmented Coatings, IBR approved for §§ 63.3521(b), and 63.5160(c).

(29) ASTM D2697-03 (Reapproved 2014), Standard Test Method for Volume Nonvolatile Matter in Clear or Pigmented Coatings, approved July 1, 2014, IBR approved for §§ 63.3161(f), 63.3941(b), 63.4141(b), 63.4741(a) and (b), and 63.4941(b).

* * * * *

(65) ASTM D5066-91 (Reapproved 2017), Standard Test Method for Determination of the Transfer Efficiency Under Production Conditions for Spray Application of Automotive Paints-Weight Basis, approved June 1, 2017, IBR approved for § 63.3161(g).

* * * * *

(75) ASTM D5965-02 (Reapproved 2013), Standard Test Methods for Specific Gravity of Coating Powders, approved June 1, 2013, IBR approved for §§ 63.3151(b) and 63.3951(c).

* * * * *

(77) ASTM D6093-97 (Reapproved 2003), Standard Test Method for Percent Volume Nonvolatile Matter in Clear or Pigmented Coatings Using a Helium Gas Pycnometer, IBR approved for §§ 63.3521 and 63.5160(c).

(78) ASTM D6093-97 (Reapproved 2016), Standard Test Method for Percent Volume Nonvolatile Matter in Clear or Pigmented Coatings Using a Helium Gas Pycnometer, approved December 1, 2016, IBR approved for §§ 63.3161(f), 63.3941(b), 63.4141(b), 63.4741(a) and (b), and 63.4941(b).

* * * * *

(80) ASTM D6266-00a (Reapproved 2017), Standard Test Method for Determining the Amount of Volatile Organic Compound (VOC) Released from Waterborne Automotive Coatings and Available for Removal in a VOC Control Device (Abatement), approved July 1, 2017, IBR approved for § 63.3165(e).

* * * * *

(n) * * *

(1) EPA-450/3-88-018, Protocol for Determining the Daily Volatile Organic Compound Emission Rate of Automobile and Light-Duty Truck Topcoat Operations, December 1988, IBR approved for §§ 63.3130(c), 63.3161(d) and (g), 63.3165(e), and appendix A to subpart IIII.

* * * * *

Subpart IIII—National Emission Standards for Hazardous Air Pollutants: Surface Coating of Automobiles and Light-Duty Trucks

3. Section 63.3092 is amended by revising paragraph (a)(2) to read as follows:

§ 63.3092 How must I control emissions from my electrodeposition primer system if I want to comply with the combined primer-surfacer, topcoat, final repair, glass bonding primer, and glass bonding adhesive emission limit?

* * * * *

(a) * * *

(2) 0.10 percent by weight of any organic HAP in table 5 of this subpart.

* * * * *

4. Section 63.3093 is amended by revising paragraphs (a) and (b) to read as follows:

§ 63.3093 What operating limits must I meet?

(a) You are not required to meet any operating limits for any coating operation(s) without add-on controls, nor are you required to meet operating limits for any coating operation(s) that do not utilize emission capture systems and add-on controls to comply with the emission limits in § 63.3090 or § 63.3091.

(b) Except as provided in paragraph (d) of this section, for any controlled coating operation(s), you must meet the operating limits specified in table 1 to this subpart. These operating limits apply to the emission capture and add-on control systems on the coating operation(s) for which you use this option, and you must establish the operating limits during performance tests according to the requirements in § 63.3167. You must meet the operating limits at all times after you establish them.

* * * * *

5. Section 63.3100 is amended by revising paragraphs (b), (d), and (f) to read as follows:

§ 63.3100 What are my general requirements for complying with this subpart?

* * * * *

(b) Before January 5, 2021, the coating operations must be in compliance with the operating limits for emission capture systems and add-on control devices required by § 63.3093 at all times except during periods of SSM. On and after January 5, 2021, the coating operations must be in compliance with the operating limits for emission capture systems and add-on control devices required by § 63.3093 at all times.

* * * * *

(d) Before January 5, 2021, you must always operate and maintain your affected source including all air pollution control and monitoring equipment you use for purposes of complying with this subpart according to the provisions in § 63.6(e)(1)(i). On and after January 5, 2021, at all times, the owner or operator must operate and maintain any affected source, including associated air pollution control equipment and monitoring equipment, in a manner consistent with safety and good air pollution control practices for minimizing emissions. The general duty to minimize emissions does not require the owner or operator to make any further efforts to reduce emissions if levels required by the applicable standard have been achieved. Determination of whether a source is operating in compliance with operation and maintenance requirements will be based on information available to the Administrator that may include, but is not limited to, monitoring results, review of operation and maintenance procedures, review of operation and maintenance records, and inspection of the affected source.

* * * * *

(f) Before January 5, 2021, if your affected source uses emission capture systems and add-on control devices, you must develop a written startup, shutdown, and malfunction plan (SSMP) according to the provisions in § 63.6(e)(3). The SSMP must address startup, shutdown, and corrective actions in the event of a malfunction of the emission capture system or the add-on control devices. On and after January 5, 2021, the SSMP is not required.

6. Section 63.3120 is amended by:

a. Revising paragraphs (a)(4), (a)(5) introductory text, (a)(5)(iv);

b. Adding paragraph (a)(5)(v);

c. Revising paragraphs (a)(6) introductory text and (a)(6)(iii), (vi) through (viii), (x), (xiii), and (xiv);

d. Adding paragraph (a)(6)(xv);

e. Revising paragraphs (a)(7) introductory text and (a)(7)(i) and (iii);

f. Adding paragraph (a)(7)(iv);

g. Revising paragraphs (a)(8) introductory text, (a)(8)(ii), (v) through (vii), (ix), and (xii), (a)(9) introductory text, (a)(9)(i) and (ii), and (c) introductory text; and

h. Adding paragraphs (d) through (h).

The revisions and additions read as follows:

§ 63.3120 What reports must I submit?

(a) * * *

(4) No deviations. If there were no deviations from the emission limits, operating limits, or work practices in §§ 63.3090, 63.3091, 63.3092, 63.3093, and 63.3094 that apply to you, the semiannual compliance report must include a statement that there were no deviations from the applicable emission limitations during the reporting period. If you used control devices to comply with the emission limits, and there were no periods during which the CPMS were out of control as specified in § 63.8(c)(7), the semiannual compliance report must include a statement that there were no periods during which the CPMS were out of control during the reporting period.

(5) Deviations: adhesive, sealer, and deadener. Before January 5, 2021, if there was a deviation from the applicable emission limits in § 63.3090(c) and (d) or § 63.3091(c) and (d), the semiannual compliance report must contain the information in paragraphs (a)(5)(i) through (iv) of this section. On and after January 5, 2021, if there was a deviation from the applicable emission limits in § 63.3090(c) and (d) or § 63.3091(c) and (d), the semiannual compliance report must contain the information in paragraphs (a)(5)(i) through (v) of this section.

* * * * *

(iv) The reason for the deviation (including unknown cause, if applicable).

(v) On and after January 5, 2021, the number of deviations and, for each deviation, a list of the affected source or equipment, an estimate of the quantity of each regulated pollutant emitted over the applicable emission limit in § 63.3090(c) and (d) or § 63.3091(c) and (d), and a description of the method used to estimate the emissions.

(6) Deviations: combined electrodeposition primer, primer-surfacer, topcoat, final repair, glass bonding primer and glass bonding adhesive, or combined primer-surfacer, topcoat, final repair, glass bonding primer, and glass bonding adhesive plus all coatings and thinners, except for deadener materials and for adhesive and sealer materials that are not components of glass bonding systems, used in coating operations added to the affected source pursuant to § 63.3082(c). Before January 5, 2021, if there was a deviation from the applicable emission limits in § 63.3090(a) or (b) or § 63.3091(a) or (b) or the applicable operating limit(s) in table 1 to this subpart, the semiannual compliance report must contain the information in paragraphs (a)(6)(i) through (xiv) of this section. On and after January 5, 2021, if there was a deviation from the applicable emission limits in § 63.3090(a) or (b) or § 63.3091(a) or (b) or the applicable operating limit(s) in table 1 to this subpart, the semiannual compliance report must contain the information in paragraphs (a)(6)(i) through (xv) of this section.

* * * * *

(iii) The date and time that each malfunction of the capture system or add-on control devices used to control emissions from these operations started and stopped.

* * * * *

(vi) Before January 5, 2021, the date and time that each CPMS was inoperative, except for zero (low-level) and high-level checks. On and after January 5, 2021, for each instance that the CPMS was inoperative, except for zero (low-level) and high-level checks, the date, time, and duration that the CPMS was inoperative; the cause (including unknown cause) for the CPMS being inoperative; and descriptions of corrective actions taken.

(vii) Before January 5, 2021, the date and time period that each CPMS was out of control, including the information in § 63.8(c)(8). On and after January 5, 2021, for each instance that the CPMS was out of control, as specified in § 63.8(c)(7), the date, time, and duration that the CPMS was out-of-control; the cause (including unknown cause) for the CPMS being out-of-control; and descriptions of corrective actions taken.

(viii) Before January 5, 2021, The date and time period of each deviation from an operating limit in table 1 to this subpart; date and time period of each bypass of an add-on control device; and whether each deviation occurred during a period of SSM or during another period. On and after January 5, 2021, the date, time, and duration of each deviation from an operating limit in table 1 to this subpart; and the date, time, and duration of each bypass of an add-on control device.

* * * * *

(x) Before January 5, 2021, a breakdown of the total duration of the deviations from each operating limit in table 1 to this subpart and bypasses of each add-on control device during the semiannual reporting period into those that were due to startup, shutdown, control equipment problems, process problems, other known causes, and other unknown causes. On and after January 5, 2021, a breakdown of the total duration of the deviations from each operating limit in table 1 to this subpart and bypasses of each add-on control device during the semiannual reporting period into those that were due to control equipment problems, process problems, other known causes, and other unknown causes.

* * * * *

(xiii) Before January 5, 2021, for each deviation from the work practice standards a description of the deviation, the date and time period of the deviation, and the actions you took to correct the deviation. On and after January 5, 2021, for deviations from the work practice standards, the number of deviations, and, for each deviation, the information in paragraphs (a)(6)(xiii)(A) and (B) of this section.

(A) A description of the deviation, the date, time, and duration of the deviation; and the actions you took to minimize emissions in accordance with § 63.3100(d).

(B) A list of the affected sources or equipment for which a deviation occurred, the cause of the deviation (including unknown cause, if applicable), and any corrective actions taken to return the affected unit to its normal or usual manner of operation.

(xiv) Before January 5, 2021, a statement of the cause of each deviation. On and after January 5, 2021, for deviations from an emission limitation in § 63.3090(a) or (b) or § 63.3091(a) or (b) or operating limit in table 1 of this subpart, a statement of the cause of each deviation (including unknown cause, if applicable).

(xv) On and after January 5, 2021, for each deviation from an emission limitation in § 63.3090(a) or (b), or § 63.3091(a) or (b), or operating limit in table 1 to this subpart, a list of the affected sources or equipment for which a deviation occurred, an estimate of the quantity of each regulated pollutant emitted over any emission limit in § 63.3090(a) or (b) or § 63.3091(a) or (b), and a description of the method used to estimate the emissions.

(7) Deviations: Separate electrodeposition primer organic HAP content limit. Before January 5, 2021, if you used the separate electrodeposition primer organic HAP content limits in § 63.3092(a), and there was a deviation from these limits, the semiannual compliance report must contain the information in paragraphs (a)(7)(i) through (iii) of this section. On and after January 5, 2021, if you used the separate electrodeposition primer organic HAP content limits in § 63.3092(a), and there was a deviation from these limits, the semiannual compliance report must contain the information in paragraphs (a)(7)(i) through (iv) of this section.

(i) Identification of each material used that deviated from the emission limit, and the date, time, and duration each was used.

* * * * *

(iii) A statement of the cause of each deviation (including unknown case, if applicable).

(iv) On and after January 5, 2021, the number of deviations, a list of the affected source or equipment, an estimate of the quantity of each regulated pollutant emitted over any emission limit in § 63.3092(a), and a description of the method used to estimate the emissions.

(8) Deviations: Separate electrodeposition primer bake oven capture and control limitations. Before January 5, 2021, if you used the separate electrodeposition primer bake oven capture and control limitations in § 63.3092(b), and there was a deviation from the limitations in § 63.3092(b) or the applicable operating limit in table 1 to this subpart, the semiannual compliance report must contain the information in paragraphs (a)(8)(i) through (xii) of this section. On and after January 5, 2021, if you used the separate electrodeposition primer bake oven capture and control limitations in § 63.3092(b), and there was a deviation from the limitations in § 63.3092(b) or the applicable operating limit in table 1 to this subpart, the semiannual compliance report must contain the information in paragraphs (a)(8)(i) through (xiv) of this section.

* * * * *

(ii) The date and time that each malfunction of the capture systems or control devices used to control emissions from the electrodeposition primer bake oven started and stopped.

* * * * *

(v) Before January 5, 2021, the date and time that each CPMS was inoperative, except for zero (low-level) and high-level checks. On and after January 5, 2021, for each instance that the CPMS was inoperative, except for zero (low-level) and high-level checks, the date, time, and duration that the CPMS was inoperative; the cause (including unknown cause) for the CPMS being inoperative; and descriptions of corrective actions taken.

(vi) Before January 5, 2021, the date, time, and duration that each CPMS was out of control, including the information in § 63.8(c)(8). On and after January 5, 2021, for each instance that the CPMS was out of control, as specified in § 63.8(c)(7), the date, time, and duration that the CPMS was out-of-control; the cause (including unknown cause) for the CPMS being out-of-control; and descriptions of corrective actions taken.

(vii) Before January 5, 2021, the date and time period of each deviation from an operating limit in table 1 to this subpart; date and time period of each bypass of an add-on control device; and whether each deviation occurred during a period of SSM or during another period. On and after January 5, 2021, the date, time, and duration of each deviation from an operating limit in table 1 to this subpart; and the date, time, and duration of each bypass of an add-on control device.

* * * * *

(ix) Before January 5, 2021, a breakdown of the total duration of the deviations from each operating limit in table 1 to this subpart and bypasses of each add-on control device during the semiannual reporting period into those that were due to startup, shutdown, control equipment problems, process problems, other known causes, and other unknown causes. On and after January 5, 2021, a breakdown of the total duration of the deviations from each operating limit in table 1 to this subpart and bypasses of each add-on control device during the semiannual reporting period into those that were due to control equipment problems, process problems, other known causes, and other unknown causes.

* * * * *

(xii) A statement of the cause of each deviation (including unknown cause, if applicable).

(9) Deviations: Work practice plans. Before January 5, 2021, if there was a deviation from an applicable work practice plan developed in accordance with § 63.3094(b) or (c), the semiannual compliance report must contain the information in paragraphs (a)(9)(i) through (iii) of this section. On and after January 5, 2021, if there were deviations from an applicable work practice plan developed in accordance with § 63.3094(b) or (c), the semiannual compliance report must contain the number of deviations, and, for each deviation, the information in paragraphs (a)(9)(i) through (iii) of this section.

(i) Before January 5, 2021, the time period during which each deviation occurred. On and after January 5, 2021, the date, time, and duration of the deviation.

(ii) Before January 5, 2021, the nature of each deviation. On and after January 5, 2021, the nature of the deviation, including a list of the affected sources or equipment for which the deviation occurred, and the cause of the deviation (including unknown cause, if applicable).

* * * * *

(c) SSM reports. Before January 5, 2021, if you used add-on control devices and you had a SSM during the semiannual reporting period, you must submit the reports specified in paragraphs (c)(1) and (2) of this section. On and after January 5, 2021, the reports specified in paragraphs (c)(1) and (2) of this section are not required.

* * * * *

(d) Performance test reports. On and after January 5, 2021, you must submit the results of the performance test required in paragraph (b) of this section following the procedure specified in paragraphs (d)(1) through (3) of this section.

(1) For data collected using test methods supported by the EPA's Electronic Reporting Tool (ERT) as listed on the EPA's ERT website (https://www.epa.gov/electronic-reporting-air-emissions/electronic-reporting-tool-ert) at the time of the test, you must submit the results of the performance test to the EPA via the Compliance and Emissions Data Reporting Interface (CEDRI). (CEDRI can be accessed through the EPA's Central Data Exchange (CDX) (https://cdx.epa.gov/)). Performance test data must be submitted in a file format generated through the use of the EPA's ERT or an alternate electronic file format consistent with the extensible markup language (XML) schema listed on the EPA's ERT website.

(2) For data collected using test methods that are not supported by the EPA's ERT as listed on the EPA's ERT website at the time of the test, you must submit the results of the performance test to the Administrator at the appropriate address listed in § 63.13, unless the Administrator agrees to or specifies an alternate reporting method.

(3) If you claim that some of the performance test information being submitted under paragraph (c)(1) of this section is Confidential Business Information (CBI), you must submit a complete file generated through the use of the EPA's ERT or an alternate electronic file consistent with the XML schema listed on the EPA's ERT website, including information claimed to be CBI, on a compact disc, flash drive, or other commonly used electronic storage medium to the EPA. The electronic medium must be clearly marked as CBI and mailed to U.S. EPA/OAPQS/CORE CBI Office, Attention: Group Leader, Measurement Policy Group, MD C404-02, 4930 Old Page Rd., Durham, NC 27703. The same ERT or alternate file with the CBI omitted must be submitted to the EPA via the EPA's CDX as described in paragraph (c)(1) of this section.

(e) Initial notification reports. On and after January 5, 2021, the owner or operator shall submit the initial notifications required in § 63.9(b) and the notification of compliance status required in §§ 63.9(h) and 63.3110(c) to the EPA via the CEDRI. The CEDRI interface can be accessed through the EPA's CDX (https://cdx.epa.gov/). The owner or operator must upload to CEDRI an electronic copy of each applicable notification in portable document format (PDF). The applicable notification must be submitted by the deadline specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(f) Semiannual compliance reports. On and after January 5, 2021, or once the reporting template has been available on the CEDRI website for 1 year, whichever date is later, the owner or operator shall submit the semiannual compliance report required in paragraph (a) of this section to the EPA via the CEDRI. The CEDRI interface can be accessed through the EPA's CDX (https://cdx.epa.gov/). The owner or operator must use the appropriate electronic template on the CEDRI Web for this subpart or an alternate electronic file format consistent with the XML schema listed on the CEDRI website (https://www.epa.gov/electronic-reporting-air-emissions/compliance-and-emissions-data-reporting-interface-cedri). If the reporting form for the semiannual compliance report specific to this subpart is not available in CEDRI at the time that the report is due, you must submit the report to the Administrator at the appropriate addresses listed in § 63.13. Once the form has been available in CEDRI for 1 year, you must begin submitting all subsequent reports via CEDRI. The reports must be submitted by the deadlines specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(g) Reporting during EPA system outages. If you are required to electronically submit a report through the CEDRI in the EPA's CDX, and due to a planned or actual outage of either the EPA's CEDRI or CDX systems within the period of time beginning 5 business days prior to the date that the submission is due, you will be or are precluded from accessing CEDRI or CDX and submitting a required report within the time prescribed, you may assert a claim of the EPA system outage for failure to timely comply with the reporting requirement. You must submit notification to the Administrator in writing as soon as possible following the date you first knew, or through due diligence should have known, that the event may cause or caused a delay in reporting. You must provide to the Administrator a written description identifying the date, time and length of the outage; a rationale for attributing the delay in reporting beyond the regulatory deadline to the EPA system outage; describe the measures taken or to be taken to minimize the delay in reporting; and identify a date by which you propose to report, or if you have already met the reporting requirement at the time of the notification, the date you reported. In any circumstance, the report must be submitted electronically as soon as possible after the outage is resolved. The decision to accept the claim of the EPA system outage and allow an extension to the reporting deadline is solely within the discretion of the Administrator.

(h) Reporting during force majeure events. If you are required to electronically submit a report through CEDRI in the EPA's CDX and a force majeure event is about to occur, occurs, or has occurred or there are lingering effects from such an event within the period of time beginning 5 business days prior to the date the submission is due, the owner or operator may assert a claim of force majeure for failure to timely comply with the reporting requirement. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage). If you intend to assert a claim of force majeure, you must submit notification to the Administrator in writing as soon as possible following the date you first knew, or through due diligence should have known, that the event may cause or caused a delay in reporting. You must provide to the Administrator a written description of the force majeure event and a rationale for attributing the delay in reporting beyond the regulatory deadline to the force majeure event; describe the measures taken or to be taken to minimize the delay in reporting; and identify a date by which you propose to report, or if you have already met the reporting requirement at the time of the notification, the date you reported. In any circumstance, the reporting must occur as soon as possible after the force majeure event occurs. The decision to accept the claim of force majeure and allow an extension to the reporting deadline is solely within the discretion of the Administrator.

7. Section 63.3130 is amended by revising paragraphs (c)(4) and (5), (g), and (h) and adding paragraph (p) to read as follows:

§ 63.3130 What records must I keep?

* * * * *

(c) * * *

(4) A record of the calculation of the organic HAP emission rate for electrodeposition primer, primer-surfacer, topcoat, final repair, glass bonding primer, and glass bonding adhesive plus all coatings and thinners, except for deadener materials and for adhesive and sealer materials that are not components of glass bonding systems, used in coating operations added to the affected source pursuant to § 63.3082(c) for each month if subject to the emission limit of § 63.3090(a) or § 63.3091(a). This record must include all raw data, algorithms, and intermediate calculations. If the guidelines presented in “Protocol for Determining the Daily Volatile Organic Compound Emission Rate of Automobile and Light-Duty Truck Topcoat Operations,” EPA-450/3-88-018 (incorporated by reference, see § 63.14), are used, you must keep records of all data input to this protocol. If these data are maintained as electronic files, the electronic files, as well as any paper copies must be maintained. These data must be provided to the permitting authority on request on paper, and in (if calculations are done electronically) electronic form.

(5) A record of the calculation of the organic HAP emission rate for primer-surfacer, topcoat, final repair, glass bonding primer, and glass bonding adhesive plus all coatings and thinners, except for deadener materials and for adhesive and sealer materials that are not components of glass bonding systems, used in coating operations added to the affected source pursuant to § 63.3082(c) for each month if subject to the emission limit of § 63.3090(b) or § 63.3091(b), and a record of the weight fraction of each organic HAP in each material added to the electrodeposition primer system if subject to the limitations of § 63.3092(a). This record must include all raw data, algorithms, and intermediate calculations. If the guidelines presented in “Protocol for Determining Daily Volatile Organic Compound Emission Rate of Automobile and Light-Duty Truck Topcoat Operations,” EPA-450/3-88-018 (incorporated by reference, see § 63.14) are used, you must keep records of all data input to this protocol. If these data are maintained as electronic files, the electronic files, as well as any paper copies must be maintained. These data must be provided to the permitting authority on request on paper, and in (if calculations are done electronically) electronic form.

* * * * *

(g) Before January 5, 2021, a record of the date, time, and duration of each deviation, and for each deviation, a record of whether the deviation occurred during a period of SSM. On and after January 5, 2021, for each deviation from an emission limitation, operating limit, or work practice plan reported under § 63.3120(a)(5) through (9), a record of the information specified in paragraphs (g)(1) through (4) of this section, as applicable.

(1) The date, time, and duration of the deviation, and for each deviation, the information as reported under § 63.3120(a)(5) through (9).

(2) A list of the affected sources or equipment for which the deviation occurred and the cause of the deviation, as reported under § 63.3120(a)(5) through (9).

(3) An estimate of the quantity of each regulated pollutant emitted over any applicable emission limit in § 63.3090(a) through (d) or § 63.3091(a) through (d) or any applicable operating limit in table 1 to this subpart, and a description of the method used to calculate the estimate, as reported under § 63.3120(a)(5) through (9).

(4) A record of actions taken to minimize emissions in accordance with § 63.3100(d) and any corrective actions taken to return the affected unit to its normal or usual manner of operation.

(h) Before January 5, 2021, the records required by § 63.6(e)(3)(iii) through (v) related to SSM. On and after January 5, 2021, the provisions of this paragraph no longer apply.

* * * * *

(p) On and after January 5, 2021, any records required to be maintained by this subpart that are submitted electronically via the EPA's CEDRI may be maintained in electronic format. This ability to maintain electronic copies does not affect the requirement for facilities to make records, data, and reports available upon request to a delegated air agency or the EPA as part of an on-site compliance evaluation.

8. Section 63.3131 is amended by revising paragraph (a) to read as follows:

§ 63.3131 In what form and for how long must I keep my records?

(a) Your records must be in a form suitable and readily available for expeditious review according to § 63.10(b)(1). Where appropriate, the records may be maintained as electronic spreadsheets or as a database. On and after January 5, 2021, any records required to be maintained by this subpart that are submitted electronically via the EPA's CEDRI may be maintained in electronic format. This ability to maintain electronic copies does not affect the requirement for facilities to make records, data, and reports available upon request to a delegated air agency or the EPA as part of an on-site compliance evaluation.

* * * * *

9. Section 63.3151 is amended by revising paragraphs (a)(1)(i), (a)(2) and (4), and (b) to read as follows.

§ 63.3151 How do I demonstrate initial compliance with the emission limitations?

* * * * *

(a) * * *

(1) * * *

(i) Count each organic HAP in table 5 to this subpart that is present at 0.1 percent by mass or more and at 1.0 percent by mass or more for other compounds. For example, if toluene (not listed in table 5 to this subpart) is measured to be 0.5 percent of the material by mass, you do not have to count it. Express the mass fraction of each organic HAP you count as a value truncated to four places after the decimal point (e.g., 0.3791).

* * * * *

(2) EPA Method 24 (appendix A-7 to 40 CFR part 60). For coatings, you may use EPA Method 24 to determine the mass fraction of nonaqueous volatile matter and use that value as a substitute for mass fraction of organic HAP. As an alternative to using EPA Method 24, you may use ASTM D2369-10 (Reapproved 2015)ᵉ (incorporated by reference, see § 63.14).

* * * * *

(4) Information from the supplier or manufacturer of the material. You may rely on information other than that generated by the test methods specified in paragraphs (a)(1) through (3) of this section, such as manufacturer's formulation data, if it represents each organic HAP in table 5 to this subpart that is present at 0.1 percent by mass or more and at 1.0 percent by mass or more for other compounds. For example, if toluene (not listed in table 5 of this subpart) is 0.5 percent of the material by mass, you do not have to count it. If there is a disagreement between such information and results of a test conducted according to paragraphs (a)(1) through (3) of this section, then the test method results will take precedence, unless after consultation, the facility demonstrates to the satisfaction of the enforcement authority that the facility's data are correct.

* * * * *

(b) Determine the density of each material used. Determine the density of each material used during the compliance period from test results using ASTM D1475-13 (incorporated by reference, see § 63.14) or for powder coatings, test method A or test method B of ASTM D5965-02 (Reapproved 2013) (incorporated by reference, see § 63.14), or information from the supplier or manufacturer of the material. If there is disagreement between ASTM D1475-13 test results or ASTM D5965-02 (Reapproved 2013), test method A or test method B test results and the supplier's or manufacturer's information, the test results will take precedence unless after consultation, the facility demonstrates to the satisfaction of the enforcement authority that the facility's data are correct.

* * * * *

10. Section 63.3160 is amended by revising the section heading and paragraph (b)(1) to read as follows:

§ 63.3160 By what date must I conduct initial performance tests and other initial compliance demonstrations?

* * * * *

(b) * * *

(1) All emission capture systems, add-on control devices, and CPMS must be installed and operating no later than the applicable compliance date specified in § 63.3083. You must conduct an initial performance test of each capture system and add-on control device according to the procedures in §§ 63.3164 through 63.3166 and establish the operating limits required by § 63.3093 no later than the compliance date specified in § 63.3083.

* * * * *

11. Section 63.3161 is amended by revising paragraphs (a), (d), (f)(1), (g), and (k)(3) to read as follows:

§ 63.3161 How do I demonstrate initial compliance?

(a) You must meet all of the requirements of this section to demonstrate initial compliance. To demonstrate initial compliance, the organic HAP emissions from the combined electrodeposition primer, primer-surfacer, topcoat, final repair, glass bonding primer, and glass bonding adhesive operations plus all coatings and thinners, except for deadener materials and for adhesive and sealer materials that are not components of glass bonding systems, used in coating operations added to the affected source pursuant to § 63.3082(c) must meet the applicable emission limitation in § 63.3090(a) or § 63.3091(a) and the applicable operating limits and work practice standards in §§ 63.3093 and 63.3094.

* * * * *

(d) Compliance with emission limits. You must follow the procedures in paragraphs (e) through (o) of this section to demonstrate compliance with the applicable emission limit in § 63.3090(a) or § 63.3091(a). You may also use the guidelines presented in “Protocol for Determining the Daily Volatile Organic Compound Emission Rate of Automobile and Light-Duty Truck Topcoat Operations” EPA-450/3-88-018 (incorporated by reference, see § 63.14), in making this demonstration.

* * * * *

(f) * * *

(1) ASTM Method D2697-03 (Reapproved 2014) or ASTM Method D6093-97 (Reapproved 2016). You may use ASTM D2697-03 (Reapproved 2014) (incorporated by reference, see § 63.14), or ASTM D6093-97 (Reapproved 2016) (incorporated by reference, see § 63.14), to determine the volume fraction of coating solids for each coating. Divide the nonvolatile volume percent obtained with the methods by 100 to calculate volume fraction of coating solids.

* * * * *

(g) Determine the transfer efficiency for each coating. You must determine the transfer efficiency for each primer-surfacer and topcoat coating, and for all coatings, except for deadener and for adhesive and sealer that are not components of glass bonding systems, used in coating operations added to the affected source pursuant to § 63.3082(c) using ASTM D5066-91 (Reapproved 2017) (incorporated by reference, see § 63.14) or the guidelines presented in “Protocol for Determining the Daily Volatile Organic Compound Emission Rate of Automobile and Light-Duty Truck Topcoat Operations,” EPA-450/3-88-018 (incorporated by reference, see § 63.14). You may conduct transfer efficiency testing on representative coatings and for representative spray booths as described in “Protocol for Determining the Daily Volatile Organic Compound Emission Rate of Automobile and Light-Duty Truck Topcoat Operations,” EPA-450/3-88-018. You may assume 100-percent transfer efficiency for electrodeposition primer coatings, glass bonding primers, and glass bonding adhesives. For final repair coatings, you may assume 40-percent transfer efficiency for air atomized spray and 55-percent transfer efficiency for electrostatic spray and high volume, low pressure spray. For blackout, chip resistant edge primer, interior color, in-line repair, lower body anti-chip coatings, or underbody anti-chip coatings, you may assume 40-percent transfer efficiency for air atomized spray, 55-percent transfer efficiency for electrostatic spray and high volume-low pressure spray, and 80-percent transfer efficiency for airless spray.

* * * * *

(k) * * *

(3) Determine the mass fraction of volatile organic matter for each coating and thinner used in the coating operation controlled by the solvent recovery system during the month, kg volatile organic matter per kg coating. You may determine the volatile organic matter mass fraction using EPA Method 24 of 40 CFR part 60, appendix A-7, or an EPA approved alternative method, or you may use information provided by the manufacturer or supplier of the coating. In the event of any inconsistency between information provided by the manufacturer or supplier and the results of EPA Method 24 of 40 CFR part 60, appendix A-7, or an approved alternative method, the test method results will govern unless after consultation, the facility demonstrates to the satisfaction of the enforcement authority that the facility's data are correct.

* * * * *

12. Section 63.3163 is amended by revising the section heading and paragraph (c) introductory text, adding paragraph (c)(3), and revising paragraphs (f) and (h) to read as follows:

§ 63.3163 How do I conduct periodic performance tests and demonstrate continuous compliance with the emission limitations?

* * * * *

(c) You must demonstrate continuous compliance with each operating limit required by § 63.3093 that applies to you, as specified in table 1 to this subpart, and you must conduct performance tests as specified in paragraph (c)(3) of this section.

* * * * *

(3) Except for solvent recovery systems for which you conduct liquid-liquid material balances according to § 63.3161(k) for controlled coating operations, you must conduct periodic performance tests of add-on controls and establish the operating limits required by § 63.3093 within 5 years following the previous performance test. You must conduct the first periodic performance test before July 8, 2023, unless you are already required to complete periodic performance tests as a requirement of renewing your facility's operating permit under 40 CFR part 70 or 40 CFR part 71 and have conducted a performance test on or after July 8, 2022. Thereafter you must conduct a performance test no later than 5 years following the previous performance test. Operating limits must be confirmed or reestablished during each performance test. For any control device for which you are using the catalytic oxidizer control option at § 63.3167(b) and following the catalyst maintenance procedures in § 63.3167(b)(6), you are not required to conduct periodic control device performance testing as specified by this paragraph. For any control device for which instruments are used to continuously measure organic compound emissions, you are not required to conduct periodic control device performance testing as specified by this paragraph. The requirements of this paragraph do not apply to measuring emission capture system efficiency.

* * * * *

(f) If there were no deviations from the emission limitations, submit a statement as part of the semiannual compliance report that you were in compliance with the emission limitations during the reporting period because the organic HAP emission rate for each compliance period was less than or equal to the applicable emission limit in § 63.3090(a) or § 63.3091(a), § 63.3090(b) or § 63.3091(b), or § 63.3092(a) or § 63.3092(b), you achieved the operating limits required by § 63.3093, and you achieved the work practice standards required by § 63.3094 during each compliance period.

* * * * *

(h) Before January 5, 2021, consistent with §§ 63.6(e) and 63.7(e)(1), deviations that occur during a period of SSM of the emission capture system, add-on control device, or coating operation that may affect emission capture or control device efficiency are not violations if you demonstrate to the Administrator's satisfaction that you were operating in accordance with § 63.6(e)(1). The Administrator will determine whether deviations that occur during a period you identify as a SSM are violations according to the provisions in § 63.6(e). On and after January 5, 2021, the provisions of this paragraph no longer apply.

* * * * *

13. Section 63.3164 is amended by revising paragraphs (a) introductory text and (a)(1) to read as follows:

§ 63.3164 What are the general requirements for performance tests?

(a) You must conduct each applicable performance test required by §§ 63.3160, 63.3163, and 63.3171 according to the requirements in § 63.7(e)(1) and under the conditions in this section unless you obtain a waiver of the performance test according to the provisions in § 63.7(h).

(1) Representative coating operation operating conditions. You must conduct the performance test under representative operating conditions for the coating operation. Before January 5, 2021, operations during periods of SSM, and during periods of nonoperation do not constitute representative conditions. You must record the process information that is necessary to document operating conditions during the test and explain why the conditions represent normal operation. On and after January 5, 2021, operations during periods of startup, shutdown, or nonoperation do not constitute representative conditions for purposes of conducting a performance test. The owner or operator may not conduct performance tests during periods of malfunction. You must record the process information that is necessary to document operating conditions during the test and explain why the conditions represent normal operation. Upon request, you must make available to the Administrator such records as may be necessary to determine the conditions of performance tests.

* * * * *

14. Section 63.3165 is amended by revising the introductory text and paragraphs (e) introductory text, the definition of “Wvocc,i” in Equation 6 of paragraph (e)(2), the definition of “Wvocc,i” in Equation 7 of paragraph (e)(3), and the definition of “Ws,i” in Equation 8 of paragraph (e)(4) to read as follows:

§ 63.3165 How do I determine the emission capture system efficiency?

You must use the procedures and test methods in this section to determine capture efficiency as part of the performance test required by §§ 63.3160 and 63.3163. For purposes of this subpart, a spray booth air seal is not considered a natural draft opening in a PTE or a temporary total enclosure provided you demonstrate that the direction of air movement across the interface between the spray booth air seal and the spray booth is into the spray booth. For purposes of this subpart, a bake oven air seal is not considered a natural draft opening in a PTE or a temporary total enclosure provided you demonstrate that the direction of air movement across the interface between the bake oven air seal and the bake oven is into the bake oven. You may use lightweight strips of fabric or paper, or smoke tubes to make such demonstrations as part of showing that your capture system is a PTE or conducting a capture efficiency test using a temporary total enclosure. You cannot count air flowing from a spray booth air seal into a spray booth as air flowing through a natural draft opening into a PTE or into a temporary total enclosure unless you elect to treat that spray booth air seal as a natural draft opening. You cannot count air flowing from a bake oven air seal into a bake oven as air flowing through a natural draft opening into a PTE or into a temporary total enclosure unless you elect to treat that bake oven air seal as a natural draft opening.

* * * * *

(e) Panel testing to determine the capture efficiency of flash-off or bake oven emissions. You may conduct panel testing to determine the capture efficiency of flash-off or bake oven emissions using ASTM D5087-02 (incorporated by reference, see § 63.14), ASTM D6266-00a (Reapproved 2017) (incorporated by reference, see § 63.14), or the guidelines presented in “Protocol for Determining the Daily Volatile Organic Compound Emission Rate of Automobile and Light-Duty Truck Topcoat Operations,” EPA-450/3-88-018 (incorporated by reference, see § 63.14). You may conduct panel testing on representative coatings as described in “Protocol for Determining the Daily Volatile Organic Compound Emission Rate of Automobile and Light-Duty Truck Topcoat Operations,” EPA-450/3-88-018. The results of these panel testing procedures are in units of mass of VOC per volume of coating solids deposited and must be converted to a percent value for use in this subpart. If you panel test representative coatings, then you may convert the panel test result for each representative coating either to a unique percent capture efficiency for each coating grouped with that representative coating by using coating specific values for the volume of coating solids deposited per volume of coating used, mass of VOC per volume of coating, volume fraction solids, transfer efficiency, density and mass fraction VOC in Equations 4 through 6 of this section; or to a composite percent capture efficiency for the group of coatings by using composite values for the group of coatings for the volume of coating solids deposited per volume of coating used and for the mass of VOC per volume of coating, and average values for the group of coatings for volume fraction solids, transfer efficiency, density and mass fraction VOC in Equations 4 through 6 of this section. If you panel test each coating, then you must convert the panel test result for each coating to a unique percent capture efficiency for that coating by using coating specific values for the volume of coating solids deposited per volume of coating used, mass of VOC per volume of coating, volume fraction solids, transfer efficiency, density, and mass fraction VOC in Equations 4 through 6 of this section. Panel test results expressed in units of mass of VOC per volume of coating solids deposited must be converted to percent capture efficiency using Equation 4 of this section. An alternative for using panel test results expressed in units of mass of VOC per mass of coating solids deposited is presented in paragraph (e)(3) of this section.

* * * * *

(2) * * *

Wvocc,i = Mass fraction of VOC in coating, i, or average mass fraction of VOC for the group of coatings, including coating, i, kg VOC per kg coating, determined by EPA Method 24 (appendix A-7 to 40 CFR part 60) or the guidelines for combining analytical VOC content and formulation solvent content presented in Section 9 of “Protocol for Determining the Daily Volatile Organic Compound Emission Rate of Automobile and Light-Duty Truck Topcoat Operations,” EPA-450/3-88-018 (incorporated by reference, see § 63.14).

(3) * * *

Wvocc,i = Mass fraction of VOC in coating, i, or average mass fraction of VOC for the group of coatings, including coating, i, kg VOC per kg coating, determined by EPA Method 24 (appendix A-7 to 40 CFR part 60) or the guidelines for combining analytical VOC content and formulation solvent content presented in Section 9 of “Protocol for Determining the Daily Volatile Organic Compound Emission Rate of Automobile and Light-Duty Truck Topcoat Operations,” EPA-450/3-88-018 (incorporated by reference, see § 63.14).

(4) * * *

Ws, i = Mass fraction of coating solids for coating, i, or average mass fraction of coating solids for the group of coatings including coating, i, kg coating solids per kg coating, determined by EPA Method 24 (appendix A-7 to 40 CFR part 60) or the guidelines for combining analytical VOC content and formulation solvent content presented in “Protocol for Determining the Daily Volatile Organic Compound Emission Rate of Automobile and Light-Duty Truck Topcoat Operations,” EPA-450/3-88-018 (incorporated by reference, see § 63.14).

* * * * *

15. Section 63.3166 is amended by revising the introductory text and paragraphs (a)(1) through (4) and (b) introductory text, and adding paragraph (b)(4) to read as follows:

§ 63.3166 How do I determine the add-on control device emission destruction or removal efficiency?

You must use the procedures and test methods in this section to determine the add-on control device emission destruction or removal efficiency as part of the performance test required by § 63.3160, § 63.3163, or § 63.3171. You must conduct three test runs as specified in § 63.7(e)(3), and each test run must last at least 1 hour.

(a) * * *

(1) Use EPA Method 1 or 1A of appendix A-1 to 40 CFR part 60, as appropriate, to select sampling sites and velocity traverse points.

(2) Use EPA Method 2, 2A, 2C, 2D, or 2F of appendix A-1, or 2G of appendix A-2 to 40 CFR part 60, as appropriate, to measure gas volumetric flow rate.

(3) Use EPA Method 3, 3A, or 3B of appendix A-2 to 40 CFR part 60, as appropriate, for gas analysis to determine dry molecular weight. The ANSI/ASME PTC 19.10-1981 (incorporated by reference, see § 63.14), may be used as an alternative to EPA Method 3B.

(4) Use EPA Method 4 of appendix A-3 to 40 CFR part 60 to determine stack gas moisture.

* * * * *

(b) Measure total gaseous organic mass emissions as carbon at the inlet and outlet of the add-on control device simultaneously, using either EPA Method 25 or 25A of appendix A-7 to 40 CFR part 60, as specified in paragraphs (b)(1) through (4) of this section. You must use the same method for both the inlet and outlet measurements.

* * * * *

(4) You may use EPA Method 18 of appendix A-6 to 40 CFR part 60 to subtract methane emissions from measured total gaseous organic mass emissions as carbon.

* * * * *

16. Section 63.3167 is amended by revising the section heading, the introductory text, and paragraph (f)(1) to read as follows:

§ 63.3167 How do I establish the add-on control device operating limits during performance tests?

During the performance tests required by §§ 63.3160, 63.3163, and 63.3171 (and described in §§ 63.3164 and 63.3166), you must establish the operating limits required by § 63.3093 according to this section, unless you have received approval for alternative monitoring and operating limits under § 63.8(f) as specified in § 63.3093.

* * * * *

(f) * * *

(1) During the capture efficiency determination required by §§ 63.3160 and 63.3163 and described in §§ 63.3164 and 63.3165, you must monitor and record either the gas volumetric flow rate or the duct static pressure for each separate capture device in your emission capture system at least once every 15 minutes during each of the three test runs at a point in the duct between the capture device and the add-on control device inlet.

* * * * *

17. Section 63.3168 is amended by revising paragraphs (a)(4) through (7) and (c)(3) introductory text to read as follows:

§ 63.3168 What are the requirements for continuous parameter monitoring system installation, operation, and maintenance?

(a) * * *

(4) You must maintain the CPMS at all times in accordance with § 63.3100(d) and have readily available necessary parts for routine repairs of the monitoring equipment.

(5) Before January 5, 2021, you must operate the CPMS and collect emission capture system and add-on control device parameter data at all times that a controlled coating operation is operating, except during monitoring malfunctions, associated repairs, and required quality assurance or control activities (including, if applicable, calibration checks and required zero and span adjustments). On and after January 5, 2021, you must operate the CPMS and collect emission capture system and add-on control device parameter data at all times that a controlled coating operation is operating in accordance with § 63.3100(d).

(6) Before January 5, 2021, you must not use emission capture system or add-on control device parameter data recorded during monitoring malfunctions, associated repairs, out-of-control periods, or required quality assurance or control activities when calculating data averages. You must use all the data collected during all other periods in calculating the data averages for determining compliance with the emission capture system and add-on control device operating limits. On and after January 5, 2021, startups and shutdowns are normal operation for this source category. Emissions from these activities are to be included when determining if the standards specified in §§ 63.3090, 63.3091, 63.3092, 63.4292, and 63.4293 are being attained. You must not use emission capture system or add-on control device parameter data recorded during monitoring malfunctions, associated repairs, out-of-control periods, or required quality assurance or control activities when calculating data averages. You must use all the data collected during all other periods in calculating the data averages for determining compliance with the emission capture system and add-on control device operating limits.

(7) A monitoring malfunction is any sudden, infrequent, not reasonably preventable failure of the CPMS to provide valid data. Monitoring failures that are caused in part by poor maintenance or careless operation are not malfunctions. Before January 5, 2021, any period for which the monitoring system is out of control and data are not available for required calculations is a deviation from the monitoring requirements. On and after January 5, 2021, except for periods of required quality assurance or control activities, any period during which the CPMS fails to operate and record data continuously as required by paragraph (a)(1) of this section, or generates data that cannot be included in calculating averages as specified in this paragraph (a)(7) constitutes a deviation from the monitoring requirements.

* * * * *

(c) * * *

(3) For all thermal oxidizers and catalytic oxidizers, you must meet the requirements in paragraphs (a)(1) through (6) and (c)(3)(i) through (vii) of this section for each gas temperature monitoring device. For the purposes of this paragraph (c)(3), a thermocouple is part of the temperature sensor.

* * * * *

18. Section 63.3171 is amended by revising paragraphs (a) and (e)(3) to read as follows:

§ 63.3171 How do I demonstrate initial compliance?

(a) You must meet all of the requirements of this section to demonstrate initial compliance. To demonstrate initial compliance, the organic HAP emissions from the combined primer-surfacer, topcoat, final repair, glass bonding primer, and glass bonding adhesive operations plus all coatings and thinners, except for deadener materials and for adhesive and sealer materials that are not components of glass bonding systems, used in coating operations added to the affected source pursuant to § 63.3082(c) must meet the applicable emission limitation in § 63.3090(b) or § 63.3091(b); the organic HAP emissions from the electrodeposition primer operation must meet the applicable emissions limitations in § 63.3092(a) or (b); and you must meet the applicable operating limits and work practice standards in §§ 63.3093 and 63.3094.

* * * * *

(e) * * *

(3) Information from the supplier or manufacturer of the material. You may rely on information other than that generated by the test methods specified in paragraphs (e)(1) and (2) of this section, such as manufacturer's formulation data, if it represents each organic HAP in Table 5 to this subpart that is present at 0.1 percent by mass, and at 1.0 percent by mass or more for other compounds. If there is a disagreement between such information and results of a test conducted according to paragraph (e)(1) or (2) of this section, then the test method results will take precedence unless after consultation, the facility demonstrates to the satisfaction of the enforcement authority that the facility's data are correct.

* * * * *

19. Section 63.3176 is amended by revising the definition of “Deviation” to read as follows:

§ 63.3176 What definitions apply to this subpart?

* * * * *

Deviation means:

(1) Before January 5, 2021, any instance in which an affected source subject to this subpart or an owner or operator of such a source:

(i) Fails to meet any requirement or obligation established by this subpart including but not limited to any emission limit, operating limit, or work practice standard;

(ii) Fails to meet any term or condition that is adopted to implement an applicable requirement in this subpart and that is included in the operating permit for any affected source required to obtain such a permit; or

(iii) Fails to meet any emission limit or operating limit or work practice standard in this subpart during SSM, regardless of whether or not such failure is permitted by this subpart; and

(2) On and after January 5, 2021, any instance in which an affected source subject to this subpart or an owner or operator of such a source:

(i) Fails to meet any requirement or obligation established by this subpart including but not limited to any emission limit, operating limit, or work practice standard; or

(ii) Fails to meet any term or condition that is adopted to implement an applicable requirement in this subpart and that is included in the operating permit for any affected source required to obtain such a permit.

* * * * *

20. Table 2 to subpart IIII of part 63 is revised to read as follows:

Table 2 to Subpart IIII of Part 63—Applicability of General Provisions to Subpart IIII of Part 63
You must comply with the applicable General Provisions requirements according to the following table:
Citation | Subject | Applicable to subpart IIII | Explanation
§ 63.1(a)(1)-(12) | General Applicability | Yes
§ 63.1(b)(1)-(3) | Initial Applicability Determination | Yes | Applicability to subpart IIII is also specified in § 63.3081.
§ 63.1(c)(1) | Applicability After Standard Established | Yes
§ 63.1(c)(2) | Applicability of Permit Program for Area Sources | No | Area sources are not subject to subpart IIII.
§ 63.1(c)(5) | Extensions and Notifications | Yes
§ 63.1(e) | Applicability of Permit Program Before Relevant Standard is Set | Yes
§ 63.2 | Definitions | Yes | Additional definitions are specified in § 63.3176.
§ 63.3 | Units and Abbreviations | Yes
§ 63.4(a)(1)-(2) | Prohibited Activities | Yes
§ 63.4(b)-(c) | Circumvention/Fragmentation | Yes
§ 63.5(a) | Preconstruction Review Applicability | Yes
§ 63.5(b)(1), (3), (4), (6) | Requirements for Existing, Newly Constructed, and Reconstructed Sources | Yes
§ 63.5(d)(1)(i)-(ii)(F), (d)(1)(ii)(H), (d)(1)(ii)(J), (d)(1)(iii), (d)(2)-(4) | Application for Approval of Construction/Reconstruction | Yes
§ 63.5(e) | Approval of Construction/Reconstruction | Yes
§ 63.5(f) | Approval of Construction/Reconstruction Based on Prior State Review | Yes
§ 63.6(a) | Compliance With Standards and Maintenance Requirements—Applicability | Yes
§ 63.6(b)(1)-(5), (b)(7) | Compliance Dates for New and Reconstructed Sources | Yes | Section 63.3083 specifies the compliance dates.
§ 63.6(c)(1), (2), (5) | Compliance Dates for Existing Sources | Yes | Section 63.3083 specifies the compliance dates.
§ 63.6(e)(1)(i)-(ii) | Operation and Maintenance | Yes before January 5, 2021. No on and after January 5, 2021 | See § 63.3100(d) for general duty requirement.
§ 63.6(e)(1)(iii) | Operation and Maintenance | Yes
§ 63.6(e)(3)(i), (e)(3)(iii)-(ix) | SSMP | Yes before January 5, 2021. No on and after January 5, 2021 |
§ 63.6(f)(1) | Compliance Except During SSM | Yes before January 5, 2021. No on and after January 5, 2021 |
§ 63.6(f)(2)-(3) | Methods for Determining Compliance | Yes
§ 63.6(g) | Use of an Alternative Standard | Yes
§ 63.6(h) | Compliance With Opacity/Visible Emission Standards | No | Subpart IIII does not establish opacity standards and does not require continuous opacity monitoring systems (COMS).
§ 63.6(i)(1)-(14), (16) | Extension of Compliance | Yes
63.6(j) | Presidential Compliance Exemption | Yes
§ 63.7(a)(1) | Performance Test Requirements—Applicability | Yes | Applies to all affected sources. Additional requirements for performance testing are specified in §§ 63.3164 and 63.3166.
§ 63.7(a)(2) except (a)(2)(i)-(viii) | Performance Test Requirements—Dates | Yes | Applies only to performance tests for capture system and control device efficiency at sources using these to comply with the standards. Section 63.3160 specifies the schedule for performance test requirements that are earlier than those specified in § 63.7(a)(2).
§ 63.7(a)(3)-(4) | Performance Tests Required By the Administrator, Force Majeure | Yes
§ 63.7(b)-(d) | Performance Test Requirements—Notification, Quality Assurance, Facilities Necessary for Safe Testing Conditions During Test | Yes | Applies only to performance tests for capture system and add-on control device efficiency at sources using these to comply with the standards.
§ 63.7(e)(1) | Conduct of performance tests | Yes before January 5, 2021. No on and after January 5, 2021 | See § 63.3164.
§ 63.7(e)(2)-(4) | Conduct of performance tests | Yes
§ 63.7(f) | Performance Test Requirements—Use of Alternative Test Method | Yes | Applies to all test methods except those used to determine capture system efficiency.
§ 63.7(g)-(h) | Performance Test Requirements—Data Analysis, Recordkeeping, Reporting, Waiver of Test | Yes | Applies only to performance tests for capture system and add-on control device efficiency at sources using these to comply with the standards.
§ 63.8(a)(1)-(2) | Monitoring Requirements—Applicability | Yes | Applies only to monitoring of capture system and add-on control device efficiency at sources using these to comply with the standards. Additional requirements for monitoring are specified in § 63.3168.
§ 63.8(a)(4) | Additional Monitoring Requirements | No | Subpart IIII does not have monitoring requirements for flares.
§ 63.8(b) | Conduct of Monitoring | Yes
§ 63.8(c)(1) | Continuous Monitoring Systems (CMS) Operation and Maintenance | Yes before January 5, 2021. No on and after January 5, 2021 | Section 63.3168 specifies the requirements for the operation of CMS for capture systems and add-on control devices at sources using these to comply.
63.8(c)(2)-(3) | CMS Operation and Maintenance | Yes | Applies only to monitoring of capture system and add-on control device efficiency at sources using these to comply with the standards. Additional requirements for CMS operations and maintenance are specified in § 63.3168.
§ 63.8(c)(4) | CMS | No | Section 63.3168 specifies the requirements for the operation of CMS for capture systems and add-on control devices at sources using these to comply with the standards.
§ 63.8(c)(5) | COMS | No | Subpart IIII does not have opacity or visible emission standards.
§ 63.8(c)(6) | CMS Requirements | No | Section 63.3168 specifies the requirements for monitoring systems for capture systems and add-on control devices at sources using these to comply with the standards.
§ 63.8(c)(7) | CMS Out-of-Control Periods | Yes
§ 63.8(c)(8) | CMS Out-of-Control Periods Reporting | No | Section 63.3120 requires reporting of CMS out-of-control periods.
§ 63.8(d)-(e) | Quality Control Program and CMS Performance Evaluation | No | Subpart IIII does not require the use of continuous emissions monitoring systems.
§ 63.8(f)(1)-(5) | Use of an Alternative Monitoring Method | Yes
§ 63.8(f)(6) | Alternative to Relative Accuracy Test | No | Subpart IIII does not require the use of CEMS.
§ 63.8(g) | Data Reduction | No | Sections 63.3167 and 63.3168 specify monitoring data reduction.
§ 63.9(a) | Notification Requirements | Yes
§ 63.9(b)(1)-(2) | Initial Notifications | Yes
§ 63.9(b)(4)(i), (b)(4)(v), (b)(5) | Application for Approval of Construction or Reconstruction | Yes
§ 63.9(c) | Request for Extension of Compliance | Yes
§ 63.9(d) | Special Compliance Requirement Notification | Yes
§ 63.9(e) | Notification of Performance Test | Yes | Applies only to capture system and add-on control device performance tests at sources using these to comply with the standards.
§ 63.9(f) | Notification of Visible Emissions/Opacity Test | No | Subpart IIII does not have opacity or visible emission standards.
§ 63.9(g) | Additional Notifications When Using CMS | No | Subpart IIII does not require the use of CEMS.
§ 63.9(h)(1)-(3), (5)-(6) | Notification of Compliance Status | Yes | Section 63.3110 specifies the dates for submitting the notification of compliance status.
§ 63.9(i) | Adjustment of Submittal Deadlines | Yes
§ 63.9(j) | Change in Previous Information | Yes
§ 63.10(a) | Recordkeeping/Reporting—Applicability and General Information | Yes
§ 63.10(b)(1) | General Recordkeeping Requirements | Yes | Additional requirements are specified in §§ 63.3130 and 63.3131.
§ 63.10(b)(2)(i)-(ii) | Recordkeeping of Occurrence and Duration of Startups and Shutdowns and of Failures to Meet Standards | Yes before January 5, 2021. No on and after January 5, 2021 | See 63.3130(g).
§ 63.10(b)(2)(iii) | Recordkeeping Relevant to Maintenance of Air Pollution Control and Monitoring Equipment | Yes
§ 63.10(b)(2)(iv)-(v) | Actions Taken to Minimize Emissions During SSM | Yes before January 5, 2021. No on and after January 5, 2021 | See § 63.3130(g)(4) for a record of actions taken to minimize emissions during a deviation from the standard.
§ 63.10(b)(2)(vi) | Recordkeeping for CMS Malfunctions | Yes before January 5, 2021. No on and after January 5, 2021 | See § 63.3130(g) for records of periods of deviation from the standard, including instances where a CMS is inoperative or out-of-control.
§ 63.10(b)(2)(vii)-(xi) | Records | Yes
§ 63.10(b)(2)(xii) | Records | Yes
§ 63.10(b)(2)(xiii) |  | No | Subpart IIII does not require the use of CEMS.
§ 63.10(b)(2)(xiv) |  | Yes
§ 63.10(b)(3) | Recordkeeping Requirements for Applicability Determinations | Yes
§ 63.10(c)(1)-(6) | Additional Recordkeeping Requirements for Sources with CMS | Yes
§ 63.10(c)(7)-(8) | Additional Recordkeeping Requirements for Sources with CMS | No | See § 63.3130(g) for records of periods of deviation from the standard, including instances where a CMS is inoperative or out-of-control.
§ 63.10(c)(10)-(14) |  | Yes
§ 63.10(c)(15) | Records Regarding the SSM Plan | Yes before January 5, 2021. No on and after January 5, 2021 |
§ 63.10(d)(1) | General Reporting Requirements | Yes | Additional requirements are specified in § 63.3120.
§ 63.10(d)(2) | Report of Performance Test Results | Yes | Additional requirements are specified in § 63.3120(b).
§ 63.10(d)(3) | Reporting Opacity or Visible Emissions Observations | No | Subpart IIII does not require opacity or visible emissions observations.
§ 63.10(d)(4) | Progress Reports for Sources With Compliance Extensions | Yes
§ 63.10(d)(5) | SSM Reports | Yes before January 5, 2021. No on and after January 5, 2021 | See 63.3120(a)(6).
§ 63.10(e)(1)-(2) | Additional CMS Reports | No | Subpart IIII does not require the use of CEMS.
§ 63.10(e)(3) | Excess Emissions/CMS Performance Reports | No | Section 63.3120(b) specifies the contents of periodic compliance reports.
§ 63.10(e)(4) | COMS Data Reports | No | Subpart IIII does not specify requirements for opacity or COMS.
§ 63.10(f) | Recordkeeping/Reporting Waiver | Yes
§ 63.11 | Control Device Requirements/Flares | No | Subpart IIII does not specify use of flares for compliance.
§ 63.12 | State Authority and Delegations | Yes
§ 63.13 | Addresses | Yes
§ 63.14 | IBR | Yes
§ 63.15 | Availability of Information/Confidentiality | Yes

21. Table 5 to subpart IIII of part 63 is added to read as follows:

Table 5 to Subpart IIII of Part 63—List of HAP That Must Be Counted Toward Total Organic HAP Content if Present at 0.1 Percent or More by Mass
Chemical name | CAS No.
1,1,2,2-Tetrachloroethane | 79-34-5
1,1,2-Trichloroethane | 79-00-5
1,1-Dimethylhydrazine | 57-14-7
1,2-Dibromo-3-chloropropane | 96-12-8
1,2-Diphenylhydrazine | 122-66-7
1,3-Butadiene | 106-99-0
1,3-Dichloropropene | 542-75-6
1,4-Dioxane | 123-91-1
2,4,6-Trichlorophenol | 88-06-2
2,4/2,6-Dinitrotoluene (mixture) | 25321-14-6
2,4-Dinitrotoluene | 121-14-2
2,4-Toluene diamine | 95-80-7
2-Nitropropane | 79-46-9
3,3′-Dichlorobenzidine | 91-94-1
3,3′-Dimethoxybenzidine | 119-90-4
3,3′-Dimethylbenzidine | 119-93-7
4,4′-Methylene bis(2-chloroaniline) | 101-14-4
Acetaldehyde | 75-07-0
Acrylamide | 79-06-1
Acrylonitrile | 107-13-1
Allyl chloride | 107-05-1
alpha-Hexachlorocyclohexane (a-HCH) | 319-84-6
Aniline | 62-53-3
Benzene | 71-43-2
Benzidine | 92-87-5
Benzotrichloride | 98-07-7
Benzyl chloride | 100-44-7
beta-Hexachlorocyclohexane (b-HCH) | 319-85-7
Bis(2-ethylhexyl)phthalate | 117-81-7
Bis(chloromethyl)ether | 542-88-1
Bromoform | 75-25-2
Captan | 133-06-2
Carbon tetrachloride | 56-23-5
Chlordane | 57-74-9
Chlorobenzilate | 510-15-6
Chloroform | 67-66-3
Chloroprene | 126-99-8
Cresols (mixed) | 1319-77-3
DDE | 3547-04-4
Dichloroethyl ether | 111-44-4
Dichlorvos | 62-73-7
Epichlorohydrin | 106-89-8
Ethyl acrylate | 140-88-5
Ethylene dibromide | 106-93-4
Ethylene dichloride | 107-06-2
Ethylene oxide | 75-21-8
Ethylene thiourea | 96-45-7
Ethylidene dichloride (1,1-Dichloroethane) | 75-34-3
Formaldehyde | 50-00-0
Heptachlor | 76-44-8
Hexachlorobenzene | 118-74-1
Hexachlorobutadiene | 87-68-3
Hexachloroethane | 67-72-1
Hydrazine | 302-01-2
Isophorone | 78-59-1
Lindane (hexachlorocyclohexane, all isomers) | 58-89-9
m-Cresol | 108-39-4
Methylene chloride | 75-09-2
Naphthalene | 91-20-3
Nitrobenzene | 98-95-3
Nitrosodimethylamine | 62-75-9
o-Cresol | 95-48-7
o-Toluidine | 95-53-4
Parathion | 56-38-2
p-Cresol | 106-44-5
p-Dichlorobenzene | 106-46-7
Pentachloronitrobenzene | 82-68-8
Pentachlorophenol | 87-86-5
Propoxur | 114-26-1
Propylene dichloride | 78-87-5
Propylene oxide | 75-56-9
Quinoline | 91-22-5
Tetrachloroethene | 127-18-4
Toxaphene | 8001-35-2
Trichloroethylene | 79-01-6
Trifluralin | 1582-09-8
Vinyl bromide | 593-60-2
Vinyl chloride | 75-01-4
Vinylidene chloride | 75-35-4

22. Appendix A to Subpart IIII of part 63 is amended by revising sections 2.1, 2.2, and 4.1 and the definitions of “Ws, i” and “Wvocc, i” in Equation A-6 in section 4.2 to read as follows:

Appendix A to Subpart IIII of Part 63—Determination of Capture Efficiency of Automobile and Light-Duty Truck Spray Booth Emissions From Solvent-Borne Coatings Using Panel Testing

* * * * *

2.1 You may conduct panel testing to determine the capture efficiency of spray booth emissions. You must follow the instructions and calculations in this appendix A, and use the panel testing procedures in ASTM Method D5087-02 (incorporated by reference, see § 63.14), or the guidelines presented in “Protocol for Determining the Daily Volatile Organic Compound Emission Rate of Automobile and Light-Duty Truck Topcoat Operations,” EPA-450/3-88-018 (incorporated by reference, see § 63.14). You must weigh panels at the points described in section 2.5 of this appendix A and perform calculations as described in sections 3 and 4 of this appendix A. You may conduct panel tests on the production paint line in your facility or in a laboratory simulation of the production paint line in your facility.

2.2 You may conduct panel testing on representative coatings as described in “Protocol for Determining the Daily Volatile Organic Compound Emission Rate of Automobile and Light-Duty Truck Topcoat Operations,” EPA-450/3-88-018 (incorporated by reference, see § 63.14). If you panel test representative coatings, then you may calculate either a unique percent capture efficiency value for each coating grouped with that representative coating, or a composite percent capture efficiency value for the group of coatings. If you panel test each coating, then you must convert the panel test result for each coating to a unique percent capture efficiency value for that coating.

* * * * *

4.1 If you panel test representative coatings, then you may convert the panel test result for each representative coating from section 3.3 of this appendix A either to a unique percent capture efficiency value for each coating grouped with that representative coating by using coating specific values for the mass fraction coating solids and mass fraction VOC in section 4.2 of this appendix A, or to a composite percent capture efficiency value for the group of coatings by using the average values for the group of coatings for mass fraction coating solids and mass fraction VOC in section 4.2 of this appendix A. If you panel test each coating, then you must convert the panel test result for each coating to a unique percent capture efficiency value by using coating specific values for the mass fraction coating solids and mass fraction VOC in section 4.2 of this appendix A. The mass fraction of VOC in the coating and the mass fraction of solids in the coating must be determined by EPA Method 24 (appendix A-7 to 40 CFR part 60) or by following the guidelines for combining analytical VOC content and formulation solvent content presented in “Protocol for Determining the Daily Volatile Organic Compound Emission Rate of Automobile and Light-Duty Truck Topcoat Operations,” EPA-450/3-88-018 (incorporated by reference, see § 63.14).

4.2 * * *

Ws, i = Mass fraction of coating solids for coating, i, or average mass fraction of coating solids for the group of coatings including coating, i, grams coating solids per gram coating, determined by EPA Method 24 (appendix A-7 to 40 CFR part 60) or by following the guidelines for combining analytical VOC content and formulation solvent content presented in “Protocol for Determining the Daily Volatile Organic Compound Emission Rate of Automobile and Light-Duty Truck Topcoat Operations,” EPA-450/3-88-018 (incorporated by reference, see § 63.14).

Wvocc, i = Mass fraction of VOC in coating, i, or average mass fraction of VOC for the group of coatings including coating, i, grams VOC per grams coating, determined by EPA Method 24 (appendix A-7 to 40 CFR part 60) or the guidelines for combining analytical VOC content and formulation solvent content presented in “Protocol for Determining the Daily Volatile Organic Compound Emission Rate of Automobile and Light-Duty Truck Topcoat Operations,” EPA-450/3-88-018 (incorporated by reference, see § 63.14).

* * * * *

Subpart MMMM—National Emission Standards for Hazardous Air Pollutants for Surface Coating of Miscellaneous Metal Parts and Products

23. Section 63.3900 is amended by revising paragraphs (a)(2)(i) and (ii), (b), and (c) to read as follows:

§ 63.3900 What are my general requirements for complying with this subpart?

(a) * * *

(2) * * *

(i) Before January 5, 2021, the coating operation(s) must be in compliance with the applicable emission limit in § 63.3890 at all times except during periods of SSM. On or after January 5, 2021, you must be in compliance with the applicable emission limits in § 63. 3890 and the operating limits in table 1 of this subpart at all times.

(ii) Before January 5, 2021, the coating operation(s) must be in compliance with the operating limits for emission capture systems and add-on control devices required by § 63.3892 at all times except during periods of SSM and except for solvent recovery systems for which you conduct liquid-liquid material balances according to § 63.3961(j). On or after January 5, 2021, the coating operation(s) must be in compliance with the operating limits for emission capture systems and add-on control devices required by § 63.3892 at all times, except for solvent recovery systems for which you conduct liquid-liquid material balances according to § 63.3961(j).

* * * * *

(b) Before January 5, 2021, you must always operate and maintain your affected source, including all air pollution control and monitoring equipment you use for purposes of complying with this subpart, according to the provisions in § 63.6(e)(1)(i). On and after January 5, 2021, at all times, the owner or operator must operate and maintain any affected source, including associated air pollution control equipment and monitoring equipment, in a manner consistent with safety and good air pollution control practices for minimizing emissions. The general duty to minimize emissions does not require the owner or operator to make any further efforts to reduce emissions if levels required by the applicable standard have been achieved. Determination of whether a source is operating in compliance with operation and maintenance requirements will be based on information available to the Administrator that may include, but is not limited to, monitoring results, review of operation and maintenance procedures, review of operation and maintenance records, and inspection of the affected source.

(c) Before January 5, 2021, if your affected source uses an emission capture system and add-on control device, you must develop a written SSMP according to the provisions in § 63.6(e)(3). The plan must address the startup, shutdown, and corrective actions in the event of a malfunction of the emission capture system or the add-on control device. The plan must also address any coating operation equipment that may cause increased emissions or that would affect capture efficiency if the process equipment malfunctions, such as conveyors that move parts among enclosures. On and after January 5, 2021, the SSMP is not required.

24. Section 63.3920 is amended by:

a. Revising paragraphs (a)(5) introductory text and (a)(5)(i) and (iv);

b. Adding paragraph (a)(5)(v);

c. Revising paragraphs (a)(6) introductory text and (a)(6)(iii);

d. Adding paragraph (a)(6)(iv);

e. Revising paragraphs (a)(7) introductory text and (a)(7)(iii), (vi) through (viii), (x), (xiii), and (xiv);

f. Adding paragraph (a)(7)(xv);

g. Revising paragraph (c) introductory text; and

h. Adding paragraphs (d) through (h).

The revisions and additions read as follows:

§ 63.3920 What reports must I submit?

(a) * * *

(5) Deviations: Compliant material option. If you used the compliant material option and there was a deviation from the applicable organic HAP content requirements in § 63.3890, the semiannual compliance report must contain the information in paragraphs (a)(5)(i) through (v) of this section.

(i) Identification of each coating used that deviated from the applicable emission limit, and each thinner and/or other additive, and cleaning material used that contained organic HAP, and the dates, time and duration each was used.

* * * * *

(iv) Before January 5, 2021, a statement of the cause of each deviation. On and after January 5, 2021, a statement of the cause of each deviation (including unknown cause, if applicable).

(v) On and after January 5, 2021, the number of deviations and, for each deviation, a list of the affected source or equipment, an estimate of the quantity of each regulated pollutant emitted over any applicable emission limit in § 63.3890, a description of the method used to estimate the emissions, and the actions you took to minimize emissions in accordance with § 63.3900(b).

(6) Deviations: Emission rate without add-on controls option. If you used the emission rate without add-on controls option and there was a deviation from the applicable emission limit in § 63.3890, the semiannual compliance report must contain the information in paragraphs (a)(6)(i) through (iv) of this section.

* * * * *

(iii) Before January 5, 2021, a statement of the cause of each deviation. On and after January 5, 2021, a statement of the cause of each deviation (including unknown cause, if applicable).

(iv) On and after January 5, 2021, the number of deviations and, for each deviation, the date, time, duration, a list of the affected source or equipment, an estimate of the quantity of each regulated pollutant emitted over any applicable emission limit in § 63.3890, a description of the method used to estimate the emissions, and the actions you took to minimize emissions in accordance with § 63.3900(b).

(7) Deviations: Emission rate with add-on controls option. If you used the emission rate with add-on controls option and there was a deviation from the applicable emission limit in § 63.3890 or the applicable operating limit(s) in table 1 to this subpart (including any periods when emissions bypassed the add-on control device and were diverted to the atmosphere), before January 5, 2021, the semiannual compliance report must contain the information in paragraphs (a)(7)(i) through (xiv) of this section. This includes periods of SSM during which deviations occurred. On and after January 5, 2021, the semiannual compliance report must contain the information in paragraphs (a)(7)(i) through (xii), (xiv), and (xv) of this section. If you use the emission rate with add-on controls option and there was a deviation from the applicable work practice standards in § 63.3893(b), the semiannual compliance report must contain the information in paragraph (a)(7)(xiii) of this section.

* * * * *

(iii) The date and time that each malfunction of the capture system or add-on control devices started and stopped.

* * * * *

(vi) Before January 5, 2021, the date and time that each CPMS was inoperative, except for zero (low-level) and high-level checks. On and after January 5, 2021, the number of instances that the CPMS was inoperative, and for each instance, except for zero (low-level) and high-level checks, the date, time, and duration that the CPMS was inoperative; the cause (including unknown cause) for the CPMS being inoperative; and the actions you took to minimize emissions in accordance with § 63.3900(b).

(vii) Before January 5, 2021, the date, time, and duration that each CPMS was out-of-control, including the information in § 63.8(c)(8). On and after January 5, 2021, the number of instances that the CPMS was out of control as specified in § 63.8(c)(7) and, for each instance, the date, time, and duration that the CPMS was out-of-control; the cause (including unknown cause) for the CPMS being out-of-control; and descriptions of corrective actions taken.

(viii) Before January 5, 2021, the date and time period of each deviation from an operating limit in table 1 to this subpart; date and time period of any bypass of the add-on control device; and whether each deviation occurred during a period of SSM or during another period. On and after January 5, 2021, the number of deviations from an operating limit in table 1 to this subpart and, for each deviation, the date, time, and duration of each deviation; and the date, time, and duration of any bypass of the add-on control device.

* * * * *

(x) Before January 5, 2021, a breakdown of the total duration of the deviations from the operating limits in table 1 of this subpart and bypasses of the add-on control device during the semiannual reporting period into those that were due to startup, shutdown, control equipment problems, process problems, other known causes, and other unknown causes. On and after January 5, 2021, a breakdown of the total duration of the deviations from the operating limits in Table 1 to this subpart and bypasses of the add-on control device during the semiannual reporting period into those that were due to control equipment problems, process problems, other known causes, and other unknown causes.

* * * * *

(xiii) Before January 5, 2021, for each deviation from the work practice standards, a description of the deviation, the date and time period of the deviation, and the actions you took to correct the deviation. On and after January 5, 2021, for deviations from the work practice standards, the number of deviations, and, for each deviation, the information in paragraphs (a)(7)(xiii)(A) and (B) of this section:

(A) A description of the deviation; the date, time, and duration of the deviation; and the actions you took to minimize emissions in accordance with § 63.3900(b).

(B) The description required in paragraph (a)(7)(xiii)(A) of this section must include a list of the affected sources or equipment for which a deviation occurred and the cause of the deviation (including unknown cause, if applicable).

(xiv) Before January 5, 2021, statement of the cause of each deviation. On and after January 5, 2021, for deviations from an emission limit in § 63.3890 or an operating limit in table 1 to this subpart, a statement of the cause of each deviation (including unknown cause, if applicable) and the actions you took to minimize emissions in accordance with § 63.3900(b).

(xv) On and after January 5, 2021, for each deviation from an emission limit in § 63.3890 or operating limit in table 1 to this subpart, a list of the affected sources or equipment for which a deviation occurred, an estimate of the quantity of each regulated pollutant emitted over any emission limit in § 63.3890 or operating limit in table 1 to this subpart, and a description of the method used to estimate the emissions.

* * * * *

(c) SSM reports. Before January 5, 2021, if you used the emission rate with add-on controls option and you had a SSM during the semiannual reporting period, you must submit the reports specified in paragraphs (c)(1) and (2) of this section. On and after January 5, 2021, the reports specified in paragraphs (c)(1) and (2) of this section are not required.

* * * * *

(d) Performance test reports. On and after January 5, 2021, you must submit the results of the performance test required in §§ 63.3940 and 63.3950 following the procedure specified in paragraphs (d)(1) through (3) of this section.

(1) For data collected using test methods supported by the EPA's Electronic Reporting Tool (ERT) as listed on the EPA's ERT website (https://www.epa.gov/electronic-reporting-air-emissions/electronic-reporting-tool-ert) at the time of the test, you must submit the results of the performance test to the EPA via the Compliance and Emissions Data Reporting Interface (CEDRI). The CEDRI interface can be accessed through the EPA's Central Data Exchange (CDX) (https://cdx.epa.gov//). Performance test data must be submitted in a file format generated through the use of the EPA's ERT or an alternate electronic file format consistent with the extensible markup language (XML) schema listed on the EPA's ERT website.

(2) For data collected using test methods that are not supported by the EPA's ERT as listed on the EPA's ERT website at the time of the test, you must submit the results of the performance test to the Administrator at the appropriate address listed in § 63.13, unless the Administrator agrees to or specifies an alternate reporting method.

(3) If you claim that some of the performance test information being submitted under paragraph (d)(1) of this section is Confidential Business Information (CBI), you must submit a complete file generated through the use of the EPA's ERT or an alternate electronic file consistent with the XML schema listed on the EPA's ERT website, including information claimed to be CBI, on a compact disc, flash drive, or other commonly used electronic storage medium to the EPA. The electronic medium must be clearly marked as CBI and mailed to U.S. EPA/OAPQS/CORE CBI Office, Attention: Group Leader, Measurement Policy Group, MD C404-02, 4930 Old Page Rd., Durham, NC 27703. The same ERT or alternate file with the CBI omitted must be submitted to the EPA via the EPA's CDX as described in paragraph (d)(1) of this section.

(e) Initial notification reports. On and after January 5, 2021, the owner or operator shall submit the initial notifications required in § 63.9(b) and the notification of compliance status required in §§ 63.9(h) and 63.3910(c) to the EPA via the CEDRI. The CEDRI interface can be accessed through the EPA's CDX (https://cdx.epa.gov/). The owner or operator must upload to CEDRI an electronic copy of each applicable notification in portable document format (PDF). The applicable notification must be submitted by the deadline specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(f) Semiannual compliance reports. On and after January 5, 2021, or once the reporting template has been available on the CEDRI website for 1 year, whichever date is later, the owner or operator shall submit the semiannual compliance report required in paragraph (a) of this section to the EPA via the CEDRI. The CEDRI interface can be accessed through the EPA's CDX (https://cdx.epa.gov/). The owner or operator must use the appropriate electronic template on the CEDRI website for this subpart or an alternate electronic file format consistent with the XML schema listed on the CEDRI website (https://www.epa.gov/electronic-reporting-air-emissions/compliance-and-emissions-data-reporting-interface-cedri). The date report templates become available will be listed on the CEDRI website. If the reporting form for the semiannual compliance report specific to this subpart is not available in CEDRI at the time that the report is due, you must submit the report to the Administrator at the appropriate addresses listed in § 63.13. Once the form has been available in CEDRI for 1 year, you must begin submitting all subsequent reports via CEDRI. The reports must be submitted by the deadlines specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(g) Reporting during EPA system outages. If you are required to electronically submit a report through the CEDRI in the EPA's CDX, and due to a planned or actual outage of either the EPA's CEDRI or CDX systems within the period of time beginning 5 business days prior to the date that the submission is due, you will be or are precluded from accessing CEDRI or CDX and submitting a required report within the time prescribed, you may assert a claim of the EPA system outage for failure to timely comply with the reporting requirement. You must submit notification to the Administrator in writing as soon as possible following the date you first knew, or through due diligence should have known, that the event may cause or caused a delay in reporting. You must provide to the Administrator a written description identifying the date, time, and length of the outage; a rationale for attributing the delay in reporting beyond the regulatory deadline to the EPA system outage; describe the measures taken or to be taken to minimize the delay in reporting; and identify a date by which you propose to report, or if you have already met the reporting requirement at the time of the notification, the date you reported. In any circumstance, the report must be submitted electronically as soon as possible after the outage is resolved. The decision to accept the claim of the EPA system outage and allow an extension to the reporting deadline is solely within the discretion of the Administrator.

(h) Reporting during force majeure events. If you are required to electronically submit a report through CEDRI in the EPA's CDX and a force majeure event is about to occur, occurs, or has occurred or there are lingering effects from such an event within the period of time beginning 5 business days prior to the date the submission is due, the owner or operator may assert a claim of force majeure for failure to timely comply with the reporting requirement. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage). If you intend to assert a claim of force majeure, you must submit notification to the Administrator in writing as soon as possible following the date you first knew, or through due diligence should have known, that the event may cause or caused a delay in reporting. You must provide to the Administrator a written description of the force majeure event and a rationale for attributing the delay in reporting beyond the regulatory deadline to the force majeure event; describe the measures taken or to be taken to minimize the delay in reporting; and identify a date by which you propose to report, or if you have already met the reporting requirement at the time of the notification, the date you reported. In any circumstance, the reporting must occur as soon as possible after the force majeure event occurs. The decision to accept the claim of force majeure and allow an extension to the reporting deadline is solely within the discretion of the Administrator.

25. Section 63.3930 is amended by revising paragraphs (j), (k) introductory text, and (k)(1) and (2) to read as follows:

§ 63.3930 What records must I keep?

* * * * *

(j) Before January 5, 2021, you must keep records of the date, time, and duration of each deviation. On and after January 5, 2021, for each deviation from an emission limitation reported under § 63.3920(a)(5) through (7), a record of the information specified in paragraphs (j)(1) through (4) of this section, as applicable.

(1) The date, time, and duration of the deviation, as reported under § 63.3920(a)(5) through (7).

(2) A list of the affected sources or equipment for which the deviation occurred and the cause of the deviation, as reported under § 63.3920(a)(5) through (7).

(3) An estimate of the quantity of each regulated pollutant emitted over any applicable emission limit in § 63.3890 or any applicable operating limit in table 1 to this subpart, and a description of the method used to calculate the estimate, as reported under § 63.3920(a)(5) through (7).

(4) A record of actions taken to minimize emissions in accordance with § 63.3900(b) and any corrective actions taken to return the affected unit to its normal or usual manner of operation.

(k) If you use the emission rate with add-on controls option, you must also keep the records specified in paragraphs (k)(1) through (8) of this section.

(1) Before January 5, 2021, for each deviation, a record of whether the deviation occurred during a period of SSM. On and after January 5, 2021, a record of whether the deviation occurred during a period of SSM is not required.

(2) Before January 5, 2021, the records in § 63.6(e)(3)(iii) through (v) related to SSM. On and after January 5, 2021, the records in § 63.6(e)(3)(iii) through (v) related to SSM are not required.

* * * * *

26. Section 63.3931 is amended by revising paragraph (a) to read as follows:

§ 63.3931 In what form and for how long must I keep my records?

(a) Your records must be in a form suitable and readily available for expeditious review, according to § 63.10(b)(1). Where appropriate, the records may be maintained as electronic spreadsheets or as a database. On and after January 5, 2021, any records required to be maintained by this subpart that are in reports that were submitted electronically via the EPA's CEDRI may be maintained in electronic format. This ability to maintain electronic copies does not affect the requirement for facilities to make records, data, and reports available upon request to a delegated air agency or the EPA as part of an on-site compliance evaluation.

* * * * *

27. Section 63.3941 is amended by revising paragraphs (a)(1)(i), (a)(4), (b)(1), the definition of “Davg” in Equation 1 of paragraph (b)(4), and paragraph (c) to read as follows:

§ 63.3941 How do I demonstrate initial compliance with the emission limitations?

* * * * *

(a) * * *

(1) * * *

(i) Count each organic HAP in table 5 to this subpart that is measured to be present at 0.1 percent by mass or more and at 1.0 percent by mass or more for other compounds. For example, if toluene (not listed in table 5 to this subpart) is measured to be 0.5 percent of the material by mass, you do not have to count it. Express the mass fraction of each organic HAP you count as a value truncated to four places after the decimal point (e.g., 0.3791).

* * * * *

(4) Information from the supplier or manufacturer of the material. You may rely on information other than that generated by the test methods specified in paragraphs (a)(1) through (3) of this section, such as manufacturer's formulation data, if it represents each organic HAP in table 5 to this subpart that is present at 0.1 percent by mass or more and at 1.0 percent by mass or more for other compounds. For example, if toluene (not listed in table 5 to this subpart) is 0.5 percent of the material by mass, you do not have to count it. For reactive adhesives in which some of the HAP react to form solids and are not emitted to the atmosphere, you may rely on manufacturer's data that expressly states the organic HAP or volatile matter mass fraction emitted. If there is a disagreement between such information and results of a test conducted according to paragraphs (a)(1) through (3) of this section, then the test method results will take precedence unless, after consultation, you demonstrate to the satisfaction of the enforcement agency that the formulation data are correct.

* * * * *

(b) * * *

(1) ASTM Method D2697-03 (Reapproved 2014) or D6093-97 (Reapproved 2016). You may use ASTM D2697-03 (Reapproved 2014) (incorporated by reference, see § 63.14), or D6093-97 (Reapproved 2016) (incorporated by reference, see § 63.14), to determine the volume fraction of coating solids for each coating. Divide the nonvolatile volume percent obtained with the methods by 100 to calculate volume fraction of coating solids.

* * * * *

(4) * * *

Davg = Average density of volatile matter in the coating, grams volatile matter per liter volatile matter, determined from test results using ASTM D1475-13 (incorporated by reference, see § 63.14), information from the supplier or manufacturer of the material, or reference sources providing density or specific gravity data for pure materials. If there is disagreement between ASTM D1475-13 test results and other information sources, the test results will take precedence unless, after consultation you demonstrate to the satisfaction of the enforcement agency that the formulation data are correct.

(c) Determine the density of each coating. Determine the density of each coating used during the compliance period from test results using ASTM D1475-13 (incorporated by reference, see § 63.14), information from the supplier or manufacturer of the material, or specific gravity data for pure chemicals. If there is disagreement between ASTM D1475-13 test results and the supplier's or manufacturer's information, the test results will take precedence unless, after consultation you demonstrate to the satisfaction of the enforcement agency that the formulation data are correct.

* * * * *

28. Section 63.3951 is amended by revising paragraph (c) to read as follows:

§ 63.3951 How do I demonstrate initial compliance with the emission limitations?

* * * * *

(c) Determine the density of each material. Determine the density of each liquid coating, thinner and/or other additive, and cleaning material used during each month from test results using ASTM D1475-13 or ASTM D2111-10 (Reapproved 2015) (both incorporated by reference, see § 63.14), information from the supplier or manufacturer of the material, or reference sources providing density or specific gravity data for pure materials. If you are including powder coatings in the compliance determination, determine the density of powder coatings, using ASTM D5965-02 (Reapproved 2013) (incorporated by reference, see § 63.14), or information from the supplier. If there is disagreement between ASTM D1475-13 or ASTM D2111-10 (Reapproved 2015) test results and other such information sources, the test results will take precedence unless, after consultation you demonstrate to the satisfaction of the enforcement agency that the formulation data are correct. If you purchase materials or monitor consumption by weight instead of volume, you do not need to determine material density. Instead, you may use the material weight in place of the combined terms for density and volume in Equations 1A, 1B, 1C, and 2 of this section.

* * * * *

29. Section 63.3960 is amended by revising paragraphs (a)(1) and (4), (b)(1), and (c) introductory text to read as follows:

§ 63.3960 By what date must I conduct performance tests and other initial compliance demonstrations?

(a) * * *

(1) All emission capture systems, add-on control devices, and CPMS must be installed and operating no later than the applicable compliance date specified in § 63.3883. Except for solvent recovery systems for which you conduct liquid-liquid material balances according to § 63.3961(j), you must conduct according to the schedule in paragraphs (a)(1)(i) and (ii) of this section initial and periodic performance tests of each capture system and add-on control device according to the procedures in §§ 63.3964, 63.3965, and 63.3966 and establish the operating limits required by § 63.3892. For a solvent recovery system for which you conduct liquid-liquid material balances according to § 63.3961(j), you must initiate the first material balance no later than the applicable compliance date specified in § 63.3883. For magnet wire coating operations, you may, with approval, conduct a performance test of one representative magnet wire coating machine for each group of identical or very similar magnet wire coating machines.

(i) You must conduct the initial performance test and establish the operating limits required by § 63.3892 no later than 180 days after the applicable compliance date specified in § 63.3883.

(ii) You must conduct periodic performance tests and establish the operating limits required by § 63.3892 within 5 years following the previous performance test. You must conduct the first periodic performance test before July 8, 2023, unless you are already required to complete periodic performance tests as a requirement of renewing your facility's operating permit under 40 CFR part 70 or 40 CFR part 71 and have conducted a performance test on or after July 8, 2018. Thereafter you must conduct a performance test no later than 5 years following the previous performance test. Operating limits must be confirmed or reestablished during each performance test. For any control device for which you are using the catalytic oxidizer control option at § 63.3967(b) and following the catalyst maintenance procedures in § 63.3967(b)(4), you are not required to conduct periodic testing control device performance testing as specified by this paragraph. For any control device for which instruments are used to continuously measure organic compound emissions, you are not required to conduct periodic control device performance testing as specified by this paragraph.

* * * * *

(4) For the initial compliance demonstration, you do not need to comply with the operating limits for the emission capture system and add-on control device required by § 63.3892 until after you have completed the initial performance tests specified in paragraph (a)(1) of this section. Instead, you must maintain a log detailing the operation and maintenance of the emission capture system, add-on control device, and continuous parameter monitors during the period between the compliance date and the performance test. You must begin complying with the operating limits established based on the initial performance tests specified in paragraph (a)(1) of this section for your affected source on the date you complete the performance tests. For magnet wire coating operations, you must begin complying with the operating limits for all identical or very similar magnet wire coating machines on the date you complete the performance test of a representative magnet wire coating machine. The requirements in this paragraph (a)(4) do not apply to solvent recovery systems for which you conduct liquid-liquid material balances according to the requirements in § 63.3961(j).

(b) * * *

(1) All emission capture systems, add-on control devices, and CPMS must be installed and operating no later than the applicable compliance date specified in § 63.3883. Except for magnet wire coating operations and solvent recovery systems for which you conduct liquid-liquid material balances according to § 63.3961(j), you must conduct according to the schedule in paragraphs (b)(1)(i) and (ii) of this section initial and periodic performance tests of each capture system and add-on control device according to the procedures in §§ 63.3964, 63.3965, and 63.3966 and establish the operating limits required by § 63.3892. For magnet wire coating operations, you may, with approval, conduct a performance test of a single magnet wire coating machine that represents identical or very similar magnet wire coating machines. For a solvent recovery system for which you conduct liquid-liquid material balances according to § 63.3961(j), you must initiate the first material balance no later than the compliance date specified in § 63.3883.

(i) You must conduct the initial performance test and establish the operating limits required by § 63.3892 no later than 180 days after the applicable compliance date specified in § 63.3883.

(ii) You must conduct periodic performance tests and establish the operating limits required by § 63.3892 within 5 years following the previous performance test. You must conduct the first periodic performance test before July 8, 2020, unless you are already required to complete periodic performance tests as a requirement of renewing your facility's operating permit under 40 CFR part 70 or 40 CFR part 71 and have conducted a performance test on or after July 8, 2018. Thereafter you must conduct a performance test no later than 5 years following the previous performance test. Operating limits must be confirmed or reestablished during each performance test. For any control device for which you are using the catalytic oxidizer control option at § 63.3967(b) and following the catalyst maintenance procedures in § 63.3967(b)(4), you are not required to conduct periodic testing control device performance testing as specified by this paragraph. For any control device for which instruments are used to continuously measure organic compound emissions, you are not required to conduct periodic control device performance testing as specified by this paragraph.

* * * * *

(c) You are not required to conduct an initial performance test to determine capture efficiency or destruction efficiency of a capture system or control device if you receive approval to use the results of a performance test that has been previously conducted on that capture system or control device. Any such previous tests must meet the conditions described in paragraphs (c)(1) through (3) of this section. You are still required to conduct a periodic performance test according to the applicable requirements of paragraphs (a)(1)(ii) and (b)(2)(ii) of this section.

* * * * *

30. Section 63.3961 is amended by revising paragraph (j)(3) to read as follows:

§ 63.3961 How do I demonstrate initial compliance?

* * * * *

(j) * * *

(3) Determine the mass fraction of volatile organic matter for each coating, thinner and/or other additive, and cleaning material used in the coating operation controlled by the solvent recovery system during the month, kg volatile organic matter per kg coating. You may determine the volatile organic matter mass fraction using EPA Method 24 of 40 CFR part 60, appendix A-7, ASTM D2369-10 (Reapproved 2015) ᵉ (incorporated by reference, see § 63.14), or an EPA approved alternative method, or you may use information provided by the manufacturer or supplier of the coating. In the event of any inconsistency between information provided by the manufacturer or supplier and the results of EPA Method 24 of 40 CFR part 60, appendix A-7, ASTM D2369-10 (Reapproved 2015) ᵉ, or an approved alternative method, the test method results will take precedence unless, after consultation you demonstrate to the satisfaction of the enforcement agency that the formulation data are correct.

* * * * *

31. Section 63.3963 is amended by revising paragraph (f) and adding paragraph (i) to read as follows:

§ 63.3963 How do I demonstrate continuous compliance with the emission limitations?

* * * * *

(f) As part of each semiannual compliance report required in § 63.3920, you must identify the coating operation(s) for which you used the emission rate with add-on controls option. If there were no deviations from the emission limits in § 63.3890, the operating limits in § 63.3892, and the work practice standards in § 63.3893, submit a statement that you were in compliance with the emission limitations during the reporting period because the organic HAP emission rate for each compliance period was less than or equal to the applicable emission limit in § 63.3890, and you achieved the operating limits required by § 63.3892 and the work practice standards required by § 63.3893 during each compliance period.

* * * * *

(i) On and after January 5, 2021, deviations that occur due to malfunction of the emission capture system, add-on control device, or coating operation that may affect emission capture or control device efficiency are required to operate in accordance with § 63.3900(b). The Administrator will determine whether the deviations are violations according to the provisions in § 63.3900(b).

* * * * *

32. Section 63.3964 is amended by revising paragraphs (a) introductory text and (a)(1) to read as follows:

§ 63.3964 What are the general requirements for performance tests?

(a) Before January 5, 2021, you must conduct each performance test required by § 63.3960 according to the requirements in § 63.7(e)(1) and under the conditions in this section, unless you obtain a waiver of the performance test according to the provisions in § 63.7(h). On and after January 5, 2021, you must conduct each performance test required by § 63.3960 according to the requirements in this section unless you obtain a waiver of the performance test according to the provisions in § 63.7(h).

(1) Representative coating operation operating conditions. You must conduct the performance test under representative operating conditions for the coating operation. Operations during periods of startup, shutdown, or periods of nonoperation do not constitute representative conditions for purposes of conducting a performance test. The owner or operator may not conduct performance tests during periods of malfunction. You must record the process information that is necessary to document operating conditions during the test and explain why the conditions represent normal operation. Upon request, you must make available to the Administrator such records as may be necessary to determine the conditions of performance tests.

* * * * *

33. Section 63.3965 is amended by revising the introductory text to read as follows:

§ 63.3965 How do I determine the emission capture system efficiency?

You must use the procedures and test methods in this section to determine capture efficiency as part of each performance test required by § 63.3960.

* * * * *

34. Section 63.3966 is amended by revising the introductory text and paragraph (b) to read as follows:

§ 63.3966 How do I determine the add-on control device emission destruction or removal efficiency?

You must use the procedures and test methods in this section to determine the add-on control device emission destruction or removal efficiency as part of the performance test required by § 63.3960. For each performance test, you must conduct three test runs as specified in § 63.7(e)(3) and each test run must last at least 1 hour. If the source is a magnet wire coating machine, you may use the procedures in section 3.0 of appendix A to this subpart as an alternative.

* * * * *

(b) Measure total gaseous organic mass emissions as carbon at the inlet and outlet of the add-on control device simultaneously, using either EPA Method 25 or 25A of appendix A-7 to 40 CFR part 60.

(1) Use EPA Method 25 of appendix A-7 to 40 CFR part 60 if the add-on control device is an oxidizer and you expect the total gaseous organic concentration as carbon to be more than 50 parts per million (ppm) at the control device outlet.

(2) Use EPA Method 25A of appendix A-7 to 40 CFR part 60 if the add-on control device is an oxidizer and you expect the total gaseous organic concentration as carbon to be 50 ppm or less at the control device outlet.

(3) Use EPA Method 25A of appendix A-7 to 40 CFR part 60 if the add-on control device is not an oxidizer.

(4) You may use EPA Method 18 of appendix A-6 to 40 CFR part 60 to subtract methane emissions from measured total gaseous organic mass emissions as carbon.

* * * * *

35. Section 63.3967 is amended by revising paragraphs (a)(1) and (2), (b)(1) through (3), (d)(1) and (2), and (e)(1) through (4) to read as follows:

§ 63.3967 How do I establish the emission capture system and add-on control device operating limits during the performance test?

* * * * *

(a) * * *

(1) During performance tests, you must monitor and record the combustion temperature at least once every 15 minutes during each of the three test runs. You must monitor the temperature in the firebox of the thermal oxidizer or immediately downstream of the firebox before any substantial heat exchange occurs.

(2) For each performance test, use the data collected during the performance test to calculate and record the average combustion temperature maintained during the performance test. This average combustion temperature is the minimum operating limit for your thermal oxidizer.

(b) * * *

(1) During performance tests, you must monitor and record the temperature just before the catalyst bed and the temperature difference across the catalyst bed at least once every 15 minutes during each of the three test runs.

(2) For each performance test, use the data collected during the performance test to calculate and record the average temperature just before the catalyst bed and the average temperature difference across the catalyst bed maintained during the performance test. These are the minimum operating limits for your catalytic oxidizer.

(3) You must monitor the temperature at the inlet to the catalyst bed and implement a site-specific inspection and maintenance plan for your catalytic oxidizer as specified in paragraph (b)(4) of this section. During the performance test, you must monitor and record the temperature just before the catalyst bed at least once every 15 minutes during each of the three test runs. For each performance test, use the data collected during the performance test to calculate and record the average temperature just before the catalyst bed during the performance test. This is the minimum operating limit for your catalytic oxidizer.

* * * * *

(d) * * *

(1) During performance tests, you must monitor and record the condenser outlet (product side) gas temperature at least once every 15 minutes during each of the three test runs.

(2) For each performance test, use the data collected during the performance test to calculate and record the average condenser outlet (product side) gas temperature maintained during the performance test. This average condenser outlet gas temperature is the maximum operating limit for your condenser.

(e) * * *

(1) During performance tests, you must monitor and record the desorption concentrate stream gas temperature at least once every 15 minutes during each of the three runs of the performance test.

(2) For each performance test, use the data collected during the performance test to calculate and record the average temperature. This is the minimum operating limit for the desorption concentrate gas stream temperature.

(3) During performance tests, you must monitor and record the pressure drop of the dilute stream across the concentrator at least once every 15 minutes during each of the three runs of the performance test.

(4) For each performance test, use the data collected during the performance test to calculate and record the average pressure drop. This is the minimum operating limit for the dilute stream across the concentrator.

* * * * *

36. Section 63.3968 is amended by revising paragraphs (a)(4), (5), and (7), and (c)(3) introductory text to read as follows:

§ 63.3968 What are the requirements for continuous parameter monitoring system installation, operation, and maintenance?

(a) * * *

(4) Before January 5, 2021, you must maintain the CPMS at all times and have available necessary parts for routine repairs of the monitoring equipment. On and after January 5, 2021, you must maintain the CPMS at all times in accordance with § 63.3900(b) and keep necessary parts readily available for routine repairs of the monitoring equipment.

(5) Before January 5, 2021, you must operate the CPMS and collect emission capture system and add-on control device parameter data at all times that a controlled coating operation is operating, except during monitoring malfunctions, associated repairs, and required quality assurance or control activities (including, if applicable, calibration checks and required zero and span adjustments). On and after January 5, 2021, you must operate the CPMS and collect emission capture system and add-on control device parameter data at all times in accordance with § 63.3900(b).

* * * * *

(7) A monitoring malfunction is any sudden, infrequent, not reasonably preventable failure of the CPMS to provide valid data. Monitoring failures that are caused in part by poor maintenance or careless operation are not malfunctions. Before January 5, 2021, any period for which the monitoring system is out-of-control and data are not available for required calculations is a deviation from the monitoring requirements. On and after January 5, 2021, except for periods of required quality assurance or control activities, any period for which the CPMS fails to operate and record data continuously as required by paragraph (a)(5) of this section, or generates data that cannot be included in calculating averages as specified in (a)(6) of this section constitutes a deviation from the monitoring requirements.

* * * * *

(c) * * *

(3) For all thermal oxidizers and catalytic oxidizers, you must meet the requirements in paragraphs (a) and (c)(3)(i) through (v) of this section for each gas temperature monitoring device. For the purposes of this paragraph (c)(3), a thermocouple is part of the temperature sensor.

* * * * *

37. Section 63.3981 is amended by revising the definitions of “Deviation” and “Non-HAP coating” to read as follows:

§ 63.3981 What definitions apply to this subpart?

* * * * *

Deviation means:

(1) Before January 5, 2021, any instance in which an affected source subject to this subpart, or an owner or operator of such a source:

(i) Fails to meet any requirement or obligation established by this subpart including but not limited to, any emission limit or operating limit or work practice standard;

(ii) Fails to meet any term or condition that is adopted to implement an applicable requirement in this subpart and that is included in the operating permit for any affected source required to obtain such a permit; or

(iii) Fails to meet any emission limit, or operating limit, or work practice standard in this subpart during SSM, regardless of whether or not such failure is permitted by this subpart; and

(2) On and after January 5, 2021, any instance in which an affected source subject to this subpart or an owner or operator of such a source:

(i) Fails to meet any requirement or obligation established by this subpart including but not limited to any emission limit, operating limit, or work practice standard; or

(ii) Fails to meet any term or condition that is adopted to implement an applicable requirement in this subpart and that is included in the operating permit for any affected source required to obtain such a permit.

* * * * *

Non-HAP coating means, for the purposes of this subpart, a coating that contains no more than 0.1 percent by mass of any individual organic HAP that is listed in Table 5 to this subpart and no more than 1.0 percent by mass for any other individual HAP.

* * * * *

38. Table 2 to Subpart MMMM of part 63 is revised to read as follows:

Table 2 to Subpart MMMM of Part 63—Applicability of General Provisions to Subpart MMMM of Part 63
You must comply with the applicable General Provisions requirements according to the following table:
Citation | Subject | Applicable to subpart MMMM | Explanation
§ 63.1(a)(1)-(14) | General Applicability | Yes
§ 63.1(b)(1)-(3) | Initial Applicability Determination | Yes | Applicability to subpart MMMM is also specified in § 63.3881.
§ 63.1(c)(1) | Applicability After Standard Established | Yes
§ 63.1(c)(2)-(3) | Applicability of Permit Program for Area Sources | No | Area sources are not subject to subpart MMMM.
§ 63.1(c)(4)-(5) | Extensions and Notifications | Yes
§ 63.1(e) | Applicability of Permit Program Before Relevant Standard is Set | Yes
§ 63.2 | Definitions | Yes | Additional definitions are specified in § 63.3981.
§ 63.1(a)-(c) | Units and Abbreviations | Yes
§ 63.4(a)(1)-(5) | Prohibited Activities | Yes
§ 63.4(b)-(c) | Circumvention/Severability | Yes
§ 63.5(a) | Construction/Reconstruction | Yes
§ 63.5(b)(1)-(6) | Requirements for Existing Newly Constructed, and Reconstructed Sources | Yes
§ 63.5(d) | Application for Approval of Construction/Reconstruction | Yes
§ 63.5(e) | Approval of Construction/Reconstruction | Yes
§ 63.5(f) | Approval of Construction/Reconstruction Based on Prior State Review | Yes
§ 63.6(a) | Compliance With Standards and Maintenance Requirements—Applicability | Yes
§ 63.6(b)(1)-(7) | Compliance Dates for New and Reconstructed Sources | Yes | Section 63.3883 specifies the compliance dates.
§ 63.6(c)(1)-(5) | Compliance Dates for Existing Sources | Yes | Section 63.3883 specifies the compliance dates.
§ 63.6(e)(1)-(2) | Operation and Maintenance | Yes before January 5, 2021. No on and after January 5, 2021 | See § 63.3900(b) for general duty requirement.
§ 63.6(e)(3) | SSMP | Yes before January 5, 2021. No on and after January 5, 2021
§ 63.6(f)(1) | Compliance Except During SSM | Yes before January 5, 2021. No on and after January 5, 2021
§ 63.6(f)(2)-(3) | Methods for Determining Compliance. | Yes
§ 63.6(g)(1)-(3) | Use of an Alternative Standard | Yes
§ 63.6(h) | Compliance With Opacity/Visible Emission Standards | No | Subpart MMMM does not establish opacity standards and does not require continuous opacity monitoring systems (COMS).
§ 63.6(i)(1)-(16) | Extension of Compliance | Yes
§ 63.6(j) | Presidential Compliance Exemption | Yes
§ 63.7(a)(1) | Performance Test Requirements—Applicability | Yes | Applies to all affected sources. Additional requirements for performance testing are specified in §§ 63.3964, 63.3965, and 63.3966.
§ 63.7(a)(2) | Performance Test Requirements—Dates | Yes | Applies only to performance tests for capture system and control device efficiency at sources using these to comply with the standard. Section 63.3960 specifies the schedule for performance test requirements that are earlier than those specified in § 63.7(a)(2).
§ 63.7(a)(3)-(4) | Performance Tests Required By the Administrator, Force Majeure | Yes
§ 63.7(b)-(d) | Performance Test Requirements—Notification, Quality Assurance, Facilities Necessary for Safe Testing, Conditions During Test | Yes | Applies only to performance tests for capture system and add-on control device efficiency at sources using these to comply with the standard.
§ 63.7(e)(1) | Conduct of Performance Tests | Yes before January 5, 2021. No on and after January 5, 2021 | See §§ 63.3964.
§ 63.7(e)(2)-(4) | Conduct of Performance Tests | Yes
§ 63.7(f) | Performance Test Requirements—Use of Alternative Test Method | Yes | Applies to all test methods except those used to determine capture system efficiency.
§ 63.7(g)-(h) | Performance Test Requirements—Data Analysis, Recordkeeping, Reporting, Waiver of Test | Yes | Applies only to performance tests for capture system and add-on control device efficiency at sources using these to comply with the standard.
§ 63.8(a)(1)-(3) | Monitoring Requirements—Applicability | Yes | Applies only to monitoring of capture system and add-on control device efficiency at sources using these to comply with the standard. Additional requirements for monitoring are specified in § 63.3968.
§ 63.8(a)(4) | Additional Monitoring Requirements | No | Subpart MMMM does not have monitoring requirements for flares.
§ 63.8(b) | Conduct of Monitoring | Yes
§ 63.8(c)(1) | Continuous Monitoring System (CMS) Operation and Maintenance | Yes before January 5, 2021. No on and after January 5, 2021 | Section 63.3968 specifies the requirements for the operation of CMS for capture systems and add-on control devices at sources using these to comply.
§ 63.8(c)(2)-(3) | CMS Operation and Maintenance | Yes | Applies only to monitoring of capture system and add-on control device efficiency at sources using these to comply with the standard. Additional requirements for CMS operations and maintenance are specified in § 63.3968.
§ 63.8(c)(4) | CMS | No | § 63.3968 specifies the requirements for the operation of CMS for capture systems and add-on control devices at sources using these to comply.
§ 63.8(c)(5) | COMS | No | Subpart MMMM does not have opacity or visible emission standards.
§ 63.8(c)(6) | CMS Requirements | No | Section 63.3968 specifies the requirements for monitoring systems for capture systems and add-on control devices at sources using these to comply.
§ 63.8(c)(7) | CMS Out-of-Control Periods | Yes
§ 63.8(c)(8) | CMS Out-of-Control Periods and Reporting | No | § 63.3920 requires reporting of CMS out-of-control periods.
§ 63.8(d)-(e) | Quality Control Program and CMS Performance Evaluation | No | Subpart MMMM does not require the use of continuous emissions monitoring systems.
§ 63.8(f)(1)-(5) | Use of an Alternative Monitoring Method | Yes
§ 63.8(f)(6) | Alternative to Relative Accuracy Test | No | Subpart MMMM does not require the use of continuous emissions monitoring systems.
§ 63.8(g)(1)-(5) | Data Reduction | No | Sections 63.3967 and 63.3968 specify monitoring data reduction.
§ 63.9(a)-(d) | Notification Requirements | Yes
§ 63.9(e) | Notification of Performance Test | Yes | Applies only to capture system and add-on control device performance tests at sources using these to comply with the standard.
§ 63.9(f) | Notification of Visible Emissions/Opacity Test | No | Subpart MMMM does not have opacity or visible emissions standards.
§ 63.9(g)(1)-(3) | Additional Notifications When Using CMS | No | Subpart MMMM does not require the use of continuous emissions monitoring systems.
§ 63.9(h) | Notification of Compliance Status | Yes | Section 63.3910 specifies the dates for submitting the notification of compliance status.
§ 63.9(i) | Adjustment of Submittal Deadlines | Yes
§ 63.9(j) | Change in Previous Information | Yes
§ 63.10(a) | Recordkeeping/Reporting—Applicability and General Information | Yes
§ 63.10(b)(1) | General Recordkeeping Requirements | Yes | Additional requirements are specified in §§ 63.3930 and 63.3931.
§ 63.10(b)(2)(i)-(ii) | Recordkeeping of Occurrence and Duration of Startups and Shutdowns and of Failures to Meet Standards | Yes before January 5, 2021. No on and after January 5, 2021 | See § 63.3930(j).
§ 63.10(b)(2)(iii) | Recordkeeping Relevant to Maintenance of Air Pollution Control and Monitoring Equipment | Yes | § 63.10(b)(2)(iii).
§ 63.10(b)(2)(iv)-(v) | Actions Taken to Minimize Emissions During SSM | Yes before January 5, 2021. No on and after January 5, 2021 | See § 63.3930(j) for a record of actions taken to minimize emissions duration a deviation from the standard.
§ 63.10(b)(2)(vi) | Recordkeeping for CMS Malfunctions | Yes before January 5, 2021. No on and after January 5, 2021 | See § 63.3930(j) for records of periods of deviation from the standard, including instances where a CMS is inoperative or out-of-control.
§ 63.10(b)(2)(xii) | Records | Yes
§ 63.10(b)(2)(xiii) |  | No | Subpart MMMM does not require the use of continuous emissions monitoring systems.
§ 63.10(b)(2)(xiv) |  | Yes
§ 63.10(b)(3) | Recordkeeping Requirements for Applicability Determinations | Yes
§ 63.10(c)(1)-(6) | Additional Recordkeeping Requirements for Sources with CMS | Yes
§ 63.10(c)(7)-(8) | Additional Recordkeeping Requirements for Sources with CMS | No | See § 63.3930(j) for records of periods of deviation from the standard, including instances where a CMS is inoperative or out-of-control.
§ 63.10(c)(10)-(14) | Additional Recordkeeping Requirements for Sources with CMS | Yes
§ 63.10(c)(15) | Records Regarding the SSMP | Yes before January 5, 2021. No on and after January 5, 2021
§ 63.10(d)(1) | General Reporting Requirements | Yes | Additional requirements are specified in § 63.3920.
§ 63.10(d)(2) | Report of Performance Test Results | Yes | Additional requirements are specified in § 63.3920(b) and (d).
§ 63.10(d)(3) | Reporting Opacity or Visible Emissions Observations | No | Subpart MMMM does not require opacity or visible emissions observations.
§ 63.10(d)(4) | Progress Reports for Sources With Compliance Extensions | Yes
§ 63.10(d)(5) | SSM Reports | Yes before January 5, 2021. No on and after January 5, 2021 | See § 63.3920 (a)(7) and (c).
§ 63.10(e)(1)-(2) | Additional CMS Reports | No | Subpart MMMM does not require the use of continuous emissions monitoring systems.
§ 63.10(e)(3) | Excess Emissions/CMS Performance Reports | No | Section 63.3920(b) specifies the contents of periodic compliance reports.
§ 63.10(e)(4) | COMS Data Reports | No | Subpart MMMMM does not specify requirements for opacity or COMS.
§ 63.10(f) | Recordkeeping/Reporting Waiver | Yes
§ 63.11 | Control Device Requirements/Flares | No | Subpart MMMM does not specify use of flares for compliance.
§ 63.12 | State Authority and Delegations | Yes
§ 63.13 | Addresses | Yes
§ 63.14 | IBR | Yes
§ 63.15 | Availability of Information/Confidentiality | Yes

39. Table 5 to Subpart MMMM of part 63 is added to read as follows:

Table 5 to Subpart MMMM of Part 63—List of HAP That Must Be Counted Toward Total Organic HAP Content If Present at 0.1 Percent or More by Mass
Chemical Name | CAS No.
1,1,2,2-Tetrachloroethane | 79-34-5
1,1,2-Trichloroethane | 79-00-5
1,1-Dimethylhydrazine | 57-14-7
1,2-Dibromo-3-chloropropane | 96-12-8
1,2-Diphenylhydrazine | 122-66-7
1,3-Butadiene | 106-99-0
1,3-Dichloropropene | 542-75-6
1,4-Dioxane | 123-91-1
2,4,6-Trichlorophenol | 88-06-2
2,4/2,6-Dinitrotoluene (mixture) | 25321-14-6
2,4-Dinitrotoluene | 121-14-2
2,4-Toluene diamine | 95-80-7
2-Nitropropane | 79-46-9
3,3′-Dichlorobenzidine | 91-94-1
3,3′-Dimethoxybenzidine | 119-90-4
3,3′-Dimethylbenzidine | 119-93-7
4,4′-Methylene bis(2-chloroaniline) | 101-14-4
Acetaldehyde | 75-07-0
Acrylamide | 79-06-1
Acrylonitrile | 107-13-1
Allyl chloride | 107-05-1
alpha-Hexachlorocyclohexane (a-HCH) | 319-84-6
Aniline | 62-53-3
Benzene | 71-43-2
Benzidine | 92-87-5
Benzotrichloride | 98-07-7
Benzyl chloride | 100-44-7
beta-Hexachlorocyclohexane (b-HCH) | 319-85-7
Bis(2-ethylhexyl)phthalate | 117-81-7
Bis(chloromethyl)ether | 542-88-1
Bromoform | 75-25-2
Captan | 133-06-2
Carbon tetrachloride | 56-23-5
Chlordane | 57-74-9
Chlorobenzilate | 510-15-6
Chloroform | 67-66-3
Chloroprene | 126-99-8
Cresols (mixed) | 1319-77-3
DDE | 3547-04-4
Dichloroethyl ether | 111-44-4
Dichlorvos | 62-73-7
Epichlorohydrin | 106-89-8
Ethyl acrylate | 140-88-5
Ethylene dibromide | 106-93-4
Ethylene dichloride | 107-06-2
Ethylene oxide | 75-21-8
Ethylene thiourea | 96-45-7
Ethylidene dichloride (1,1-Dichloroethane) | 75-34-3
Formaldehyde | 50-00-0
Heptachlor | 76-44-8
Hexachlorobenzene | 118-74-1
Hexachlorobutadiene | 87-68-3
Hexachloroethane | 67-72-1
Hydrazine | 302-01-2
Isophorone | 78-59-1
Lindane (hexachlorocyclohexane, all isomers) | 58-89-9
m-Cresol | 108-39-4
Methylene chloride | 75-09-2
Naphthalene | 91-20-3
Nitrobenzene | 98-95-3
Nitrosodimethylamine | 62-75-9
o-Cresol | 95-48-7
o-Toluidine | 95-53-4
Parathion | 56-38-2
p-Cresol | 106-44-5
p-Dichlorobenzene | 106-46-7
Pentachloronitrobenzene | 82-68-8
Pentachlorophenol | 87-86-5
Propoxur | 114-26-1
Propylene dichloride | 78-87-5
Propylene oxide | 75-56-9
Quinoline | 91-22-5
Tetrachloroethene | 127-18-4
Toxaphene | 8001-35-2
Trichloroethylene | 79-01-6
Trifluralin | 1582-09-8
Vinyl bromide | 593-60-2
Vinyl chloride | 75-01-4
Vinylidene chloride | 75-35-4

Subpart NNNN—National Emission Standards for Hazardous Air Pollutants: Surface Coating of Large Appliances

40. Section 63.4168 is amended by adding paragraphs (c)(3)(i) through (vii) to read as follows:

§ 63.4168 What are the requirements for continuous parameter monitoring system installation, operation, and maintenance?

* * * * *

(c) * * *

(3) * * *

(i) Locate the temperature sensor in a position that provides a representative temperature.

(ii) Use a temperature sensor with a measurement sensitivity of 4 degrees Fahrenheit or 0.75 percent of the temperature value, whichever is larger.

(iii) Shield the temperature sensor system from electromagnetic interference and chemical contaminants.

(iv) If a gas temperature chart recorder is used, it must have a measurement sensitivity in the minor division of at least 20 degrees Fahrenheit.

(v) Perform an electronic calibration at least semiannually according to the procedures in the manufacturer's owner's manual. Following the electronic calibration, you must conduct a temperature sensor validation check in which a second or redundant temperature sensor placed nearby the process temperature sensor must yield a reading within 30 degrees Fahrenheit of the process temperature sensor's reading.

(vi) Any time the sensor exceeds the manufacturer's specified maximum operating temperature range, either conduct calibration and validation checks or install a new temperature sensor.

(vii) At least monthly, inspect components for integrity and electrical connections for continuity, oxidation, and galvanic corrosion.

* * * * *

Subpart OOOO—National Emission Standards for Hazardous Air Pollutants: Printing, Coating, and Dyeing of Fabrics and Other Textiles

41. Section 63.4371 is amended by revising the definition for “No organic HAP” to read as follows:

§ 63.4371 What definitions apply to this subpart?

* * * * *

No organic HAP means no organic HAP in table 5 to this subpart is present at 0.1 percent by mass or more and no organic HAP not listed in table 5 to this subpart is present at 1.0 percent by mass or more. The organic HAP content of a regulated material is determined according to § 63.4321(e)(1).

* * * * *

Subpart PPPP—National Emission Standards for Hazardous Air Pollutants for Surface Coating of Plastic Parts and Products

42. Section 63.4492 is amended by revising paragraph (b) to read as follows:

§ 63.4492 What operating limits must I meet?

* * * * *

(b) For any controlled coating operation(s) on which you use the emission rate with add-on controls option, except those for which you use a solvent recovery system and conduct a liquid-liquid material balance according to § 63.4561(j), you must meet the operating limits specified in table 1 to this subpart. These operating limits apply to the emission capture and control systems on the coating operation(s) for which you use this option, and you must establish the operating limits during the performance tests required in § 63.4560 according to the requirements in § 63.4567. You must meet the operating limits established during the most recent performance tests required in § 63.4560 at all times after you establish them.

* * * * *

43. Section 63.4500 is amended by revising paragraphs (a)(2)(i) and (ii), (b), and (c) to read as follows:

§ 63.4500 What are my general requirements for complying with this subpart?

(a) * * *

(2) * * *

(i) The coating operation(s) must be in compliance with the applicable emission limit in § 63.4490 at all times.

(ii) The coating operation(s) must be in compliance with the operating limits for emission capture systems and add-on control devices required by § 63.4492 at all times, except for solvent recovery systems for which you conduct liquid-liquid material balances according to § 63.4561(j).

* * * * *

(b) Before January 5, 2021, you must always operate and maintain your affected source, including all air pollution control and monitoring equipment you use for purposes of complying with this subpart, according to the provisions in § 63.6(e)(1)(i). On and after January 5, 2021, at all times, the owner or operator must operate and maintain any affected source, including associated air pollution control equipment and monitoring equipment, in a manner consistent with safety and good air pollution control practices for minimizing emissions. The general duty to minimize emissions does not require the owner or operator to make any further efforts to reduce emissions if levels required by the applicable standard have been achieved. Determination of whether a source is operating in compliance with operation and maintenance requirements will be based on information available to the Administrator that may include, but is not limited to, monitoring results, review of operation and maintenance procedures, review of operation and maintenance records, and inspection of the affected source.

(c) Before January 5, 2021, if your affected source uses an emission capture system and add-on control device, you must develop a written SSMP according to the provisions in § 63.6(e)(3). The plan must address the startup, shutdown, and corrective actions in the event of a malfunction of the emission capture system or the add-on control device. The plan must also address any coating operation equipment that may cause increased emissions or that would affect capture efficiency if the process equipment malfunctions, such as conveyors that move parts among enclosures. On and after January 5, 2021, the SSMP is not required.

44. Section 63.4520 is amended by:

a. Revising paragraphs (a)(5) introductory text and (a)(5)(i) and (iv);

b. Adding paragraph (a)(5)(v);

c. Revising paragraph (a)(6) introductory text and (a)(6)(iii);

d. Adding paragraph (a)(6)(iv);

e. Revising paragraphs (a)(7) introductory text and (a)(7)(iii), (vi) through (viii), (x), (xiii), and (xiv);

f. Adding paragraph (a)(7)(xv);

g. Revising paragraph (c) introductory text; and

h. Adding paragraphs (d) through (h).

The revisions and additions read as follows:

§ 63.4520 What reports must I submit?

(a) * * *

(5) Deviations: Compliant material option. If you used the compliant material option and there was a deviation from the applicable organic HAP content requirements in § 63.4490, the semiannual compliance report must contain the information in paragraphs (a)(5)(i) through (v) of this section.

(i) Identification of each coating used that deviated from the applicable emission limit, and each thinner and/or other additive, and cleaning material used that contained organic HAP, and the date, time, and duration each was used.

* * * * *

(iv) Before January 5, 2021, a statement of the cause of each deviation. On and after January 5, 2021, a statement of the cause of each deviation (including unknown cause, if applicable).

(v) On and after January 5, 2021, the number of deviations and, for each deviation, a list of the affected source or equipment, an estimate of the quantity of each regulated pollutant emitted over any applicable emission limit in § 63.4490, a description of the method used to estimate the emissions, and the actions you took to minimize emissions in accordance with § 63.4500(b).

(6) Deviations: Emission rate without add-on controls option. If you used the emission rate without add-on controls option and there was a deviation from the applicable emission limit in § 63.4490, the semiannual compliance report must contain the information in paragraphs (a)(6)(i) through (iv) of this section.

* * * * *

(iii) Before January 5, 2021, a statement of the cause of each deviation. On and after January 5, 2021, a statement of the cause of each deviation (including unknown cause, if applicable).

(iv) On and after January 5, 2021, the number of deviations, date, time, duration, a list of the affected source or equipment, an estimate of the quantity of each regulated pollutant emitted over any applicable emission limit in § 63.4490, a description of the method used to estimate the emissions, and the actions you took to minimize emissions in accordance with § 63.4500(b).

(7) Deviations: Emission rate with add-on controls option. If you used the emission rate with add-on controls option and there was a deviation from the applicable emission limit in § 63.4490 or the applicable operating limit(s) in table 1 to this subpart (including any periods when emissions bypassed the add-on control device and were diverted to the atmosphere), before January 5, 2021, the semiannual compliance report must contain the information in paragraphs (a)(7)(i) through (xiv) of this section. This includes periods of SSM during which deviations occurred. On and after January 5, 2021, the semiannual compliance report must contain the information in paragraphs (a)(7)(i) through (xii), (xiv), and (xv) of this section. If you use the emission rate with add-on controls option and there was a deviation from the applicable work practice standards in § 63.4493(b), the semiannual compliance report must contain the information in paragraph (a)(7)(xiii) of this section.

* * * * *

(iii) The date and time that each malfunction of the capture system or add-on control devices started and stopped.

* * * * *

(vi) Before January 5, 2021, the date and time that each CPMS was inoperative, except for zero (low-level) and high-level checks. On and after January 5, 2021, the number of instances that the CPMS was inoperative, and for each instance, except for zero (low-level) and high-level checks, the date, time, and duration that the CPMS was inoperative; the cause (including unknown cause) for the CPMS being inoperative; and the actions you took to minimize emissions in accordance with § 63.4500(b).

(vii) Before January 5, 2021, the date, time, and duration that each CPMS was out-of-control, including the information in § 63.8(c)(8). On and after January 5, 2021, the number of instances that the CPMS was out of control as specified in § 63.8(c)(7) and, for each instance, the date, time, and duration that the CPMS was out-of-control; the cause (including unknown cause) for the CPMS being out-of-control; and descriptions of corrective actions taken.

(viii) Before January 5, 2021, the date and time period of each deviation from an operating limit in table 1 to this subpart; date and time period of any bypass of the add-on control device; and whether each deviation occurred during a period of SSM or during another period. On and after January 5, 2021, the number of deviations from an operating limit in table 1 to this subpart and, for each deviation, the date, time, and duration of each deviation; the date, time, and duration of any bypass of the add-on control device.

* * * * *

(x) Before January 5, 2021, a breakdown of the total duration of the deviations from the operating limits in table 1 of this subpart and bypasses of the add-on control device during the semiannual reporting period into those that were due to startup, shutdown, control equipment problems, process problems, other known causes, and other unknown causes. On and after January 5, 2021, a breakdown of the total duration of the deviations from the operating limits in table 1 to this subpart and bypasses of the add-on control device during the semiannual reporting period into those that were due to control equipment problems, process problems, other known causes, and other unknown causes.

* * * * *

(xiii) Before January 5, 2021, for each deviation from the work practice standards, a description of the deviation, the date and time period of the deviation, and the actions you took to correct the deviation. On and after January 5, 2021, for deviations from the work practice standards, the number of deviations, and, for each deviation, the information in paragraphs (a)(7)(xiii)(A) and (B) of this section:

(A) A description of the deviation; the date, time, and duration of the deviation; and the actions you took to minimize emissions in accordance with § 63.4500(b).

(B) The description required in paragraph (a)(7)(xiii)(A) of this section must include a list of the affected sources or equipment for which a deviation occurred and the cause of the deviation (including unknown cause, if applicable.

(xiv) Before January 5, 2021, a statement of the cause of each deviation. On and after January 5, 2021, for deviations from an emission limit in § 63.4490 or an operating limit in Table 1 to this subpart, a statement of the cause of each deviation (including unknown cause, if applicable) and the actions you took to minimize emissions in accordance with § 63.4500(b).

(xv) On and after January 5, 2021, for each deviation from an emission limit in § 63.4490 or operating limit in table 1 to this subpart, a list of the affected sources or equipment for which a deviation occurred, an estimate of the quantity of each regulated pollutant emitted over any emission limit in § 63.4490 or operating limit in table 1 to this subpart, and a description of the method used to estimate the emissions.

* * * * *

(c) SSM reports. Before January 5, 2021, if you used the emission rate with add-on controls option and you had a SSM during the semiannual reporting period, you must submit the reports specified in paragraphs (c)(1) and (2) of this section. On and after January 5, 2021, the reports specified in paragraphs (c)(1) and (2) of this section are not required.

* * * * *

(d) Performance test reports. On and after January 5, 2021, you must submit the results of the performance tests required in § 63.4560 following the procedure specified in paragraphs (d)(1) through (3) of this section.

(1) For data collected using test methods supported by the EPA's Electronic Reporting Tool (ERT) as listed on the EPA's ERT website (https://www.epa.gov/electronic-reporting-air-emissions/electronic-reporting-tool-ert) at the time of the test, you must submit the results of the performance test to the EPA via the Compliance and Emissions Data Reporting Interface (CEDRI). The CEDRI interface can be accessed through the EPA's Central Data Exchange (CDX) (https://cdx.epa.gov/). Performance test data must be submitted in a file format generated through the use of the EPA's ERT or an alternate electronic file format consistent with the extensible markup language (XML) schema listed on the EPA's ERT website.

(2) For data collected using test methods that are not supported by the EPA's ERT as listed on the EPA's ERT website at the time of the test, you must submit the results of the performance test to the Administrator at the appropriate address listed in § 63.13, unless the Administrator agrees to or specifies an alternate reporting method.

(3) If you claim that some of the performance test information being submitted under paragraph (d)(1) of this section is Confidential Business Information (CBI), you must submit a complete file generated through the use of the EPA's ERT or an alternate electronic file consistent with the XML schema listed on the EPA's ERT website, including information claimed to be CBI, on a compact disc, flash drive, or other commonly used electronic storage medium to the EPA. The electronic medium must be clearly marked as CBI and mailed to U.S. EPA/OAPQS/CORE CBI Office, Attention: Group Leader, Measurement Policy Group, MD C404-02, 4930 Old Page Rd., Durham, NC 27703. The same ERT or alternate file with the CBI omitted must be submitted to the EPA via the EPA's CDX as described in paragraph (d)(1) of this section.

(e) Initial notification reports. On and after January 5, 2021, the owner or operator shall submit the initial notifications required in § 63.9(b) and the notification of compliance status required in § 63.9(h) and § 63.4510(c) to the EPA via the CEDRI. The CEDRI interface can be accessed through the EPA's CDX (https://cdx.epa.gov/). The owner or operator must upload to CEDRI an electronic copy of each applicable notification in portable document format (PDF). The applicable notification must be submitted by the deadline specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(f) Semiannual compliance reports. On and after January 5, 2021, or once the reporting template has been available on the CEDRI website for 1 year, whichever date is later, the owner or operator shall submit the semiannual compliance report required in paragraph (a) of this section to the EPA via the CEDRI. (CEDRI can be accessed through the EPA's CDX (https://cdx.epa.gov/)). The owner or operator must use the appropriate electronic template on the CEDRI website for this subpart or an alternate electronic file format consistent with the XML schema listed on the CEDRI website (https://www.epa.gov/electronic-reporting-air-emissions/compliance-and-emissions-data-reporting-interface-cedri). The date report templates become available will be listed on the CEDRI website. If the reporting form for the semiannual compliance report specific to this subpart is not available in CEDRI at the time that the report is due, you must submit the report to the Administrator at the appropriate addresses listed in § 63.13. Once the form has been available in CEDRI for 1 year, you must begin submitting all subsequent reports via CEDRI. The reports must be submitted by the deadlines specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(g) Reporting during EPA system outages. If you are required to electronically submit a report through the CEDRI in the EPA's CDX, and due to a planned or actual outage of either the EPA's CEDRI or CDX systems within the period of time beginning 5 business days prior to the date that the submission is due, you will be or are precluded from accessing CEDRI or CDX and submitting a required report within the time prescribed, you may assert a claim of the EPA system outage for failure to timely comply with the reporting requirement. You must submit notification to the Administrator in writing as soon as possible following the date you first knew, or through due diligence should have known, that the event may cause or caused a delay in reporting. You must provide to the Administrator a written description identifying the date, time and length of the outage; a rationale for attributing the delay in reporting beyond the regulatory deadline to the EPA system outage; describe the measures taken or to be taken to minimize the delay in reporting; and identify a date by which you propose to report, or if you have already met the reporting requirement at the time of the notification, the date you reported. In any circumstance, the report must be submitted electronically as soon as possible after the outage is resolved. The decision to accept the claim of the EPA system outage and allow an extension to the reporting deadline is solely within the discretion of the Administrator.

(h) Reporting during force majeure events. If you are required to electronically submit a report through CEDRI in the EPA's CDX and a force majeure event is about to occur, occurs, or has occurred or there are lingering effects from such an event within the period of time beginning 5 business days prior to the date the submission is due, the owner or operator may assert a claim of force majeure for failure to timely comply with the reporting requirement. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage). If you intend to assert a claim of force majeure, you must submit notification to the Administrator in writing as soon as possible following the date you first knew, or through due diligence should have known, that the event may cause or caused a delay in reporting. You must provide to the Administrator a written description of the force majeure event and a rationale for attributing the delay in reporting beyond the regulatory deadline to the force majeure event; describe the measures taken or to be taken to minimize the delay in reporting; and identify a date by which you propose to report, or if you have already met the reporting requirement at the time of the notification, the date you reported. In any circumstance, the reporting must occur as soon as possible after the force majeure event occurs. The decision to accept the claim of force majeure and allow an extension to the reporting deadline is solely within the discretion of the Administrator.

45. Section 63.4530 is amended by revising paragraphs (h), (i) introductory text, and (i)(1) and (2) to read as follows:

§ 63.4530 What records must I keep?

* * * * *

(h) Before January 5, 2021, you must keep records of the date, time, and duration of each deviation. On and after January 5, 2021, for each deviation from an emission limitation reported under § 63.4520(a)(5) through (7), a record of the information specified in paragraphs (h)(1) through (4) of this section, as applicable.

(1) The date, time, and duration of the deviation, as reported under § 63.4520(a)(5) through (7).

(2) A list of the affected sources or equipment for which the deviation occurred and the cause of the deviation, as reported under § 63.4520(a)(5) through (7).

(3) An estimate of the quantity of each regulated pollutant emitted over any applicable emission limit in § 63.4490 or any applicable operating limit in Table 1 to this subpart, and a description of the method used to calculate the estimate, as reported under § 63.4520(a)(5) through (7).

(4) A record of actions taken to minimize emissions in accordance with § 63.4500(b) and any corrective actions taken to return the affected unit to its normal or usual manner of operation.

(i) If you use the emission rate with add-on controls option, you must also keep the records specified in paragraphs (i)(1) through (8) of this section.

(1) Before January 5, 2021, for each deviation, a record of whether the deviation occurred during a period of SSM. On and after January 5, 2021, a record of whether the deviation occurred during a period of SSM is not required.

(2) Before January 5, 2021, the records in § 63.6(e)(3)(iii) through (v) related to SSM. On and after January 5, 2021, the records in § 63.6(e)(3)(iii) through (v) related to SSM are not required.

* * * * *

46. Section 63.4531 is amended by revising paragraph (a) to read as follows:

§ 63.4531 In what form and for how long must I keep my records?

(a) Your records must be in a form suitable and readily available for expeditious review, according to § 63.10(b)(1). Where appropriate, the records may be maintained as electronic spreadsheets or as a database. On and after January 5, 2021, any records required to be maintained by this subpart that are in reports that were submitted electronically via the EPA's CEDRI may be maintained in electronic format. This ability to maintain electronic copies does not affect the requirement for facilities to make records, data, and reports available upon request to a delegated air agency or the EPA as part of an on-site compliance evaluation.

* * * * *

47. Section 63.4541 is amended by revising paragraphs (a)(1)(i) and (a)(2) and (4) to read as follows:

§ 63.4541 How do I demonstrate initial compliance with the emission limitations?

* * * * *

(a) * * *

(1) * * *

(i) Count each organic HAP in Table 5 to this subpart that is measured to be present at 0.1 percent by mass or more and at 1.0 percent by mass or more for other compounds. For example, if toluene (not listed in Table 5 to this subpart) is measured to be 0.5 percent of the material by mass, you do not have to count it. Express the mass fraction of each organic HAP you count as a value truncated to four places after the decimal point (e.g., 0.3791).

* * * * *

(2) EPA Method 24 (appendix A-7 to 40 CFR part 60). For coatings, you may use EPA Method 24 to determine the mass fraction of nonaqueous volatile matter and use that value as a substitute for mass fraction of organic HAP. As an alternative to using EPA Method 24, you may use ASTM D2369-10 (Reapproved 2015)ᵉ (incorporated by reference, see § 63.14). For reactive adhesives in which some of the HAP react to form solids and are not emitted to the atmosphere, you may use the alternative method contained in appendix A to this subpart, rather than EPA Method 24. You may use the volatile fraction that is emitted, as measured by the alternative method in appendix A to this subpart, as a substitute for the mass fraction of organic HAP.

* * * * *

(4) Information from the supplier or manufacturer of the material. You may rely on information other than that generated by the test methods specified in paragraphs (a)(1) through (3) of this section, such as manufacturer's formulation data, if it represents each organic HAP in Table 5 to this subpart that is present at 0.1 percent by mass or more and at 1.0 percent by mass or more for other compounds. For example, if toluene (not listed in Table 5 to this subpart) is 0.5 percent of the material by mass, you do not have to count it. For reactive adhesives in which some of the HAP react to form solids and are not emitted to the atmosphere, you may rely on manufacturer's data that expressly states the organic HAP or volatile matter mass fraction emitted. If there is a disagreement between such information and results of a test conducted according to paragraphs (a)(1) through (3) of this section, then the test method results will take precedence unless, after consultation you demonstrate to the satisfaction of the enforcement agency that the formulation data are correct.

* * * * *

48. Section 63.4551 is amended by revising paragraph (c) to read as follows:

§ 63.4551 How do I demonstrate initial compliance with the emission limitations?

* * * * *

(c) Determine the density of each material. Determine the density of each liquid coating, thinner and/or other additive, and cleaning material used during each month from test results using ASTM D1475-13 or ASTM D2111-10 (Reapproved 2015) (both incorporated by reference, see § 63.14), information from the supplier or manufacturer of the material, or reference sources providing density or specific gravity data for pure materials. If there is disagreement between ASTM D1475-13 or ASTM D2111-10 (Reapproved 2015) and other such information sources, the test results will take precedence unless, after consultation you demonstrate to the satisfaction of the enforcement agency that the formulation data are correct. If you purchase materials or monitor consumption by weight instead of volume, you do not need to determine material density. Instead, you may use the material weight in place of the combined terms for density and volume in Equations 1A, 1B, 1C, and 2 of this section.

* * * * *

49. Section 63.4560 is amended by revising the section heading and paragraphs (a)(1) and (4), (b)(1), and (c) introductory text to read as follows:

§ 63.4560 By what date must I conduct performance tests and initial compliance demonstrations?

(a) * * *

(1) All emission capture systems, add-on control devices, and CPMS must be installed and operating no later than the applicable compliance date specified in § 63.4483. Except for solvent recovery systems for which you conduct liquid-liquid material balances according to § 63.4561(j), you must conduct according to the schedule in paragraphs (a)(1)(i) and (ii) of this section initial and periodic performance tests of each capture system and add-on control device according to the procedures in §§ 63.4564, 63.4565, and 63.4566 and establish the operating limits required by § 63.4492. For a solvent recovery system for which you conduct liquid-liquid material balances according to § 63.4561(j), you must initiate the first material balance no later than the applicable compliance date specified in § 63.4483.

(i) You must conduct the initial performance test and establish the operating limits required by § 63.4492 no later than 180 days after the applicable compliance date specified in § 63.4483.

(ii) You must conduct periodic performance tests and establish the operating limits required by § 63.4492 within 5 years following the previous performance test. You must conduct the first periodic performance test before July 8, 2023, unless you are already required to complete periodic performance tests as a requirement of renewing your facility's operating permit under 40 CFR part 70 or 40 CFR part 71 and have conducted a performance test on or after July 8, 2018. Thereafter you must conduct a performance test no later than 5 years following the previous performance test. Operating limits must be confirmed or reestablished during each performance test. For any control device for which you are using the catalytic oxidizer control option at § 63.4567(b) and following the catalyst maintenance procedures in § 63.4567(b)(4), you are not required to conduct periodic control device performance testing as specified by this paragraph. For any control device for which instruments are used to continuously measure organic compound emissions, you are not required to conduct periodic control device performance testing as specified by this paragraph.

* * * * *

(4) For the initial compliance demonstration, you do not need to comply with the operating limits for the emission capture system and add-on control device required by § 63.4492 until after you have completed the initial performance tests specified in paragraph (a)(1) of this section. Instead, you must maintain a log detailing the operation and maintenance of the emission capture system, add-on control device, and continuous parameter monitors during the period between the compliance date and the performance test. You must begin complying with the operating limits established based on the initial performance tests specified in paragraph (a)(1) of this section for your affected source on the date you complete the performance tests. The requirements in this paragraph (a)(4) do not apply to solvent recovery systems for which you conduct liquid-liquid material balances according to the requirements in § 63.4561(j).

(b) * * *

(1) All emission capture systems, add-on control devices, and CPMS must be installed and operating no later than the applicable compliance date specified in § 63.4483. Except for solvent recovery systems for which you conduct liquid-liquid material balances according to § 63.4561(j), you must conduct according to the schedule in paragraphs (b)(1)(i) and (ii) of this section initial and periodic performance tests of each capture system and add-on control device according to the procedures in §§ 63.4564, 63.4565, and 63.4566 and establish the operating limits required by § 63.4492. For a solvent recovery system for which you conduct liquid-liquid material balances according to § 63.4561(j), you must initiate the first material balance no later than the compliance date specified in § 63.4483.

(i) You must conduct the initial performance test and establish the operating limits required by § 63.4492 no later than 180 days after the applicable compliance date specified in § 63.4483.

(ii) You must conduct periodic performance tests and establish the operating limits required by § 63.4492 within 5 years following the previous performance test. You must conduct the first periodic performance test before July 8, 2023, unless you are already required to complete periodic performance tests as a requirement of renewing your facility's operating permit under 40 CFR part 70 or 40 CFR part 71 and have conducted a performance test on or after July 8, 2018. Thereafter you must conduct a performance test no later than 5 years following the previous performance test. Operating limits must be confirmed or reestablished during each performance test. For any control device for which you are using the catalytic oxidizer control option at § 63.4567(b) and following the catalyst maintenance procedures in § 63.4567(b)(4), you are not required to conduct periodic control device performance testing as specified by this paragraph. For any control device for which instruments are used to continuously measure organic compound emissions, you are not required to conduct periodic control device performance testing as specified by this paragraph.

* * * * *

(c) You are not required to conduct an initial performance test to determine capture efficiency or destruction efficiency of a capture system or control device if you receive approval to use the results of a performance test that has been previously conducted on that capture system or control device. Any such previous tests must meet the conditions described in paragraphs (c)(1) through (3) of this section. You are still required to conduct a periodic performance test according to the applicable requirements of paragraphs (a)(1)(ii) and (b)(2)(ii) of this section.

* * * * *

50. Section 63.4561 is amended by revising paragraphs (j)(3) and (n) to read as follows:

§ 63.4561 How do I demonstrate initial compliance?

* * * * *

(j) * * *

(3) Determine the mass fraction of volatile organic matter for each coating, thinner and/or other additive, and cleaning material used in the coating operation controlled by the solvent recovery system during the month, kg volatile organic matter per kg coating. You may determine the volatile organic matter mass fraction using EPA Method 24 of 40 CFR part 60, appendix A-7, ASTM D2369-10 (Reapproved 2015)ᵉ (incorporated by reference, see § 63.14), or an EPA approved alternative method. Alternatively, you may determine the volatile organic matter mass fraction using information provided by the manufacturer or supplier of the coating. In the event of any inconsistency between information provided by the manufacturer or supplier and the results of EPA Method 24 of 40 CFR part 60, appendix A-7, ASTM D2369-10 (Reapproved 2015)ᵉ, or an approved alternative method, the test method results will take precedence unless, after consultation you demonstrate to the satisfaction of the enforcement agency that the formulation data are correct.

* * * * *

(n) Compliance demonstration. The organic HAP emission rate for the initial compliance period, calculated using Equation 5 of this section, must be less than or equal to the applicable emission limit for each subcategory in § 63.4490 or the predominant activity or facility-specific emission limit allowed in § 63.4490(c). You must keep all records as required by §§ 63.4530 and 63.4531. As part of the notification of compliance status required by § 63.4510, you must identify the coating operation(s) for which you used the emission rate with add-on controls option and submit a statement that the coating operation(s) was (were) in compliance with the emission limitations during the initial compliance period because the organic HAP emission rate was less than or equal to the applicable emission limit in § 63.4490, and for control devices other than solvent recovery system using a liquid-liquid material balance, you achieved the operating limits required by § 63.4492 and the work practice standards required by § 63.4493.

51. Section 63.4563 is amended by revising paragraph (f) and adding paragraph (g) to read as follows:

§ 63.4563 How do I demonstrate continuous compliance with the emission limitations?

* * * * *

(f) As part of each semiannual compliance report required in § 63.4520, you must identify the coating operation(s) for which you used the emission rate with add-on controls option. If there were no deviations from the emission limits in § 63.4490, the operating limits in § 63.4492, and the work practice standards in § 63.4493, submit a statement that you were in compliance with the emission limitations during the reporting period because the organic HAP emission rate for each compliance period was less than or equal to the applicable emission limit in § 63.4490, and you achieved the operating limits required by § 63.4492 and the work practice standards required by § 63.4493 during each compliance period.

(g) On and after January 5, 2021, deviations that occur due to malfunction of the emission capture system, add-on control device, or coating operation that may affect emission capture or control device efficiency are required to operate in accordance with § 63.4500(b). The Administrator will determine whether the deviations are violations according to the provisions in § 63.4500(b).

* * * * *

52. Section 63.4564 is amended by revising paragraphs (a) introductory text and (a)(1) to read as follows:

§ 63.4564 What are the general requirements for performance tests?

(a) Before January 5, 2021, you must conduct each performance test required by § 63.4560 according to the requirements in § 63.7(e)(1) and under the conditions in this section, unless you obtain a waiver of the performance test according to the provisions in § 63.7(h). On and after January 5, 2021, you must conduct each performance test required by § 63.4560 according to the requirements in this section unless you obtain a waiver of the performance test according to the provisions in § 63.7(h).

(1) Representative coating operation operating conditions. You must conduct the performance test under representative operating conditions for the coating operation. Operations during periods of startup, shutdown, or nonoperation do not constitute representative conditions for purposes of conducting a performance test. The owner or operator may not conduct performance tests during periods of malfunction. You must record the process information that is necessary to document operating conditions during the test and explain why the conditions represent normal operation. Upon request, you must make available to the Administrator such records as may be necessary to determine the conditions of performance tests.

* * * * *

53. Section 63.4565 is amended by revising the introductory text to read as follows:

§ 63.4565 How do I determine the emission capture system efficiency?

You must use the procedures and test methods in this section to determine capture efficiency as part of each performance test required by § 63.4560.

* * * * *

54. Section 63.4566 is amended by revising the introductory text and paragraphs (a)(1) through (4) and (b) to read as follows:

§ 63.4566 How do I determine the add-on control device emission destruction or removal efficiency?

You must use the procedures and test methods in this section to determine the add-on control device emission destruction or removal efficiency as part of the performance test required by § 63.4560. For each performance test, you must conduct three test runs as specified in § 63.7(e)(3) and each test run must last at least 1 hour.

(a) * * *

(1) Use EPA Method 1 or 1A of appendix A-1 to 40 CFR part 60, as appropriate, to select sampling sites and velocity traverse points.

(2) Use EPA Method 2, 2A, 2C, 2D, or 2F of appendix A-1 to 40 CFR part 60, or 2G of appendix A-2 to 40 CFR part 60, as appropriate, to measure gas volumetric flow rate.

(3) Use EPA Method 3, 3A, or 3B of appendix A-2 to 40 CFR part 60, as appropriate, for gas analysis to determine dry molecular weight.

(4) Use EPA Method 4 of appendix A-3 to 40 CFR part 60, to determine stack gas moisture.

* * * * *

(b) Measure total gaseous organic mass emissions as carbon at the inlet and outlet of the add-on control device simultaneously, using either EPA Method 25 or 25A of appendix A-7 to 40 CFR part 60.

(1) Use EPA Method 25 of appendix A-7 if the add-on control device is an oxidizer and you expect the total gaseous organic concentration as carbon to be more than 50 parts per million (ppm) at the control device outlet.

(2) Use EPA Method 25A of appendix A-7 if the add-on control device is an oxidizer and you expect the total gaseous organic concentration as carbon to be 50 ppm or less at the control device outlet.

(3) Use EPA Method 25A of appendix A-7 if the add-on control device is not an oxidizer.

(4) You may use EPA Method 18 in appendix A-6 of part 60 to subtract methane emissions from measured total gaseous organic mass emissions as carbon.

* * * * *

55. Section 63.4567 is amended by revising the introductory text and paragraphs (a)(1) and (2), (b)(1) through (3), (c)(1), (d)(1) and (2), and (e)(1) through (4) to read as follows:

§ 63.4567 How do I establish the emission capture system and add-on control device operating limits during the performance test?

During performance tests required by § 63.4560 and described in §§ 63.4564, 63.4565, and 63.4566, you must establish the operating limits required by § 63.4492 according to this section, unless you have received approval for alternative monitoring and operating limits under § 63.8(f) as specified in § 63.4492.

(a) * * *

(1) During performance tests, you must monitor and record the combustion temperature at least once every 15 minutes during each of the three test runs. You must monitor the temperature in the firebox of the thermal oxidizer or immediately downstream of the firebox before any substantial heat exchange occurs.

(2) For each performance test, use the data collected during the performance test to calculate and record the average combustion temperature maintained during the performance test. This average combustion temperature is the minimum operating limit for your thermal oxidizer.

(b) * * *

(1) During performance tests, you must monitor and record the temperature just before the catalyst bed and the temperature difference across the catalyst bed at least once every 15 minutes during each of the three test runs.

(2) For each performance test, use the data collected during the performance test to calculate and record the average temperature just before the catalyst bed and the average temperature difference across the catalyst bed maintained during the performance test. These are the minimum operating limits for your catalytic oxidizer.

(3) You must monitor the temperature at the inlet to the catalyst bed and implement a site-specific inspection and maintenance plan for your catalytic oxidizer as specified in paragraph (b)(4) of this section. During performance tests, you must monitor and record the temperature just before the catalyst bed at least once every 15 minutes during each of the three test runs. For each performance test, use the data collected during the performance test to calculate and record the average temperature just before the catalyst bed during the performance test. This is the minimum operating limit for your catalytic oxidizer.

* * * * *

(c) * * *

(1) During performance tests, you must monitor and record the total regeneration desorbing gas (e.g., steam or nitrogen) mass flow for each regeneration cycle, and the carbon bed temperature after each carbon bed regeneration and cooling cycle for the regeneration cycle either immediately preceding or immediately following the performance test.

* * * * *

(d) * * *

(1) During performance tests, you must monitor and record the condenser outlet (product side) gas temperature at least once every 15 minutes during each of the three test runs of the performance test.

(2) For each performance test, use the data collected during the performance test to calculate and record the average condenser outlet (product side) gas temperature maintained during the performance test. This average condenser outlet gas temperature is the maximum operating limit for your condenser.

(e) * * *

(1) During performance tests, you must monitor and record the desorption concentrate stream gas temperature at least once every 15 minutes during each of the three runs of the performance test.

(2) For each performance test, use the data collected during the performance test to calculate and record the average temperature. This is the minimum operating limit for the desorption concentrate gas stream temperature.

(3) During each performance test, you must monitor and record the pressure drop of the dilute stream across the concentrator at least once every 15 minutes during each of the three runs of the performance test.

(4) For each performance test, use the data collected during the performance test to calculate and record the average pressure drop. This is the minimum operating limit for the dilute stream across the concentrator.

* * * * *

56. Section 63.4568 is amended by revising paragraphs (a)(4), (5), and (7) and (c)(3) introductory text to read as follows:

§ 63.4568 What are the requirements for continuous parameter monitoring system installation, operation, and maintenance?

(a) * * *

(4) Before January 5, 2021, you must maintain the CPMS at all times and have available necessary parts for routine repairs of the monitoring equipment. On and after January 5, 2021, you must maintain the CPMS at all times in accordance with § 63.4500(b) and keep necessary parts readily available for routine repairs of the monitoring equipment.

(5) Before January 5, 2021, you must operate the CPMS and collect emission capture system and add-on control device parameter data at all times that a controlled coating operation is operating, except during monitoring malfunctions, associated repairs, and required quality assurance or control activities (including, if applicable, calibration checks and required zero and span adjustments). On and after January 5, 2021, you must operate the CPMS and collect emission capture system and add-on control device parameter data at all times in accordance with § 63.4500(b).

* * * * *

(7) A monitoring malfunction is any sudden, infrequent, not reasonably preventable failure of the CPMS to provide valid data. Monitoring failures that are caused in part by poor maintenance or careless operation are not malfunctions. Before January 5, 2021, any period for which the monitoring system is out-of-control and data are not available for required calculations is a deviation from the monitoring requirements. On and after January 5, 2021, except for periods of required quality assurance or control activities, any period for which the CPMS fails to operate and record data continuously as required by paragraph (a)(5) of this section, or generates data that cannot be included in calculating averages as specified in (a)(6) of this section constitutes a deviation from the monitoring requirements.

* * * * *

(c) * * *

(3) For all thermal oxidizers and catalytic oxidizers, you must meet the requirements in paragraphs (a) and (c)(3)(i) through (v) of this section for each gas temperature monitoring device. For the purposes of this paragraph (c)(3), a thermocouple is part of the temperature sensor.

* * * * *

57. Section 63.4581 is amended by revising the definitions of “Deviation” and “Non-HAP coating” to read as follows:

§ 63.4581 What definitions apply to this subpart?

* * * * *

Deviation means:

(1) Before January 5, 2021, any instance in which an affected source subject to this subpart, or an owner or operator of such a source:

(i) Fails to meet any requirement or obligation established by this subpart including but not limited to, any emission limit or operating limit or work practice standard;

(ii) Fails to meet any term or condition that is adopted to implement an applicable requirement in this subpart and that is included in the operating permit for any affected source required to obtain such a permit; or

(iii) Fails to meet any emission limit, or operating limit, or work practice standard in this subpart during SSM, regardless of whether or not such failure is permitted by this subpart; and

(2) On and after January 5, 2021, any instance in which an affected source subject to this subpart or an owner or operator of such a source:

(i) Fails to meet any requirement or obligation established by this subpart including but not limited to any emission limit, operating limit, or work practice standard; or

(ii) Fails to meet any term or condition that is adopted to implement an applicable requirement in this subpart and that is included in the operating permit for any affected source required to obtain such a permit.

* * * * *

Non-HAP coating means, for the purposes of this subpart, a coating that contains no more than 0.1 percent by mass of any individual organic HAP that is listed in table 5 to this subpart and no more than 1.0 percent by mass for any other individual HAP.

* * * * *

58. Table 2 to Subpart PPPP of part 63 is revised to read as follows:

Table 2 to Subpart PPPP of Part 63—Applicability of General Provisions to Subpart PPPP of Part 63
You must comply with the applicable General Provisions requirements according to the following table:
Citation | Subject | Applicable to subpart PPPP | Explanation
§ 63.1(a)(1)-(12) | General Applicability | Yes
§ 63.1(b)(1)-(3) | Initial Applicability Determination | Yes | Applicability to subpart PPPP is also specified in § 63.4481.
§ 63.1(c)(1) | Applicability After Standard Established | Yes
§ 63.1(c)(2) | Applicability of Permit Program for Area Sources | No | Area sources are not subject to subpart PPPP.
§ 63.1(c)(5) | Extensions and Notifications | Yes
§ 63.1(e) | Applicability of Permit Program Before Relevant Standard is Set | Yes
§ 63.2 | Definitions | Yes | Additional definitions are specified in § 63.4581.
§ 63.3 | Units and Abbreviations | Yes
§ 63.4(a)(1)-(2) | Prohibited Activities | Yes
§ 63.4(b)-(c) | Circumvention/Fragmentation | Yes
§ 63.5(a) | Construction/Reconstruction | Yes
§ 63.5(b)(1), (3), (4), (6) | Requirements for Existing, Newly Constructed, and Reconstructed Sources | Yes
§ 63.5(d)(1)(i)-(ii)(F), (d)(1)(ii)(H), (d)(1)(ii)(J), (d)(1)(iii), (d)(2)-(4) | Application for Approval of Construction/Reconstruction | Yes
§ 63.5(e) | Approval of Construction/Reconstruction | Yes
§ 63.5(f) | Approval of Construction/Reconstruction Based on Prior State Review | Yes
§ 63.6(a) | Compliance With Standards and Maintenance Requirements—Applicability | Yes
§ 63.6(b)(1)-(5), (b)(7) | Compliance Dates for New and Reconstructed Sources | Yes | Section 63.4483 specifies the compliance dates.
§ 63.6(c)(1), (2), (5) | Compliance Dates for Existing Sources | Yes | Section 63.4483 specifies the compliance dates.
§ 63.6(e)(1)(i)-(ii) | Operation and Maintenance | Yes before January 5, 2021. No on and after January 5, 2021 | See § 63.4500(b) for general duty requirement.
§ 63.6(e)(1)(iii) | Operation and Maintenance | Yes
§ 63.6(e)(3)(i), (e)(3)(iii)-(ix) | SSMP | Yes before January 5, 2021. No on and after January 5, 2021
§ 63.6(f)(1) | Compliance Except During SSM | Yes before January 5, 2021. No on and after January 5, 2021
§ 63.6(f)(2)-(3) | Methods for Determining Compliance | Yes
§ 63.6(g) | Use of an Alternative Standard | Yes
§ 63.6(h) | Compliance With Opacity/Visible Emission Standards | No | Subpart PPPP does not establish opacity standards and does not require continuous opacity monitoring systems (COMS).
§ 63.6(i)(1)-(14), (16) | Extension of Compliance | Yes
§ 63.6(j) | Presidential Compliance Exemption | Yes
§ 63.7(a)(1) | Performance Test Requirements—Applicability | Yes | Applies to all affected sources. Additional requirements for performance testing are specified in §§ 63.4564, 63.4565, and 63.4566.
§ 63.7(a)(2), except (a)(2)(i)-(viii) | Performance Test Requirements—Dates | Yes | Applies only to performance tests for capture system and control device efficiency at sources using these to comply with the standards. Section 63.4560 specifies the schedule for performance test requirements that are earlier than those specified in § 63.7(a)(2).
§ 63.7(a)(3)-(4) | Performance Tests Required By the Administrator, Force Majeure | Yes
§ 63.7(b)-(d) | Performance Test Requirements—Notification, Quality Assurance, Facilities Necessary for Safe Testing, Conditions During Test | Yes | Applies only to performance tests for capture system and add-on control device efficiency at sources using these to comply with the standards.
§ 63.7(e)(1) | Conduct of Performance Tests | Yes before January 5, 2021. No on and after January 5, 2021 | See § 63.4500 and § 63.4564(a).
§ 63.7(e)(2)-(4) | Conduct of Performance Tests | Yes
§ 63.7(f) | Performance Test Requirements—Use Alternative Test Method | Yes | Applies to all test methods except those of used to determine capture system efficiency.
§ 63.7(g)-(h) | Performance Test Requirements—Data Analysis, Recordkeeping, Reporting, Waiver of Test | Yes | Applies only to performance tests for capture system and add-on control device efficiency at sources using these to comply with the standards.
§ 63.8(a)(1)-(2) | Monitoring Requirements—Applicability | Yes | Applies only to monitoring of capture system and add-on control device efficiency at sources using these to comply with the standards. Additional requirements for monitoring are specified in § 63.4568.
§ 63.8(a)(4) | Additional Monitoring Requirements | No | Subpart PPPP does not have monitoring requirements for flares.
§ 63.8(b) | Conduct of Monitoring | Yes
§ 63.8(c)(1) | Continuous Monitoring System (CMS) Operation and Maintenance | Yes before January 5, 2021. No on and after January 5, 2021 | Section 63.4568 specifies the requirements for the operation of CMS for capture systems and add-on control devices at sources using these to comply.
§ 63.8(c)(2)-(3) | CMS Operation and Maintenance | Yes | Applies only to monitoring of capture system and add-on control device efficiency at sources using these to comply with the standard. Additional requirements for CMS operations and maintenance are specified in § 63.4568.
§ 63.8(c)(4) | CMS | No | Section 63.4568 specifies the requirements for the operation of CMS for capture systems and add-on control devices at sources using these to comply.
§ 63.8(c)(5) | COMS | No | Subpart PPPP does not have opacity or visible emission standards.
§ 63.8(c)(6) | CMS Requirements | No | Section 63.4568 specifies the requirements for monitoring systems for capture systems and add-on control devices at sources using these to comply.
§ 63.8(c)(7) | CMS Out-of-Control Periods | Yes
§ 63.8(c)(8) | CMS Out-of-Control Periods and Reporting | No | Section 63.4520 requires reporting of CMS out-of-control periods.
§ 63.8(d)-(e) | Quality Control Program and CMS Performance Evaluation | No | Subpart PPPP does not require the use of continuous emissions monitoring systems.
§ 63.8(f)(1)-(5) | Use of an Alternative Monitoring Method | Yes
§ 63.8(f)(6) | Alternative to Relative Accuracy Test | No | Subpart PPPP does not require the use of continuous emissions monitoring systems.
§ 63.8(g) | Data Reduction | No | Sections 63.4567 and 63.4568 specify monitoring data reduction.
§ 63.9(a)-(d) | Notification Requirements | Yes
§ 63.9(e) | Notification of Performance Test | Yes | Applies only to capture system and add-on control device performance tests at sources using these to comply with the standards.
§ 63.9(f) | Notification of Visible Emissions/Opacity Test | No | Subpart PPPP does not have opacity or visible emission standards.
§ 63.9(g) | Additional Notifications When Using CMS | No | Subpart PPPP does not require the use of continuous emissions monitoring systems.
§ 63.9(h)(1)-(3), (5)-(6) | Notification of Compliance Status | Yes | Section 63.4510 specifies the dates for submitting the notification of compliance status.
§ 63.9(i) | Adjustment of Submittal Deadlines | Yes
§ 63.9(j) | Change in Previous Information | Yes
§ 63.10(a) | Recordkeeping/Reporting—Applicability and General Information | Yes
§ 63.10(b)(1) | General Recordkeeping Requirements | Yes | Additional requirements are specified in §§ 63.4530 and 63.4531.
§ 63.10(b)(2)(i)-(ii) | Recordkeeping of Occurrence and Duration of Startups and Shutdowns and of Failures to Meet Standards | Yes before January 5, 2021. No on and after January 5, 2021 | See § 63.4530(h).
§ 63.10(b)(2)(iii) | Recordkeeping Relevant to Maintenance of Air Pollution Control and Monitoring Equipment | Yes
§ 63.10(b)(2)(iv)-(v) | Actions Taken to Minimize Emissions During SSM | Yes before January 5, 2021. No on and after January 5, 2021 | See § 63.4530(h)(4) for a record of actions taken to minimize emissions during a deviation from the standard.
§ 63.10(b)(2)(vi) | Recordkeeping for CMS Malfunctions | Yes before January 5, 2021. No on and after January 5, 2021 | See § 63.4530(h) for records of periods of deviation from the standard, including instances where a CMS is inoperative or out-of-control.
§ 63.10(b)(2)(vii)-(xii) | Records | Yes
§ 63.10(b)(2)(xiii) |  | No | Subpart PPPP does not require the use of continuous emissions monitoring systems.
§ 63.10(b)(2)(xiv) |  | Yes
§ 63.10(b)(3) | Recordkeeping Requirements for Applicability Determinations | Yes
§ 63.10(c)(1), (5)-(6) | Additional Recordkeeping Requirements for Sources with CMS | Yes
§ 63.10(c)(7)-(8) | Additional Recordkeeping Requirements for Sources with CMS | No | See § 63.4530(h) for records of periods of deviation from the standard, including instances where a CMS is inoperative or out-of-control.
§ 63.10(c)(10)-(14) | Additional Recordkeeping Requirements for Sources with CMS | Yes
§ 63.10(c)(15) | Records Regarding the SSMP | Yes before January 5, 2021. No on and after January 5, 2021
§ 63.10(d)(1) | General Reporting Requirements | Yes | Additional requirements are specified in § 63.4520.
§ 63.10(d)(2) | Report of Performance Test Results | Yes | Additional requirements are specified in § 63.4520(b).
§ 63.10(d)(3) | Reporting Opacity or Visible Emissions Observations | No | Subpart PPPP does not require opacity or visible emissions observations.
§ 63.10(d)(4) | Progress Reports for Sources With Compliance Extensions | Yes
§ 63.10(d)(5) | SSM Reports | Yes before January 5, 2021. No on and after January 5, 2021 | See § 63.4520(a)(7).
§ 63.10(e)(1)-(2) | Additional CMS Reports | No | Subpart PPPP does not require the use of continuous emissions monitoring systems.
§ 63.10(e)(3) | Excess Emissions/CMS Performance Reports | No | Section 63.4520(b) specifies the contents of periodic compliance reports.
§ 63.10(e)(4) | COMS Data Reports | No | Subpart PPPP does not specify requirements for opacity or COMS.
§ 63.10(f) | Recordkeeping/Reporting Waiver | Yes
§ 63.11 | Control Device Requirements/Flares | No | Subpart PPPP does not specify use of flares for compliance.
§ 63.12 | State Authority and Delegations | Yes
§ 63.13 | Addresses | Yes
§ 63.14 | IBR | Yes
§ 63.15 | Availability of Information/Confidentiality | Yes

59. Table 5 to Subpart PPPP of part 63 is added to read as follows:

Table 5 to Subpart PPPP of Part 63—List of HAP That Must Be Counted Toward Total Organic HAP Content if Present at 0.1 Percent or More by Mass
Chemical name | CAS No.
1,1,2,2-Tetrachloroethane | 79-34-5
1,1,2-Trichloroethane | 79-00-5
1,1-Dimethylhydrazine | 57-14-7
1,2-Dibromo-3-chloropropane | 96-12-8
1,2-Diphenylhydrazine | 122-66-7
1,3-Butadiene | 106-99-0
1,3-Dichloropropene | 542-75-6
1,4-Dioxane | 123-91-1
2,4,6-Trichlorophenol | 88-06-2
2,4/2,6-Dinitrotoluene (mixture) | 25321-14-6
2,4-Dinitrotoluene | 121-14-2
2,4-Toluene diamine | 95-80-7
2-Nitropropane | 79-46-9
3,3′-Dichlorobenzidine | 91-94-1
3,3′-Dimethoxybenzidine | 119-90-4
3,3′-Dimethylbenzidine | 119-93-7
4,4′-Methylene bis(2-chloroaniline) | 101-14-4
Acetaldehyde | 75-07-0
Acrylamide | 79-06-1
Acrylonitrile | 107-13-1
Allyl chloride | 107-05-1
alpha-Hexachlorocyclohexane (a-HCH) | 319-84-6
Aniline | 62-53-3
Benzene | 71-43-2
Benzidine | 92-87-5
Benzotrichloride | 98-07-7
Benzyl chloride | 100-44-7
beta-Hexachlorocyclohexane (b-HCH) | 319-85-7
Bis(2-ethylhexyl)phthalate | 117-81-7
Bis(chloromethyl)ether | 542-88-1
Bromoform | 75-25-2
Captan | 133-06-2
Carbon tetrachloride | 56-23-5
Chlordane | 57-74-9
Chlorobenzilate | 510-15-6
Chloroform | 67-66-3
Chloroprene | 126-99-8
Cresols (mixed) | 1319-77-3
DDE | 3547-04-4
Dichloroethyl ether | 111-44-4
Dichlorvos | 62-73-7
Epichlorohydrin | 106-89-8
Ethyl acrylate | 140-88-5
Ethylene dibromide | 106-93-4
Ethylene dichloride | 107-06-2
Ethylene oxide | 75-21-8
Ethylene thiourea | 96-45-7
Ethylidene dichloride (1,1-Dichloroethane) | 75-34-3
Formaldehyde | 50-00-0
Heptachlor | 76-44-8
Hexachlorobenzene | 118-74-1
Hexachlorobutadiene | 87-68-3
Hexachloroethane | 67-72-1
Hydrazine | 302-01-2
Isophorone | 78-59-1
Lindane (hexachlorocyclohexane, all isomers) | 58-89-9
m-Cresol | 108-39-4
Methylene chloride | 75-09-2
Naphthalene | 91-20-3
Nitrobenzene | 98-95-3
Nitrosodimethylamine | 62-75-9
o-Cresol | 95-48-7
o-Toluidine | 95-53-4
Parathion | 56-38-2
p-Cresol | 106-44-5
p-Dichlorobenzene | 106-46-7
Pentachloronitrobenzene | 82-68-8
Pentachlorophenol | 87-86-5
Propoxur | 114-26-1
Propylene dichloride | 78-87-5
Propylene oxide | 75-56-9
Quinoline | 91-22-5
Tetrachloroethene | 127-18-4
Toxaphene | 8001-35-2
Trichloroethylene | 79-01-6
Trifluralin | 1582-09-8
Vinyl bromide | 593-60-2
Vinyl chloride | 75-01-4
Vinylidene chloride | 75-35-4

60. Appendix A to Subpart PPPP of Part 63 is amended by revising section 1.2 to read as follows:

Appendix A to Subpart PPPP of Part 63—Determination of Weight Volatile Matter Content and Weight Solids Content of Reactive Adhesives

* * * * *

1.2 Principle: One-part and multiple-part reactive adhesives undergo a reactive conversion from liquid to solid during the application and assembly process. Reactive adhesives are applied to a single surface, but then are usually quickly covered with another mating surface to achieve a bonded assembly. The monomers employed in such systems typically react and are converted to non-volatile solids. If left uncovered, as in a EPA Method 24 (or ASTM D2369-10 (Reapproved 2015)ᵉ) test, the reaction is inhibited by the presence of oxygen and volatile loss of the reactive components competes more heavily with the cure reaction. If this were to happen under normal use conditions, the adhesives would not provide adequate performance. This method minimizes this undesirable deterioration of the adhesive performance.

* * * * *

Subpart RRRR—National Emission Standards for Hazardous Air Pollutants: Surface Coating of Metal Furniture

61. Section 63.4965 is amended by adding paragraphs (b)(1) through (3) to read as follows:

§ 63.4965 How do I determine the add-on control device emission destruction or removal efficiency?

* * * * *

(b) * * *

(1) Use EPA Method 25 to appendix A-7 to part 60 if the add-on control device is an oxidizer and you expect the total gaseous organic concentration as carbon to be more than 50 parts per million (ppm) at the control device outlet.

(2) Use EPA Method 25A to appendix A-7 to part 60 if the add-on control device is an oxidizer and you expect the total gaseous organic concentration as carbon to be 50 ppm or less at the control device outlet.

(3) Use EPA Method 25A to appendix A-7 to part 60 if the add-on control device is not an oxidizer.

* * * * *

[FR Doc. 2020-05908 Filed 7-7-20; 8:45 am]

BILLING CODE 6560-50-P